DEPARTMENT OF TRANSPORTATION

National Highway Traffic Safety Administration

49 CFR Parts 573, 577, and 579

[Docket No. NHTSA-2012-0068; Notice 2]

RIN 2127-AK72

Early Warning Reporting, Foreign Defect Reporting, and Motor Vehicle and Equipment Recall Regulations

AGENCY: National Highway Traffic Safety Administration (NHTSA), Department of Transportation (DOT).

ACTION: Final rule.

SUMMARY: NHTSA is adopting amendments to certain provisions of the early warning reporting (EWR) rule and the regulations governing motor vehicle and equipment safety recalls. The amendments to the EWR rule require light vehicle manufacturers to specify the vehicle type and the fuel and/or propulsion system type in their reports and add new component categories of stability control systems for light vehicles, buses, emergency vehicles, and medium-heavy vehicle manufacturers, and forward collision avoidance, lane departure prevention, and backover prevention for light vehicle manufacturers. These amendments will also require light vehicle manufacturers to segregate their Service Brake EWR data into two new discrete component categories. In addition, NHTSA will require motor vehicle manufacturers to report their annual list of substantially similar vehicles via the Internet.

As to safety recalls, we will now require certain manufacturers to provide a VIN-based recalls lookup tool on their Web site or the Web site of a third party; require the submission of recalls reports and information via the Internet; and require adjustments to the required content of the owner notification letters and envelopes required to be issued to owners and purchasers of recalled vehicles and equipment.

DATES: This rule is effective October 21, 2013, except the amendments to 49 CFR 573.9, 49 CFR 573.15, and 49 CFR part 579, which are effective August 20, 2014, and the amendment to 49 CFR 577.5, which is effective February 18, 2014. For more details, see SUPPLEMENTARY INFORMATION.

Petitions for Reconsideration: If you wish to petition for reconsideration of this rule, your petition must be received by October 4, 2013.

ADDRESSES: If you wish to petition for reconsideration of this rule, you should refer in your petition to the docket number of this document and submit your petition to: Administrator, National Highway Traffic Safety Administration, 1200 New Jersey Avenue SE., West Building, Washington, DC 20590.

The petition will be placed in the docket. Anyone is able to search the electronic form of all documents received into any of our dockets by the name of the individual submitting the comment (or signing the comment, if submitted on behalf of an association, business, labor union, etc.). You may review DOT's complete Privacy Act Statement in the Federal Register published on April 11, 2000 (65 FR 19477-78).

For access to the docket to read background documents or comments received, go to http://www.regulations.gov and follow the online instructions for accessing the docket. You may also visit DOT's Docket Management Facility, 1200 New Jersey Avenue SE., West Building Ground Floor, Room W12-140, Washington, DC 20590-0001 for on-line access to the docket.

FOR FURTHER INFORMATION CONTACT: For non-legal issues on EWR requirements, contact Gayle Dalrymple, Office of Defects Investigation, NHTSA (telephone: 202-366-5559). For non-legal issues on recall requirements, contact Jennifer Timian, Office of Defects Investigation, NHTSA (telephone: 202-366-0209). For legal issues, contact Andrew J. DiMarsico, Office of Chief Counsel, NHTSA (telephone: 202-366-5263). You may send mail to these officials at National Highway Traffic Safety Administration, 1200 New Jersey Avenue SE., West Building, Washington, DC 20590.

SUPPLEMENTARY INFORMATION:

Effective Dates

The effective dates of the requirements in this final rule are as follows: all amendments to the EWR rule reporting requirements, and contained within 49 CFR part 579, August 20, 2014; requirement of certain large volume light vehicle and motorcycle manufacturers to provide publicly accessible vehicle safety recall completion information, and contained within 49 CFR 573.15, August 20, 2014; requirement to submit safety recall-related reports, information, and associated documents through a secure portal on NHTSA's Web site, and contained within 49 CFR 573.9, August 20, 2014; requirement to include the standardized label on all safety recall owner notification letter envelopes, and contained within 49 CFR 577.5, February 18, 2014; all other amendments to the safety recall reporting and notification requirements addressed in this final rule, and contained within 49 CFR parts 573 and 577, October 21, 2013.

Table of Contents

I. Statutory and Regulatory Background

A. The Early Warning Reporting Rule

B. The Foreign Defect Reporting Rule

C. Domestic Safety Defect and Noncompliance Recalls

II. Summary of the NPRM

A. Summary of Our Proposals Affecting Early Warning Rule and Foreign Defect Reporting

B. Summary of Our Proposals Affecting Safety Recalls Reporting, Administration, and Execution

III. Scope of This Rulemaking

IV. How the Final Rule Differs From the NPRM

A. How the Final Rule Differs From the NPRM as to the Early Warning Reporting and Foreign Defect Reporting Proposals

B. How the Final Rule Differs From the NPRM as to the Domestic Safety Recall Proposals

V. Agency Response to Comments and Decisions

A. Decisions and Responses to Comments on Early Warning Reporting and Foreign Defect Reporting

1. Matters Considered in Adding Data Elements to Early Warning Reports

2. Vehicle Type for Light Vehicle Aggregate Data

3. Reporting by Fuel and/or Propulsion System Type

4. New Component Categories for Light Vehicles, Buses, Emergency Vehicles, and Medium-Heavy Vehicles

i. Stability Control Systems

ii. Forward Collision Avoidance and Lane Departure Prevention

iii. Segregate “Service Brakes” Category Into Two New Categories, “Foundation Brakes” and “Automatic Brake Controls”

iv. Backover Prevention

5. Proposed EWR Reporting Templates

6. Electronic Submission of Annual Substantially Similar Vehicle Lists

B. Decisions and Responses to Comments on Domestic Safety Recall Requirements

1. Public Availability of Vehicle Recall Completion Information

i. Who Is Required To Provide Publicly Accessible Vehicle Safety Recall Completion Information

ii. Decision To Adopt Alternative Proposal To Require Covered Manufacturers To Provide Vehicle Safety Recall Completion Information on Their Own or a Third Party's Internet Site

iii. Scope of the Safety Recalls Information That Covered Vehicle Manufacturers Must Make Available

iv. Miscellaneous Comments to the NPRM and Agency Responses

v. Specific Criteria for Manufacturer Safety Recalls Lookup Completion Tools

2. Requirements Related to the Information Required To Be Submitted in a Part 573 Defect and Noncompliance Information Report

i. An Identification and Description of the Risk Associated With the Safety Defect or Noncompliance with FMVSS

ii. As to Motor Vehicle Equipment Recalls, the Brand Name, Model Name, and Model Number of the Equipment Recalled

iii. Disclaimers in Part 573 Defect and Noncompliance Information Report

3. Internet Submission of Recall-Related Reports, Information, and Associated Documents and Recall Reporting Templates

4. Amendments to Defect and Noncompliance Notification Requirements Under Part 577

i. 60-Day Requirement to Mail Part 577 Owner Notification Letters

ii. “IMPORTANT SAFETY RECALL” on Owner Notification Letters

iii. Inclusion of Vehicle Identification Numbers in Owner Notification Letters

iv. Inclusion of Standardized Label on Owner Notification Letter Envelopes

5. Requirements for Manufacturers to Keep NHTSA Informed of Changes and Updates in Defect and Noncompliance Information Reports

i. Submission of Information Not Available at the Time of the Initial Part 573 Report, and Amended Information, Within Five Working Days

ii. 90-Day Review of Part 573 Information Report for Completeness and Accuracy

6. Requirement To Notify NHTSA in the Event of Filing of Bankruptcy Petition of a Recalling Manufacturer

VI. Lead Time

VII. Privacy Act Statement

VIII. Rulemaking Analyses and Notices

A. Regulatory Policies and Procedures

B. Regulatory Flexibility Act

C. Executive Order 13132 (Federalism)

D. Unfunded Mandates Reform Act

E. Executive Order 12988 (Civil Justice Reform)

F. Paperwork Reduction Act

1. Part 579 Collection

2. Parts 573 and 577 Collections

G. Executive Order 13045

H. Regulation Identifier Number (RIN)

I. Data Quality Act

J. Executive Order 13609

K. National Environmental Policy Act

Regulatory Text

I. Statutory and Regulatory Background

A. The Early Warning Reporting Rule

In 2000, Congress enacted the Transportation Recall Enhancement, Accountability, and Documentation (TREAD) Act. Public Law 106-414. Up until the TREAD Act's enactment, NHTSA relied primarily on analyses of complaints from consumers and technical service bulletins (TSBs) from manufacturers to identify potential safety related defects in motor vehicles and motor vehicle equipment. Congress concluded that NHTSA did not have access to data that may provide an earlier warning of safety defects or information related to foreign recalls and safety campaigns. Accordingly, the TREAD Act required that NHTSA prescribe rules requiring motor vehicle and equipment manufacturers to submit certain information to NHTSA that would assist identifying potential safety related defects and to require manufacturers to submit reports on foreign defects and safety campaigns. See 49 U.S.C. 30166(m) and (l).

On July 10, 2002, NHTSA published its Early Warning Reporting (EWR) regulations requiring that motor vehicle and equipment manufacturers provide certain early warning data. 49 CFR part 579, subpart C; see 67 FR 45822. The EWR rule requires quarterly reporting of early warning information: production information; information on incidents involving death or injury; aggregate data on property damage claims, consumer complaints, warranty claims, and field reports; and copies of field reports (other than dealer reports and product evaluation reports) involving specified vehicle components, a fire, or a rollover.

As described more fully in the section, below, EWR requirements vary somewhat depending on the nature of the reporting entity (motor vehicle manufacturers, child restraint system manufacturers, tire manufacturers, and other equipment manufacturers) and the annual production of the entity. The EWR information NHTSA receives is stored in a database, called Artemis, which also contains additional information (e.g., domestic and foreign recall details and complaints filed directly by consumers) related to defects and investigations.

The Early Warning Division of the Office of Defects Investigation (ODI) reviews and analyzes a huge volume of early warning data and documents submitted by manufacturers. Using its traditional sources of information, such as consumer complaints from vehicle owner questionnaires (VOQs) and manufacturers' own communications, and the additional information provided by EWR submissions, ODI investigates potential safety defects. These investigations often result in recalls.

In the last several years, the agency published two amendments to the EWR regulations. On May 29, 2007, NHTSA made three changes to the EWR rule. 72 FR 29435. First, the definition of “fire” was amended to more accurately capture fire-related events. 72 FR 29443. Second, the agency eliminated the requirement to produce hard copies of a subset of field reports known as “product evaluation reports.” Id. Last, the agency limited the time that manufacturers must update a missing vehicle identification number (VIN)/tire identification number (TIN) information or a component in a death or injury incident to a period of no more than one year after NHTSA receives the initial report. 72 FR 29444. On December 5, 2008, NHTSA issued a notice of proposed rulemaking (NPRM) which was followed in September 2009 by a final rule that modified the reporting threshold for light vehicle, bus, medium-heavy vehicle (excluding emergency vehicles), motorcycle and trailer manufacturers' quarterly EWR reports. See 73 FR 74101 (December 5, 2008); 74 FR 47740, 47757-58 (September 17, 2009). This rule further required manufacturers to submit EWR reports with consistent product names from quarter to quarter and amended part 573 Defect and Noncompliance Responsibility and Reports to require tire manufacturers to provide tire identification number ranges for recalled tires. 74 FR 47757-58. The final rule also stated that manufacturers must provide the country of origin for a recalled component. Id. Last, the rule amended the definition of “other safety campaign” to be consistent with the definition of “customer satisfaction campaign.” Id.

The September 2009 rule did not address several proposals in the preceding December 2008 NPRM. Those proposals sought to require light vehicle manufacturers to include the vehicle type in the aggregate portion of their quarterly EWR reports, report on use of electronic stability control in light vehicles, and specify fuel and/or propulsion systems when providing model designations. Id. The agency decided to issue a separate rulemaking addressing some of the foregoing proposals to obtain more meaningful comments. See 74 FR 47744. This final rule addresses those proposals raised in the December 2008 NPRM not resolved by the September 2009 final rule.

Under the early warning reporting requirements of the TREAD Act, NHTSA is required to issue a rule establishing reporting requirements for manufacturers of motor vehicles and motor vehicle equipment to enhance the agency's ability to carry out the provisions of Chapter 301 of Title 49, United States Code, which is commonly referred to as the National Traffic and Motor Vehicle Safety Act or as the Safety Act. See 49 U.S.C. 30166(m)(1), (2). Under one subsection of the early warning provisions, NHTSA is to require reports of information in the manufacturers' possession to the extent that such information may assist in the identification of safety-related defects and which concern, inter alia, data on claims for deaths and aggregate statistical data on property damage. 49 U.S.C. 30166(m)(3)(A)(i); see also 49 U.S.C. 30166(m)(3)(C). Another subsection, specifically 30166(m)(3)(B), authorizes the agency to require manufacturers to report information that may assist in the identification of safety defects. Specifically, section 30166(m)(3)(B) states: “As part of the final rule . . . the Secretary may, to the extent that such information may assist in the identification of defects related to motor vehicle safety in motor vehicles and motor vehicle equipment in the United States, require manufacturers of motor vehicles or motor vehicle equipment to report, periodically or upon request of the Secretary, such information as the Secretary may request.” This subsection conveys substantial authority and discretion to the agency. Most EWR data, with the exception of information on deaths and property damage claims, is reported under regulations authorized by this provision.

The agency's discretion is not unfettered. Per 49 U.S.C. 30166(m)(4)(D), NHTSA may not impose undue burdens upon manufacturers, taking into account the cost incurred by manufacturers to report EWR data and the agency's ability to use the EWR data meaningfully to assist in the identification of safety defects.

The EWR regulation divides manufacturers of motor vehicles and motor vehicle equipment into two groups with different reporting responsibilities for reporting information. The first group consists of: (a) Larger vehicle manufacturers that meet certain production thresholds that produce light vehicles, buses, emergency vehicles, medium-heavy vehicles, trailers and/or motorcycles; (b) tire manufacturers that produce over a certain number per tire line; and (c) all manufacturers of child restraints. Light vehicle, motorcycle, trailer and medium-heavy vehicle manufacturers except buses and emergency vehicles that produced, imported, offered for sale, or sold 5,000 or more vehicles annually in the United States are required to report comprehensive reports every calendar quarter. Emergency vehicle manufacturers must report if they produced, imported, offered for sale, or sold 500 or more vehicles annually and bus manufacturers must report if they produced, imported or offered for sale, or sold 100 or more buses annually in the United States. Passenger car tire, light truck tire and motorcycle tire manufacturers that produced, imported, offered for sale, or sold 15,000 or more tires per tire line are also required to provide comprehensive quarterly reports. The first group must provide comprehensive reports every calendar quarter. 49 CFR 579.21-579.26. The second group consists of all other manufacturers of motor vehicles and motor vehicle equipment (i.e., vehicle manufacturers that produce, import, or sell in the United States fewer than 5,000 light vehicles, medium-heavy vehicles (excluding emergency vehicles and buses), motorcycles, or trailers annually; vehicle manufacturers that produce, import, or sell in the United States fewer than 500 emergency vehicles annually; vehicle manufacturers that produce, import, or sell in the United States fewer than 100 buses annually; manufacturers of original motor vehicle equipment; and manufacturers of replacement motor vehicle equipment other than child restraint systems and tires). The second group has limited reporting responsibility.¹ 49 CFR 579.27.

¹ In contrast to the comprehensive quarterly reports provided by manufacturers in the first group, the second group of manufacturers does not have to provide quarterly reports. These manufacturers only submit information about a death incident when they receive a claim or notice of a death.

Light vehicle, bus, emergency vehicle and medium-heavy vehicle manufacturers must provide information relating to:

• Production (the cumulative total of vehicles or items of equipment manufactured in the year).

• Incidents involving death or injury based on claims and notices received by the manufacturer.

• Claims relating to property damage received by the manufacturer.

• Consumer complaints (a communication by a consumer to the manufacturer that expresses dissatisfaction with the manufacturer's product or performance of its product or an alleged defect).

• Warranty claims paid by the manufacturer pursuant to a warranty program (in the tire industry these are warranty adjustment claims).

• Field reports (a report prepared by an employee or representative of the manufacturer concerning the failure, malfunction, lack of durability or other performance problem of a motor vehicle or item of motor vehicle equipment).

For property damage claims, warranty claims, consumer complaints and field reports, light vehicle, bus, emergency vehicle and medium-heavy vehicle manufacturers submit information in the form of numerical tallies, by specified system and component. These data are referred to as aggregate data. Reports on deaths or injuries contain specified data elements. In addition, light vehicle, bus, emergency vehicle and medium-heavy vehicle manufacturers are required to submit copies of field reports, except for dealer and product evaluation reports.

On a quarterly basis, vehicle and equipment manufacturers meeting the production thresholds discussed above must provide comprehensive reports for each make and model for the calendar year of the report and nine previous model years for vehicles and four years for equipment. The vehicle systems or components on which manufacturers provide information vary depending upon the type of vehicle or equipment manufactured. Light vehicle manufacturers must provide reports on twenty (20) vehicle components or systems: steering, suspension, service brake, parking brake, engine and engine cooling system, fuel system, power train, electrical system, exterior lighting, visibility, air bags, seat belts, structure, latch, vehicle speed control, tires, wheels, seats, fire and rollover. Bus, emergency vehicle and medium-heavy vehicle manufacturers must provide reports on an additional four (4) vehicle components or systems: service brake air, fuel system diesel, fuel system other, and trailer hitch.²

² Manufacturers of motorcycles, trailers, child restraints and tires report on varying systems and components. See 49 CFR 579.23-26.

B. The Foreign Defect Reporting Rule

The TREAD Act also amended 49 U.S.C. 30166 to add a new subsection (l) to address reporting of foreign defects and other safety campaigns by vehicle and equipment manufacturers. This section requires manufacturers of motor vehicles or items of motor vehicle equipment to notify NHTSA if the manufacturer or a foreign government determines that the manufacturer should conduct a recall or other safety campaign on a motor vehicle or item of motor vehicle equipment that is identical or substantially similar to a motor vehicle or item of motor vehicle equipment offered for sale in the United States. 49 U.S.C. 30166(l). Subsection (l) does not define “identical” or the term “substantially similar.” Under the TREAD Act's foreign defect reporting provisions, NHTSA is to specify the contents of the notification. Id.

On October 11, 2002, NHTSA published regulations implementing foreign motor vehicle and product defect reporting provisions of the TREAD Act, 49 U.S.C. 30166(l). 67 FR 63295, 63310; 49 CFR part 579, subpart B. The Foreign Defect Reporting rule requires certain motor vehicle manufacturers and motor vehicle equipment manufacturers to report information and submit documents to NHTSA when a manufacturer or a foreign government determines that a safety recall or other safety campaign should be conducted in a foreign country for products that are identical or substantially similar to vehicles or items of equipment sold or offered for sale in the United States. 49 U.S.C. 30166(l)(1) & (2). To assist the agency's program implementation, manufacturers must submit an annual list of substantially similar vehicles to NHTSA. 49 CFR 579.11(e). This list is due by November 1 of each year. Manufacturers may submit their substantially similar vehicle list by mail, facsimile or by email. 49 CFR 579.6(a). NHTSA offers a Microsoft Excel template on its Web site http://www.safercar.gov/ that manufacturers can download and use to upload their substantially similar lists directly to NHTSA's Artemis database. The vast majority of manufacturers submit their substantially similar list by uploading the template directly to the agency.

C. Domestic Safety Defect and Noncompliance Recalls

Pursuant to 49 U.S.C. 30118 and 30119, manufacturers are required to provide notice to the Secretary if the manufacturer determines that a motor vehicle or item of motor vehicle equipment contains a defect related to motor vehicle safety or does not comply with an applicable motor vehicle safety standard. The regulation implementing the manufacturer's requirement to provide notice to NHTSA is located at 49 CFR part 573 Defect and Noncompliance Responsibility and Reports, which, among other things, requires manufacturers to provide reports (commonly referred to as Defect or Noncompliance reports, or part 573 Information Reports, as the case may be) to NHTSA on defects in motor vehicles and motor vehicle equipment and noncompliances with motor vehicle safety standards found in 49 CFR part 571.

Section 573.6 specifies the information that manufacturers are required to submit to the agency and § 573.9 specifies the address for submitting reports. One element is the identification of the vehicles containing the defect or noncompliance. Section 573.6(c)(2)(i) requires manufacturers to identify passenger cars by the make, line, model year, the dates of manufacture and other information as necessary to describe the vehicles. For all other vehicles, § 573.6(c)(2)(ii) requires manufacturers to identify the vehicles by body style or type, dates of manufacture and any other information as necessary to describe the vehicle, such as the GVWR. Section 573.6(c)(3) requires manufacturers to submit the total number of vehicles that potentially contain the defect or noncompliance.

Section 573.8 requires manufacturers to maintain lists of VINs of the vehicles involved in a recall as well as the remedy status for each vehicle to be included in a manufacturer's quarterly reporting as specified in § 573.7.

The Safety Act also requires manufacturers of motor vehicles or items of motor vehicle equipment to notify NHTSA and owners and purchasers of the vehicle or equipment if the manufacturer determines that a motor vehicle or item of motor vehicle equipment contains a defect related to motor vehicle safety or does not comply with an applicable motor vehicle safety standard. 49 U.S.C. 30118(c). Manufacturers must provide notification pursuant to the procedures set forth in section 30119 of the Safety Act. Section 30119 sets forth the contents of the notification, which includes a clear description of the defect or noncompliance, the timing of the notification, means of providing notification and when a second notification is required. 49 U.S.C. 30119. Subsection (a) of section 30119 confers considerable authority and discretion on NHTSA, by rulemaking, to require additional information in a manufacturer's notification. See 49 U.S.C. 30119(a)(7).

The conduct of a recall notification campaign, including how and when owners, dealers, and distributors are notified, is addressed by regulation in 49 CFR part 577, Defect and Noncompliance Notification. Section 577.5 specifies required content and structure of the owner notifications. Section 577.13 specifies required content for dealer and distributor notifications. Section 577.7 dictates the time and manner of these notifications.

In July 2012, Congress enacted the Moving Ahead for Progress in the 21st Century (MAP-21) Act. See Public Law 112-141, 126 Stat 405 (July 6, 2012). Sections 31301 of the MAP-21 Act mandates that the Secretary require that motor vehicle safety recall information be made available to the public on the Internet, and it provides authority to the Secretary, in his discretion, to conduct a rulemaking to require each manufacturer to provide its safety recall information on a publicly accessible Internet Web site. Under section 31301(a), Congress has directed the Secretary to require motor vehicle safety information be available on the Internet, searchable by vehicle make, model and VIN, preserves consumer privacy and includes information regarding completion of the particular recall. Section 31301(b) authorizes the Secretary, in his discretion, to conduct a rulemaking requiring manufacturers to provide the safety recall information in paragraph (a) on a publicly accessible Internet Web site. Specifically, section 31301(a) states:

(a) VEHICLE RECALL INFORMATION.—Not later than 1 year after the date of enactment of this Act, the Secretary shall require that motor vehicle safety recall information—

(1) be available to the public on the Internet;

(2) be searchable by vehicle make and model and vehicle identification number;

(3) be in a format that preserves consumer privacy; and

(4) includes information about each recall that has not been completed for each vehicle.

Section 31301(a) did not directly speak to the mechanism for implementing its requirements, leaving the agency to use its discretion to fill any ambiguity. Paragraph (a) is silent with respect to who is required to make safety recall information available, which manufacturers are subject to the requirement, the types of safety information to be made available, and how and when the information is placed on the Internet.

Paragraph (b) provides the Secretary with the authority to conduct a rulemaking to provide the information in subsection (a) and provides limited instructions as to the scope of any such rulemaking and sharing such information with automobile dealers and consumers. Section 31301(b) states:

(b) RULEMAKING.—The Secretary may initiate a rulemaking proceeding to require each manufacturer to provide the information described in subsection (a), with respect to that manufacturer's motor vehicles, on a publicly accessible Internet Web site. Any rules promulgated under this subsection—

(1) shall limit the information that must be made available under this section to include only those recalls issued not more than 15 years prior to the date of enactment of [MAP-21].

(2) may require information under paragraph (1) to be provided to a dealer or an owner of a vehicle at no charge; and

(3) shall permit a manufacturer a reasonable period of time after receiving information from a dealer with respect to a vehicle to update the information about the vehicle on the publicly accessible Internet Web site.

Similar to paragraph (a) of 31301, paragraph (b) vests considerable discretion in the agency to conduct a rulemaking to meet the statutory goals of section 31301.

The MAP-21 Act further specifies that a manufacturer's filing of a bankruptcy petition under Chapter 11 of Title 11 of the United States Code, does not negate its duty to comply with, among other things, the defect and noncompliance notification and reporting obligations, and the requirement to provide a free remedy, under the Safety Act.

II. Summary of the NPRM

A. Summary of Our Proposals Affecting Early Warning Rule and Foreign Defect Reporting

The early warning reporting (EWR) rule requires certain manufacturers of motor vehicles and motor vehicle equipment to submit information to NHTSA. 49 CFR part 579, subpart C. The EWR rule divides vehicle manufacturers into different segments based upon weight or vehicle application. These segments are light vehicles, buses, emergency vehicles, medium-heavy vehicles, motorcycles and trailers. The proposed amendments to the EWR rule concern light vehicles, buses, emergency vehicles, and medium-heavy vehicles.

We proposed requiring light vehicle manufacturers to report vehicle type in their death and injury and aggregate reports. Under the current EWR rule, light vehicle manufacturers submit vehicle type as part of production reports, but do not report vehicle types in either their death and injury reports or their aggregate reports. We proposed a solution to this inconsistency.

We proposed to require reporting on additional components in the light vehicle, bus, emergency vehicle, and medium-heavy vehicle component categories and to amend the light vehicle, bus, emergency vehicle, and medium-heavy vehicle reporting templates.

We proposed to add a requirement that light vehicle manufacturers provide the fuel and/or propulsion system type for nine (9) different fuel and/or propulsion system types. In addition, the proposal would add definitions for each fuel and/or propulsion system.

Furthermore, we proposed to add four (4) new light vehicle and one (1) new medium-heavy vehicle component reporting categories. The new light vehicle component categories are electronic stability control, forward collision avoidance, lane departure prevention, and backover prevention; the new medium-heavy vehicle component category is stability control/roll stability control. We also proposed new definitions for each of these components. We also proposed to correct a minor inconsistency in light vehicle manufacturer reporting of vehicle types to capture several recently introduced light vehicle technologies.

We proposed and requested comments on amendments to a manufacturer's reporting requirements related to safety recalls and other safety campaigns in foreign countries under subpart B of part 579. We proposed to standardize the manner of submitting annual lists of substantially similar vehicles under § 579.11(e) by uploading them, via a secure internet connection, to NHTSA's Artemis database using a template provided on NHTSA's EWR Web site. Currently, manufacturers may submit their substantially similar lists by mail, facsimile or email. See 49 CFR 579.6(a).

B. Summary of Our Proposals Affecting Safety Recalls Reporting, Administration, and Execution

The NPRM proposed changes and additions to the regulations governing recalls, 49 CFR Part 573, Defect and Noncompliance Responsibility and Reports, and 49 CFR Part 577, Defect and Noncompliance Notification.

We proposed a number of measures in an effort to improve the information the agency receives from recalling manufacturers concerning the motor vehicles and equipment they are recalling and the plans for remedying those products, in addition to distribution of that information to the affected public.

First, for motor vehicle recalls, and in accordance with the MAP-21 Act, we proposed to adopt regulations that would implement MAP-21's mandate that the Secretary require motor vehicle safety recall information be made available to the public on the Internet, be searchable by vehicle make and model and vehicle identification number (VIN), be in a format that preserves consumer privacy, and includes information about each recall that has not been completed for each vehicle. See MAP-21 Act, Public Law 112-141, § 31301, 126 Stat 405, 763 (July 6, 2012). The Secretary was given the discretion to engage in rulemaking to require a manufacturer to provide the information above on vehicles it manufacturers on a publicly accessible Internet Web site. Id. at section 31301(b). We proposed to exercise the authority given the Secretary in sections (a) and (b), not only to meet the Act's mandate, but to increase the numbers of motor vehicles remedied under safety recall campaigns which, in turn, will serve to reduce the risk of incidents, as well as injuries or fatalities, associated with vehicles that contain safety defects or fail to meet minimum FMVSS.

To meet MAP-21, and increase the number of motor vehicles remedied under safety recall campaigns, the agency proposed to offer vehicle owners and prospective purchasers an enhanced vehicle recalls search tool through its Web site, www.safercar.gov, that would go beyond the current functionality to search by specific make and model vehicle, and would offer a VIN-based search function that would report back whether a vehicle has been subject to a safety recall, and whether that vehicle has had the manufacturer's free remedy performed.

In order to gather the information necessary for us to provide this enhanced functionality, we proposed to require larger volume, light vehicle manufacturers to submit the VINs for vehicles affected by a safety recall to NHTSA. We further proposed to require these manufacturers to submit to NHTSA recall remedy completion information on those vehicles, again supplied by VIN, that would be updated at least once daily so that our search tool had “real time” information that could inform owners and other interested parties if a recall is outstanding on a vehicle. In our effort to improve the information received from recalling manufacturers, and so NHTSA could better understand and process recalls, we proposed to require certain additional items of information from recalling manufacturers. These additional items included an identification and description of the risk associated with the safety defect or noncompliance with a FMVSS, and, as to motor vehicle equipment recalls, the brand name, model name, and model number, of the equipment recalled. We also proposed that manufacturers be prohibited from including disclaimers in their part 573 information reports.

Similarly, as part of our effort to ensure we are apprised of information related to safety recalls, we proposed that manufacturers update their Part 573 Reports with information missing from the initial report, or newly updated information, within five working days of learning the information. We also proposed that, within 90 days of a recall's available remedy, the manufacturer review its Part 573 Report for completeness and accuracy and supplement or amend it as necessary to comply with part 573.

We proposed to require manufacturers to submit through a secure, agency-owned and managed web-based application, all recall-related reports, information, and associated documents. We explained that we believed this would improve our efficiency and accuracy in collecting and processing important recalls information and then distributing it to the public. It would also reduce a current and significant allocation of agency resources spent translating and processing the same information that is currently submitted in a free text fashion, whether that text is delivered via a hard copy, mailed submission, or delivered electronically through email.

In order to ensure that owners are promptly notified of safety defects and failures to meet minimum safety standards, we proposed to specify that manufacturers notify owners and purchasers no later than 60 days after a safety defect or noncompliance decision is made. In the event the free remedy is not available at the time of notification, we proposed that manufacturers be required to issue a second notification to owners and purchasers once that remedy is available.

In an effort to encourage owners to have recall repairs made to their vehicles and vehicle equipment, we proposed additional requirements governing the content and formatting of owner notification letters and the envelopes in which they are mailed in an effort to improve the number of vehicles that receive a remedy under a recall. We proposed that all letters include “URGENT SAFETY RECALL” in all capital letters and in an enlarged font at the top of those letters, and that for vehicle recalls, the manufacturer place the VIN of the owner's vehicle affected by the safety defect or noncompliance, within the letter. To further emphasize the importance of the communication, and to distinguish it from other commercial communications, we proposed that the envelopes in which the letters are mailed be stamped with the logos of the National Highway Traffic Safety Administration and the U.S. Department of Transportation, along with a statement that the letter is an important safety recall notice issued in accordance with Federal law.

Lastly, we proposed to add a requirement for manufacturers to notify the agency in the event they file for bankruptcy. We explained that this requirement would help us preserve our ability to take necessary and appropriate measures to ensure recalling manufacturers, or others such as corporate successors, continue to honor obligations to provide free remedies to owners of unsafe vehicle and equipment products.

III. Scope of This Rulemaking

Today's final rule is limited in scope to amendments to the EWR requirements, the foreign defect reporting rule, and to the requirements associated with safety recall reporting, administration, and execution as delineated in parts 573 and 577 of Title 49 of the Code of Federal Regulations. Apart from the following changes noted below in the summary section, NHTSA intends to leave the remaining current EWR, foreign defect reporting regulations, and safety recalls implementing regulations parts 573, 577 and 579 unchanged.

IV. How the Final Rule Differs From the NPRM

A. How the Final Rule Differs From the NPRM as to the Early Warning Reporting and Foreign Defect Reporting Proposals

• We are implementing a one-year lead time from the date this final rule is published for the electronic-only submission of annual substantially similar vehicle listings, § 579.11(e).

• We are subdividing the light vehicle Service Brakes component code into Foundation Braking Systems and Automatic Brake Controls.

B. How the Final Rule Differs From the NPRM as to the Domestic Safety Recall Proposals

• We did not adopt the requirement that large, light vehicle manufacturers report recalled VINs to NHTSA.

• We adopted the alternative proposal that requires large, light vehicle manufacturers to provide a VIN-based recall lookup tool on their Internet Web sites that meets certain performance-based criteria.

• We did not adopt the prohibition against the use of disclaimers, or language that disavows the presence of a safety-related defect or noncompliance, in a manufacturer's Part 573 Information Report.

• We did not adopt the requirement that manufacturers review their Part 573 Information Reports for completeness and accuracy 90-days after launching the recall remedy campaign.

• We adopted with slight changes the requirement that a manufacturer update and submit new information to its Part 573 Information Report. Today's rule requires updates and new information within five (5) working days from when the manufacturer has confirmed the accuracy of the information, which is different than our proposal to require that the information be submitted within five (5) days of becoming available.

• We adopted the proposal to mandate the use of a specific label on the envelopes containing the manufacturer's notification to an owner, but agree with commenters that manufacturers have the discretion to decide where to place the label on the front of the envelope.

• We adopted the proposal to require vehicle manufacturers to place the vehicle's VIN in the notification to that vehicle's owner, but leave to their discretion where in that letter to place this information.

V. Agency Response to Comments and Decisions

A. Decisions and Responses to Comments on Early Warning Reporting and Foreign Defect Reporting

NHTSA received comments from 12 parties on proposals affecting EWR and Foreign Defect Reporting. These commenters were Advocates for Highway and Auto Safety (the Advocates), Alliance of Automobile Manufacturers (the Alliance), American Honda Motor Co, Inc. (Honda), American Suzuki Motor Co, Inc (Suzuki), Association of Global Automakers, Inc. (Global), Center for Auto Safety (CAS), Ford Motor Company (Ford), Law Office of Hogan Lovells US LLP representing Mercedes-Benz USA (MBUSA), Motor & Equipment Manufacturers Association (MEMA), National Association of Trailer Manufacturers (NATM), Quality Control Systems Corporation (QCSC), and Toyota Motor North America, Inc. (Toyota). The specific comments of each entity will be discussed below for each topic to which they responded.

1. Matters Considered in Adding Data Elements to Early Warning Reports

Under EWR, we endeavor to collect a body of information that may assist in the identification of potential safety-related defects in motor vehicles and motor vehicle equipment. When we believe that the EWR information may be refined or enhanced to further advance our goal of identifying safety defects, we consider factors that are relevant to the particular area of EWR under consideration. In view of our broad statutory authority to require reporting of information that may assist in the identification of potential safety-related defects, we do not believe that it is necessary or appropriate to identify a prescriptive list of factors for delineating particular data elements. Nonetheless, based on our experience, the following considerations, among other things, have been identified as relevant to evaluating whether or not adding data elements to light vehicle, bus, emergency vehicle and medium-heavy vehicle reporting would assist in identifying safety-related defects:

• The importance of the data to motor vehicle safety.

• The maturity of a particular technology and its market penetration.

• Whether the current component categories are adequate to capture information related to proposed data elements.

• Whether ODI has investigated or been notified of vehicle recalls related to the proposed data elements.

• Whether VOQ complaints related to the data elements have been useful in opening investigations into potential safety-related defects and whether those investigations have resulted or may result in recalls.

• Whether manufacturers collect information on the proposed data elements.

• The burden on manufacturers.

We emphasize that the general approach of the EWR program is to collect data on numerous systems and components in a very wide range and volume of vehicles for the agency to then systematically review information, with the end result being the identification of a relatively small number of potential safety problems, compared to the amount of data collected and reviewed. These data are considered along with other information collected by and available to the agency in deciding whether to open investigations.

The following sections discuss the new EWR component codes that were proposed in the NPRM, the comments we received to each and our response.

2. Vehicle Type for Light Vehicle Aggregate Data

The EWR regulation requires light vehicle manufacturers producing 5,000 or more vehicles annually to submit production information including the make, the model, the model year, the type, the platform and the number of vehicles produced. 49 CFR 579.21(a). Manufacturers must provide the production as a cumulative total for the model year, unless production of the product has ceased. Id. While light vehicle manufacturers are required to provide the type of vehicle with their production, they are not required to provide the type of vehicle when they submit death and injury data pursuant to 49 CFR 579.21(b) or with aggregate data under 49 CFR 579.21(c).³ The NPRM proposed to amend § 579.21(b) and (c) to require light vehicle manufacturers to provide the type of vehicle when they submit their death and injury data and aggregate data under those sections. We also proposed to amend the light vehicle reporting templates for the EWR death and injury and aggregate reports to reflect adding vehicle type and provided exemplar light vehicle templates in Appendix A.

³ For light vehicles, type means the certification by a manufacturer pursuant to 49 CFR 567.4(g)(7) as to whether a vehicle is a passenger car, multipurpose passenger vehicle, or truck or a vehicle identified by its manufacturer as an incomplete vehicle pursuant to 48 CFR 568.4. See 49 CFR 579.4.

We believe this change will assist ODI to identify potential safety-related defects by making light vehicle EWR data received internally consistent. Because light vehicle manufacturers providing quarterly EWR reports are not obligated to provide the vehicle type in their death and injury and aggregate EWR reports, NHTSA is unable to distinguish whether the light vehicle death and injury and aggregate data are associated with certain vehicle types such as passenger cars, multi-purpose vehicles, light trucks or incomplete vehicles. Without being able to isolate this information by vehicle type, ODI cannot match aggregate data accurately with production data.

The Advocates, the Alliance, Ford, and Toyota commented specifically on the proposal to amend § 579.21(b) and (c) to require light vehicle manufacturers to include the type code in the death/injury and aggregate data. The Advocates supported the addition and concurred with the agency's position that this would impose minimal burden on manufacturers. Toyota indicated that they could determine the vehicle type from vehicle model; while Ford indicated that including the type code would increase the number of records in their submissions from 18 to 33 (but did not object to the addition). The Alliance did not object to the proposal and believes the related costs are relatively modest. However, the Alliance offered the opinion, and Ford concurred, that creating a vehicle type “UN” for “unknown” may lead to a conflict in Artemis because there will be no production volume for model line “unknown.” The agency notes that a vehicle type “UN” will be an exception case for Death/Injury records where the VIN is not available; likewise, these records would be excluded from the data consistency check. The same goes for aggregate records—“unknown” records will be excluded for data validation. This is similar to the current processing for Child Restraints in the case where the Production Year is 9999 (or unknown).

We believe the addition of the vehicle type code in paragraphs (a), (b), and (c) of § 579.21 will improve our ability to identify potential safety-related defects. No commenters objected to the inclusion of the type code in light vehicle reporting. Accordingly, NHTSA will adopt this proposal as written in the NPRM, with minor revisions to the wording of the regulatory text that do not change the meaning of the proposed text.

3. Reporting by Fuel and/or Propulsion System Type

Currently, the EWR regulation requires light vehicle manufacturers to report the required information by make, model and model year. 49 CFR 579.21(a), (b)(2), (c). The rule also requires light vehicle manufacturers to subdivide their EWR death and injury and aggregate reports by components. 49 CFR 579.21(b)(2), (c). Reporting by make, model and model year and component categories have remained unchanged since the EWR regulation was published in July 2002. Since that time, manufacturers have introduced new technologies to meet the demand for more fuel efficient vehicles. Currently, light vehicle manufacturers do not identify the specific fuel or propulsion system used in their vehicles. As use of these new technologies expands, we are concerned that the current EWR reporting scheme is not sufficiently sensitive to readily identify vehicles with different fuel and/or propulsion system types. For example, some models, such as the Toyota Camry, are offered with both conventional and hybrid propulsion systems.

The recently issued Corporate Average Fuel Economy (CAFE) standards will spur manufacturers to increasingly produce fuel efficient vehicles employing various technologies. Following the direction set by President Obama on May 21, 2010, NHTSA and the Environmental Protection Agency (EPA) have published final rules for Fuel Economy and Greenhouse Gas emissions regulations for model year (MY) 2017-2025 light-duty vehicles. NHTSA believes that to meet the new CAFE standards, manufacturers will increase their production of light vehicles with alternate fuel and/or propulsion systems that could raise new safety issues not currently accounted for in the EWR regulatory scheme.

Therefore, as the automotive industry begins to introduce and produce more vehicles with new propulsion systems, NHTSA believes now is an opportune time to start collecting EWR information to assist in identifying potential defects in these new systems. As currently configured, the EWR reporting structure may mask potential problems with these systems. NHTSA is currently unable to discern from EWR data whether a particular vehicle problem is unique to a particular fuel or propulsion system. Currently, problems with a particular make and model that may be unique to one fuel and/or propulsion system could be readily distinguished from problems that may apply to that make and model regardless of the fuel and/or propulsion system. The final rule will permit NHTSA to investigate safety concerns in many makes and models with similar fuel and/or propulsion systems (e.g., a battery problem in a plug-in electric vehicle or a hydrogen fuel cell problem that may extend to similarly equipped vehicles).

We believe that adding the appropriate fuel and/or propulsion system type to EWR will enhance NHTSA's ability to identify and address potential safety defects related to specific fuel and/or propulsion systems.

In the NPRM, the agency proposed to amend 49 CFR 579.21(a), (b), and (c) to require light vehicle manufacturers to provide the type of fuel and/or propulsion system when they submit their EWR data and to update accordingly the light vehicle reporting templates for the EWR production information, death and injury, and aggregate data to reflect adding fuel and/or propulsion type. Also, a new definition of “fuel and/or propulsion system type” was proposed for 49 CFR 579.4: “fuel and/or propulsion system type means the variety of fuel and/or propulsion systems used in a vehicle, as follows: compressed natural gas (CNG); compression ignition fuel (CIF); electric battery power (EBP); fuel-cell power (FCP); hybrid electric vehicle (HEV); hydrogen based power (HBP); plug-in hybrid (PHV); and spark ignition fuel (SIF).” Manufacturers would identify the fuel and/or propulsion system on the EWR template in the appropriate field. In addition to amending § 579.4 to add “fuel and/or propulsion system type”, the NPRM proposed definitions for each of the following fuel or propulsion system types:

• Compressed natural gas (CNG) means a system that uses compressed natural gas to propel a motor vehicle.

• Compression ignition Fuel (CIF) means a system that uses diesel or any diesel-based fuels to propel a motor vehicle. This includes biodiesel.

• Electric battery power (EBP) means a system that uses only batteries to power an electric motor to propel a motor vehicle.

• Fuel-cell power (FCP) means a system that uses fuel cells to generate electricity to power an electric motor to propel the vehicle.

• Hybrid electric vehicle (HEV) means a system that uses a combination of an electric motor and internal combustion engine to propel a motor vehicle.

• Hydrogen based power (HBP) means a system that uses hydrogen to propel a motor vehicle through means other than a fuel cell.

• Plug-in hybrid (PHV) means a system that combines an electric motor and an internal combustion engine to propel a motor vehicle and is capable of recharging its batteries by plugging in to an external electric current.

• Spark ignition fuel (SIF) means a system that uses gasoline, ethanol, or methanol based fuels to propel a motor vehicle.

We anticipated that the majority of vehicles produced by manufacturers would be captured by our proposed definitions. However, our proposal included the term “other” (OTH) to identify vehicle models employing a fuel and/or propulsion system that is not enumerated in our other proposed fuel and/or propulsion types. For example, the Dual fuel F-150 would be classified as “Other,” since it is propelled by either gasoline or CNG.

The proposed fuel and/or propulsion system types included most of the alternative fuels found in the Energy Policy and Conservation Act (EPCA), as amended, 49 U.S.C. 32901, but not all. Due to differences in the Corporate Average Fuel Economy (CAFE) and EWR programs, our proposed categories of fuel/propulsion systems differ slightly from the alternative fuels listed in section 32901. While EPCA encourages manufacturers to produce vehicles using alternative fuels, the EWR program has a different focus. In the context of alternative fuel vehicles, that focus is on potential problems that may occur within a fuel or propulsion system, which requires the agency to differentiate between propulsion technologies that are, or will be, available to consumers. For EWR purposes, there is no technical hardware difference between a vehicle with a spark ignition fuel engine capable of using a variety of fuels, such as ethanol or gasoline, or a mixture of fuels, such as E85 (ethanol/gasoline mixture) and a vehicle with a spark ignition fuel engine using gasoline only. While such a fuel distinction is appropriate for the CAFE program, EWR will not benefit from that level of detail because the specific fuel type being used will be unknown.

The Advocates, the Alliance, and Toyota commented on the addition of the fuel and/or propulsion type EWR codes. The Advocates supported the proposal, but asked that the agency address, in a separate rulemaking, linking the new EWR codes to the “affected parts” choices in the Vehicle Owners Questionnaire. The Advocates also indicated a desire to see a list of failure modes that can be chosen for each component. These comments are not within the scope of the current rulemaking and will not be addressed by this final rule. The Alliance and Toyota did not object to the addition of fuel and/or propulsion type codes, but sought clarification on how to report fuel and/or propulsion types that are unknown. The Alliance suggested a default of SIF, or whatever the base model version is for a model line not manufactured with a SIF system. Toyota stated that whatever approach is chosen for reporting an unknown must be simple enough to accomplish through, “automatic means by way of programmatic mapping.” The agency responds that if the attribute is “unknown” the entire record will be excluded from the data consistency check (validation). We expect that this will be a very infrequent occurrence. The EWR processing staff can always contact the manufacturer to seek clarification, if needed.

Based upon the foregoing and the lack of objection to our proposal from commenters, this final rule amends § 579.4 by adding the proposed definitions for “fuel and/or propulsion system type” in addition to § 579.21(a), (b)(2), and (c) as proposed. We have deleted the phrase “in the context of reporting fuel and/or propulsion system type” in the new definitions, however, as it is redundant to the introductory language in § 579.4(c) that states “The following terms apply to this part.” For clarity, we have changed the “hydrogen based power (HBP)” type to hydrogen combustion power (HCP). This change makes a clearer differentiation between this type and a fuel-cell power propulsion type. Also for clarity, we added the phrase “but is not capable of recharging its batteries by plugging in to an external electric current” to the definition of Hybrid electric vehicle (HEV) to make a clearer differentiation between this type and the Plug-in hybrid type.

4. New Component Categories for Light Vehicles, Buses, Emergency Vehicles, and Medium-Heavy Vehicles

The EWR regulation requires light and medium-heavy vehicle manufacturers to report the required information by specific component categories. 49 CFR 579.21(b)(2), (c), (d) and 579.22(b), (c), (d). The component categories for each vehicle type have remained unchanged since the EWR regulation was published in July 2002. Since that time, new technologies, such as Electronic Stability Control (ESC), Roll Stability Control (RSC), Forward Collision Avoidance (FCA), Lane Departure Prevention (LDP), and Backover Prevention, have been introduced into the marketplace. As these new technologies are implemented, and demand for these products increases in the market place, we are concerned that the EWR component categories are unsuitable for capturing these newer technologies. As a result, NHTSA proposed to add component codes for ESC, FCA, LDP and Backover Prevention to the EWR reporting for light vehicles and ESC/RSC for buses, emergency vehicles, and medium and heavy vehicles. Each of these new component codes and the comments regarding each are addressed below.

Several commenters did not comment on the new component codes individually, but as a group. These commenters were CAS, Ford, Global, and Honda. CAS did not offer comments on the proposed codes, but asked for an expansion of the current codes for air bags. This request is outside the scope of the current rulemaking. Ford believes that the proposed codes are not appropriate for EWR and would require manual review of tens of thousands of EWR reports per quarter. Ford supports alternatives proposed by the Alliance.

Global believes that reporting problems will be caused by the fact that several systems share components stating:

If an incident or claim implicates a shared component, the proposal states that the manufacturer should report data based upon the functionality of the component as reported in the underlying claim. Given the complex nature of these systems, it is not clear that assignment of the cause of an incident or claim to one of these systems will be possible. In addition, in order to deal with this type of situation, additional technical resources would be required to assess “functionality” and changes to manufacturer data systems will be required. These actions will require time and resources to complete. To accomplish the proposed narrowing of categories, manufacturers would be saddled with the substantial burden of performing individualized reviews of warranty claims in certain instances. For example, manual reviews of claims involving brake malfunction would be required to definitely determine whether a claim is related to the electronic stability control system. This type of activity would be unduly burdensome from both a time and resource perspective. This issue will be exacerbated if NHTSA continues to add new codes for emerging technology in the future.

Global also believes that NHTSA has underestimated the costs and burdens aspect of the proposal. Suzuki stated that it participated in the development of, and supports, the Global comments. Toyota stated that the new component categories raise “significant problems in implementation”, noting the same concerns as the Alliance.

Honda commented that it has, “no immediate concerns” regarding introduction of the proposed new codes and provided a one-time cost estimate totaling 1,350 person hours and $135,000 to implement new codes.

The above general comments will be addressed in the following sections. Detailed response to comments on cost can be found in Section VIII.F.1.b.

QCSC did not address our proposed categories, but proposed its own: unintended acceleration, floor mats, and dividing air bags and seat belts into more defined sub-groups. This comment is outside the scope of this rulemaking and will not be addressed in this notice.

i. Stability Control Systems

In the NPRM, we proposed to add a new component code for light vehicles, buses, emergency vehicles and medium/heavy vehicles in 49 CFR 579.21(b)(2) and 49 CFR 579.22(b)(2) for ESC.⁴ As discussed in the NPRM, ESC is now required for all light vehicles and presents known benefits for heavy vehicles. As a result, the number of vehicles using ESC is increasing rapidly and potentially could include the great majority of the vehicle fleet.

⁴ Manufacturers may market or refer to ESC as electronic stability program, vehicle stability control, rollover stability control, vehicle dynamics integrated management system, or active skid and traction control, among others.

In addition to ESC, RSC systems are increasingly installed on heavy trucks. RSC detects a high lateral acceleration condition that could lead to a truck rolling over, and intervenes by automatically, applying the vehicle's brakes and/or reducing engine power and applying the engine retarder. We proposed to combine ESC and RSC in one EWR component code for medium and heavy trucks and proposed the new Heavy Vehicle Aggregate Template (Appendix B).

The EWR regulation currently does not have a specific component for ESC or RSC issues. See 49 CFR 579.21(b)(2) and 579.22(b)(2). Light vehicle manufacturers report ESC issues under “03 service brake system” and medium-heavy vehicle manufacturers report stability control issues under “03 service brake, hydraulic” and “04 service brake, air” because those definitions include stability control. As a result, potential stability control issues may be masked within the broader service brake category, making NHTSA unable to examine and detect potential safety concerns that may be associated directly with a vehicle's stability control system. The agency believes that stability control issues are likely to increase as vehicle manufacturers add stability control to their fleets. In our view, it is important to capture EWR data on this key safety component, supplementing NHTSA's traditional screening methods to assist in identifying potential safety issues sooner. Adding an ESC component category to light vehicles and a combined ESC/RSC component category to buses, emergency vehicles and medium-heavy vehicles reporting categories will allow NHTSA to capture data on this mandatory system on light vehicles and new system on medium-heavy trucks and analyze stability control data for potential defects.

The Alliance commented on the new ESC component code. While the Alliance agrees that ESC is very important for safety and has high market penetration, it opposed a new component code. It stated, “The primary problem in attempting to create a component category exclusively of ESC is that it will often be very difficult for manufacturers to determine whether claims, consumer complaints, and other aggregate data that might relate to ESC actually do involve ESC.” The Alliance believes, “. . . it would be extremely difficult and costly—and would require a tremendous amount of additional time—for manufacturers to attempt to disaggregate items involving ESC from the “brake” category, particularly with respect to claims, consumer complaints, and warranty claims.” The Alliance pointed out that it believes that consumers often do not know, “whether the perceived problem is related to ESC, as opposed to other handling or brake issues,” and that warranty claims may be impossible to assign to ESC because, “ESC systems share components and software with other vehicle systems.” The Alliance noted that NHTSA issued a legal interpretation in 2003 that manufacturers' reporting must be based on the face of the claim or complaint and not on any manufacturers' analysis or investigation of the claim or complaint.⁵ It also notes that the manufacturers have instituted long standing practices for processing claims and complaints based on this interpretation and, “it would be extremely difficult, costly, and burdensome to attempt to separate reports of ESC issues from reports involving associated systems that utilize the same components.” The Alliance then offered, as an alternative to the proposed ESC code, that the current “service brake system” category be divided into two new categories: “foundation braking systems” and “automatic brake controls”, and proposed definitions for these terms.

⁵ Letter to Mr. Robert Strassburger from Jacqueline Glassman, Chief Counsel, March 25, 2003, stated in part, “Reporting is to be based on the information in the complaint or claim, rather than on the manufacturer's assessment. Even if the manufacturer disagrees with the assertions of the consumer/claimant after conducting its analysis, the manufacturer must still report the complaint or claim.” See http://www-odi.nhtsa.dot.gov/ewr/interpretations.cfm and chose Alliance of Automobile Manufacturers March 25, 2003.

The agency acknowledges that in some instances consumers may not perceive stability control problems during a crash or will be unable to distinguish stability control problems from problems with other components. This may occur when a consumer communicates through a complaint or a property damage claim to the manufacturer. Although there may be some of these instances, the agency believes that misidentification of stability control complaints will be rare. The agency receives vehicle owner questionnaires (consumer complaints) reporting potential problems with ESC. Furthermore, consumer complaint data represent only 5 percent and property damage claims represent less than 1 percent of the EWR aggregate data for the service brake component.

The bulk of the EWR data for the service brake component consists of warranty claims and field reports. Manufacturers likely have the capability to identify and report specific problems associated with stability control in warranty claims and field reports. Manufacturers of light vehicles have elaborate warranty systems that capture information about discrete components and service codes. Manufacturers also track issues identified by their representatives in the field. The agency still believes that with the ability to identify specific issues through service codes and field inspections, manufacturers should be able to code stability control issues appropriately. However, the agency did not intend to change its long-standing interpretation regarding coding claims and complaints. For such items, the manufacturer should use the information reported to the manufacturer by the consumer as the basis for its EWR codes. In the proposal, we intended that manufactures would, where possible on the face of the claim or complaint, consistent with our interpretation, categorize complaints and claims using the proposed new ESC code. Where that is not possible, codes would be assigned as appropriate by the manufacturer.

Adding a new component to the light vehicle, bus, emergency vehicle and medium-heavy vehicle EWR reporting is likely to create a one-time cost for manufacturers to amend their reporting template and revise their software systems to appropriately categorize the stability control system data. We do not believe this cost will be substantial or pose an undue burden on manufacturers.

In the agency's view, as discussed above, ESC is an important, required, component for light vehicle control and a malfunction can have an impact on vehicle safety. Capturing data on this new technology will assist the agency in identifying potential problems sooner. Because the number of vehicles with ESC is increasing rapidly and all light vehicles manufactured after September 1, 2011 must have ESC, we believe that it is appropriate for the agency to start collecting EWR data on this specific component.

The final rule will adopt, as we proposed, the ESC definition found in 49 CFR 571.126.S4 for light vehicles. The final rule will define ESC for buses, emergency vehicles, and medium-heavy vehicles as a system that has all the following attributes:

• Augments vehicle directional stability by applying and adjusting the vehicle brake torques individually at each wheel position on at least one front and at least one rear axle of the vehicles to induce correcting yaw moment to limit vehicle oversteer and to limit vehicle understeer;

• Enhances rollover stability by applying and adjusting the vehicle brake torques individually at each wheel position on at least one front and at least one rear axle of the vehicle to reduce lateral acceleration of a vehicle;

• Is computer-controlled with the computer using a closed-loop algorithm to induce correcting yaw moment and enhance rollover stability;

• Has a means to determine the vehicle's lateral acceleration;

• Has a means to determine the vehicle's yaw rate and to estimate its side slip or side slip derivative with respect to time;

• Has a means to estimate vehicle mass or, if applicable, combination vehicle mass;

• Has a means to monitor driver steering input;

• Has a means to modify engine torque, as necessary, to assist the driver in maintaining control of the vehicle and/or combination vehicle; and

• Can provide brake pressure to automatically apply on a truck tractor and modulate the brake torques of a towed semi-trailer.

As noted above, the agency does not intend for manufacturers to change long-standing practices and processes to implement the use of the new ESC code, but simply to use the code when, a warranty claim or field report indicates a concern with stability control and a claim or consumer compliant, on its face, indicates a concern with stability control systems. In cases where ESC is not obvious code(s) should be assigned as appears appropriate.

The agency believes dividing the current “service brake system” category into two new categories: “foundation braking systems” and “automatic brake controls”, has merit, in addition to the new ESC code. This issue is discussed further in subsection iii, below.

For heavy vehicles, the agency proposed that issues with either an ESC or RSC system be reported in a combined ESC/RSC category. RSC has similar attributes related to ESC. The NPRM proposed that RSC be defined as a system that has the following attributes:

• Enhances rollover stability by applying and adjusting the vehicle brake torques to reduce lateral acceleration of a vehicle;

• Is computer-controlled with the computer using a closed-loop algorithm to enhance rollover stability;

• Has a means to determine the vehicle's lateral acceleration;

• Has a means to determine the vehicle mass or, if applicable, combination vehicle mass; ⁶

⁶ The NPRM used “the means” in this element. We have changed it in the final rule for consistency with the other elements.

• Has a means to modify engine torque, as necessary, to assist the driver in maintaining rollover stability of the vehicle and/or combination vehicle; and

• Can provide brake pressure to automatically apply on a truck tractor and modulate the brake torques of a towed semi-trailer.

There were no comments on the combined ESC/RSC category for buses, emergency vehicles, and medium and heavy vehicles. The only comment regarding heavy vehicle ESC was made by MEMA, who requested that the agency use, for heavy vehicles, the definition of ESC it proposed to the agency's NPRM on heavy vehicles ESC (Docket NHTSA-2012-0065 item 0041, August 21, 2012). The agency does not believe the definition for ESC as it applies to heavy vehicles should be changed before the final rule is issued on that subject.

As proposed, this final rule amends 49 CFR 579.21(b)(2) to add ESC to the list of components in that section and amends 49 CFR 579.22(b)(2) to the combined ESC/RSC component code to the list of components in that section. It also amends 49 CFR 579.4(b) to add the regulatory definition of light vehicle ESC found in 49 CFR 571.126.S4,⁷ adds the definition of ESC and RSC for buses, emergency vehicles, and medium-heavy vehicles as proposed, and amends the definition of “service brake system” to remove stability control from that definition.

⁷ FMVSS No. 126 defines Electronic Stability Control system or ESC system to mean a system that has all of the following attributes:

(1) That augments vehicle directional stability by applying and adjusting the vehicle brake torques individually to induce a correcting yaw moment to a vehicle;

(2) That is computer-controlled with the computer using a closed-loop algorithm to limit vehicle oversteer and to limit vehicle understeer;

(3) That has a means to determine the vehicle's yaw rate and to estimate its side slip or side slip derivative with respect to time;

(4) That has a means to monitor driver steering inputs;

(5) That has an algorithm to determine the need, and a means to modify engine torque, as necessary, to assist the driver in maintaining control of the vehicle; and

(6) That is operational over the full speed range of the vehicle (except at vehicle speeds less than 20 km/h (12.4 mph), when being driven in reverse, or during system initialization).

ii. Forward Collision Avoidance and Lane Departure Prevention

An FCA system monitors and detects the presence of objects in a vehicle's forward travel lane and alerts the driver by means of an audible and/or visual warning of a potential impact with the object. FCA systems seek to warn drivers of stopped, decelerating or slower moving vehicles in the vehicle's lane of travel in order to avoid collisions. Some FCA systems may also assist with driver's braking or automatically brake to avoid collisions. An LDP system warns a driver that the vehicle is exiting a travel lane and may automatically provide steering input to assist the driver to maintain lane position.

NHTSA is encouraging deployment of these important crash avoidance systems by notifying consumers which vehicles offer them through the New Car Assessment Program (NCAP). Starting with model year 2011 vehicles, NHTSA recommends ESC, Forward Collision Warning and Lane Departure Warning systems that pass the NCAP performance tests on the Web site www.safercar.gov. The agency believes that adding these technologies in NCAP will increase consumer awareness of these beneficial technologies and spur market demand.

In the NPRM, the agency proposed two new categories, FCA and LDP, and definitions for each:

Forward collision avoidance system means a system that:

• Has an algorithm or software to determine distance and relative speed of an object or another vehicle directly in the forward lane of travel; and

• Provides an audible, visible, and/or haptic warning to the driver of a potential collision with an object in the vehicle's forward travel lane.

The system may also include a feature:

• Pre-charges the brakes prior to, or immediately after, a warning is issued to the driver;

• Closes all windows, retracts the seat belts, and/or moves forward any memory seats in order to protect the vehicle's occupants during or immediately after a warning is issued; or

• Applies any type of braking assist or input during or immediately after a warning is issued.

Lane departure prevention system means a system that:

• Has an algorithm or software to determine the vehicle's position relative to the lane markers and the vehicle's projected direction; and

• Provides an audible, visible, and/or haptic warning to the driver of unintended departure from a travel lane.

The system may also include a feature that:

• Applies the vehicle's stability control system to assist the driver to maintain lane position during or immediately after the warning is issued;

• Applies any type of steering input to assist the driver to maintain lane position during or immediately after the warning is issued; or

• Applies any type of braking pressure or input to assist the driver to maintain lane position during or immediately after the warning is issued.

We chose to make the EWR categories broader than the warning systems indicated in NCAP to attempt to capture advanced systems are they are implemented.

The Alliance and MBUSA commented on these two new categories. As with ESC the Alliance commented that “it would be extremely difficult and costly for manufacturers to even attempt to separate reportable EWR items into these two categories.” The Alliance further stated, “While FCA and LDP have the potential to enhance motor vehicle safety, their contribution is not as significant as that of other components and systems currently specified in the regulation. As currently implemented, they are `driver assistance systems', not `safety systems.'” The Alliance believes that these two categories of systems are, “not `mature', and they have not significantly penetrated the market.” MBUSA commented that the definitions of FCA and LDP are too broad. It believes that “different components and subsystems will be captured by different OEMs depending on the technology used” by each individual manufacturer and therefore the agency will not be able to compare reported rates among manufacturers.

The agency believes that these emerging crash avoidance technologies have been in development for some time and are appearing in the current light vehicle fleet. As these new technologies are implemented and demand increases, we are concerned that the EWR component categories currently in use will not capture them. NHTSA believes it is appropriate to add these technologies to EWR now. As discussed above for ESC, NHTSA intends that the manufacturers use the FCA and LDP code where, on its face, it is indicated by the claim or complaint. Otherwise these claims and complaints should be treated and processed as they are currently. The agency intends that systems that warn the driver of a possible crash situation or lane departure be treated along with systems that take action to intervene to prevent a crash or lane departure. This will allow the category to serve EWR as these systems mature and become even more prevalent.

Accordingly, this final rule adopts the FCA and LDP EWR reporting categories and their definitions as proposed.

iii. Segregation of “Service Brakes” Category Into Two New Categories, “Foundation Brake Systems” and “Automatic Brake Controls”

In its comments to the NPRM the Alliance offered an alternative to our new category ESC in which the current Service Brakes category for light vehicles could be segregated into Foundation Brakes and Automatic Brake Controls. The Alliance said, in part, “we understand the agency's desire to assure that the large number of reports of problems with respect to the foundation brakes do not inhibit its ability to identify problems with electronic/automatic brake components.” We have carefully considered this approach and, while we are implementing the ESC, FCA and LDP categories, we believe the Alliance's suggestion to divide the Service Brake category still has merit. As discussed in the section on ESC above, the agency believes that manufacturers are capable of assigning the new ESC category to almost 95 percent of the data required to be reported in EWR involving those systems. However, given that we do not want manufacturers to change the methods and processes by which they make the category assignments, dividing the Service Brake category as the Alliance suggested will assist the agency to also capture those reports. Therefore, in this final rule the current light vehicle Service Brakes category will be divided into discrete braking systems under the following two definitions:

Foundation Brake System means all components of the service braking system of a motor vehicle intended for the transfer of braking application force from the operator to the wheels of a vehicle, including components such as the brake pedal, master cylinder, fluid lines and hoses, brake calipers, wheel cylinders, brake discs, brake drums, brake pads, brake shoes, and other related equipment installed in a motor vehicle in order to comply with FMVSS Nos. 105, 121, 122, or 135 (except equipment relating specifically to the parking brake). The term includes all associated switches, control units, connective elements (such as wiring harnesses, hoses, piping, etc.), and mounting elements (such as brackets, fasteners, etc.).

Automatic Brake Controls means systems and devices for automatic control of the brake system, including but not limited to, brake-assist components (vacuum booster, hydraulic modulator, etc.), antilock braking systems, traction control systems, enhanced braking systems. The term includes all associated switches, control units, connective elements (such as wiring harnesses, hoses, piping, etc.), and mounting elements (such as brackets, fasteners, etc.).

Only the Automatic Brake Control definition differs from the Alliance's proposed definition. For clarity, we added “brake-assist components.”

iv. Backover Prevention

In addition to adding component categories for ESC, FCA, and LDP, the NPRM proposed adding a component category for systems designed to mitigate backover crashes for light vehicles in 49 CFR 579.21(b)(2). We proposed to define a backover prevention system as one that has “a visual image of the area directly behind a vehicle that is provided in a single location to the vehicle operator and by means of indirect vision.” We proposed this new category because in 2010 the agency estimated that, on average, there are 292 fatalities and 18,000 injuries (3,000 of which NHTSA estimates are incapacitating) resulting from backover incidents every year. Of those, 228 fatalities and 17,000 injuries were attributed to backover incidents involving light vehicles under 10,000 pounds.⁸ NHTSA also estimates that about 20 percent of MY 2010 light vehicles are equipped with some sort of image-based backover prevention system.⁹

⁸ These estimates are from a December 7, 2010 NPRM proposing to amend FMVSS No. 111, Rearview Mirrors, to expand the current rear visibility requirements for all light vehicles under 10,000 pounds Gross Vehicle Weight Rating by specifying an area behind the vehicle that a driver must be able to see when the vehicle is in reverse. See 75 FR 76186.

⁹ Preliminary Regulatory Impact Analysis, Backover Crash Avoidance Technologies, NPMT FMVSS 111, NHTSA, Office of Regulatory Analysis and Evaluation, National Center for Statistics and Analysis, Nov. 2010, Docket NHTSA-2010-0162.

Only the Alliance commented specifically on the proposed backover prevention category. The Alliance opposes the adoption of such a category because it believes, “there is clearly no need for a separate category at the present time, before the agency has even adopted a final rule, and given the four-year lead time following promulgation of such a rule before it would be fully effective.” The Alliance noted the same problem would exist with the backover prevention category as it described for ESC, FCA and LCP, namely, that many elements of the system are shared with other systems. The Alliance further stated that it, “understands NHTSA's concern that various manufacturers code reports about problems with backover systems in various existing component categories,” and suggested, as an alternative to the proposed new category, to revise the definition of the “visibility” category “to require all such reports to be included in that category.” The Alliance also objected to the use of the term “backover prevention system”, since “the systems in use today and those that would be required under the proposed amendment to FMVSS No. 111 are more properly characterized as `rearward visibility systems,' since few, if any, of those systems would actually operate independently to `prevent' a backover.”

The agency believes that, regardless of what form such a final rule might take, the number of vehicles utilizing some form of an image-based backover prevention system will increase over time. In fact, the agency is adding rearview camera systems as an allowed technology in its New Car Assessment Program (NCAP) while the final rule is being completed. These systems are likely to take on different trade names and incorporate additional functionality not present today. We would like the category to be able to accommodate current and future systems.

The agency believes, as with the other new categories, the manufacturers can capture those claims, notices, warranty claims, complaints, property damage claims or field reports that, on the face, are linked to a Backover Prevention category. The Alliance admits that manufacturers could identify these reports to place them in a revised Visibility category. The agency prefers to use the term “backover prevention”, which includes systems that warn the driver as well as those that take action to prevent a backover, so that the new category captures newer, active, systems as they emerge. The agency believes these measures will enhance its ability to identify and address potential safety defects related to this important safety system that is already in the market.

After reviewing the comments received, the agency has decided to adopt the Backover Prevention category as proposed in the NPRM. This final rule will amend 49 CFR 579.21(b)(2) to add backover prevention systems to the list of components in this section and will amend the definition of “visibility” to remove any reference to exterior view image-based systems for light vehicles.

5. EWR Reporting Templates

The NPRM proposed to amend the EWR light vehicle production, death and injury, and aggregate reporting templates used by light vehicle manufacturers for their quarterly EWR submissions to add the new vehicle type, fuel and/or propulsion system type, ESC, FCA, LDP, and Backover Prevention system components. The NPRM likewise proposed amending the EWR bus, emergency vehicle and medium-heavy vehicle reporting templates to accept the new ESC/RSC component code.

Only the Alliance commented on the proposal to amend the reporting templates and that comment was only in the context that they objected to the addition of the new component codes that the templates would serve to report.

Based upon the foregoing, we believe the addition of the new component codes that we are adopting today is necessary. Accordingly, this final rule adopts the changes to the light vehicle EWR reporting templates as proposed, with slight modifications to accommodate the new component codes for Foundation Brake System and Automatic Brake Controls. Similarly, this final rule adopts the proposed change to the Heavy Vehicle Aggregate Template to add the new ESC/RSC component code.

6. Electronic Submission of Annual Substantially Similar Vehicle Lists

The foreign defect reporting regulations, 49 CFR part 579, subpart B, require manufacturers selling or offering motor vehicles for sale in the United States to submit annually a document that identifies each model of motor vehicle that the manufacturer sells or plans to sell during the following year in a foreign country that the manufacturer believes is identical, or substantially similar, to a motor vehicle sold or offered for sale in the United States (or to a motor vehicle that is planned for sale in the United States in the following year) and each such identical or substantially similar vehicle sold or offered for sale in the United States. 49 CFR 579.11(e). Currently, manufacturers may submit this list to NHTSA by mail, facsimile or by email. 49 CFR 579.6. When a manufacturer notifies NHTSA of a safety recall or other safety campaign in a foreign country, the agency searches the manufacturer's substantially similar list for vehicles in the U.S. that may contain a similar problem as identified in the foreign recall or campaign.

Unlike EWR reports, manufacturers are not required to upload their substantially similar vehicle list (SSVL) directly to ODI's Artemis database. However, most vehicle manufacturers in practice do upload their SSVLs directly to Artemis through the agency's secure Internet server. The NPRM proposed to require that manufacturers upload their SSVLs to Artemis because submissions by mail, facsimile, or email cannot be uploaded to Artemis and are not readily searchable. Having the lists in Artemis would make it easier for ODI to match vehicles involved in a recall in another country to vehicles sold, or offered for sale, in the United States.

The Alliance, Ford and Global submitted comments concerning the proposal to amend § 579.6(b) to require that the annual SSVL under § 579.11(e) be uploaded directly to the Artemis database. Ford and the Alliance indicated that the proposed 180-day lead time is insufficient. They stated that creating complex corporate software approval processes needed to protect intellectual property from unauthorized release would require a lead time of at least12 months. Global indicated that the reporting burden could be reduced by defining the Foreign Markets data field as geographic regions (Asia, Europe, etc.). Global also requested that the list not be made public until the end of the affected model year, as the list may contain models that are planned for introduction during the upcoming year. The agency notes that although the width of the current FOREIGN_MARKETS data field on the Excel SSVL template is not defined, this field will allow an entry of up to 2,048 characters (per record). This level of detail is provided in the XML Schema definitions available on the safercar.gov Web site (http://www-odi.nhtsa.dot.gov/ewr/XMLSchema/SubstantiallySimilarVehicles.xsd). Examples of commonly accepted entries are: (1) CANADA, EUROPE, MIDDLE EAST, AFRICA, SOUTHEAST ASIA, CENTRAL & SOUTH AMERICA, OCEANA; (2) CANADA, EUROPE, ASIA; (3) EU, RUSSIA AND CIS, CENTRAL AND SOUTH AMERICA, OCEANIA, AFRICA, ASIA. Therefore, we believe no new geographic region definitions are needed.

After review and consideration of the comments, this final rule provides a lead time of one year from the date of the publication of this rule. This will be reflected in the effective date to implement the new EWR component codes that is one year after the publication date of this final rule.

B. Decisions and Responses to Comments on Domestic Safety Recalls Requirements

NHTSA received comments from twenty-two (22) parties for proposals affecting safety recalls reporting, administration, and execution. These commenters were Alliance of Automobile Manufacturers (the Alliance), Toyota Motor North America, Inc. (Toyota), The Truck & Engine Manufacturers Association (EMA), Safety Research & Strategies, Inc. (SRS), The Recreation Vehicle Industry Association, Inc. (RVIA), Quality Control Systems Corporation (QCSC), Harley Davidson Motor Company (Harley-Davidson), Ford Motor Company (Ford), American Suzuki Motor Corporation (Suzuki), R.L. Polk & Co. (Polk), The Law Office of Stephen Selander, PLLC (Selander), American Honda Motor Co., Inc. (Honda), The Rubber Manufacturers Association (RMA), The Motor & Equipment Manufacturers Association (MEMA), The National Association of Trailer Manufacturers (NATM), The Automotive Recyclers Association (ARA), The Center for Auto Safety (CAS), The Motorcycle Industry Council, Inc. (MIC), The Association of Global Automakers, Inc. (Global Automakers), Advocates for Highway and Auto Safety (the Advocates), Mercedes-Benz USA and Daimler AG (MBUSA), and The Juvenile Products Manufacturer's Association (JPMA).

For summary purposes, the term “industry commenters” refers to vehicle and equipment manufacturers and the trade associations that represent them, such as the Alliance and Global Automakers. The term “safety advocate commenters” refers to organizations such as CAS and the Advocates that help promote automotive and highway safety. In this section, we provide a general summary of those comments.

1. Public Availability of Vehicle Recall Completion Information

We received comments on our proposal to require large, light vehicle (including motorcycle) manufacturers to submit VIN information on vehicles for which those manufacturers conduct safety recalls, and to submit daily updates on changes in recall remedy status as to each VIN, to NHTSA and in support of our development of an enhanced recalls search tool on our Web site, www.safercar.gov. Comments were also received on our alternative proposal to not require these manufacturers to submit this information or daily updates to NHTSA, but to require that they offer comparable utility on their Web site or on a third-party Web site. Industry commenters opposed our primary proposal and supported the alternative whereas some safety advocate commenters said our primary proposal was sufficient. Some commenters did not favor either proposal, but offered suggestions and commentary focused on the breadth of coverage and functionality of any recall search tool we would require.

After carefully considering the comments, we are proceeding with the agency's alternative proposal that requires large, light vehicle (including motorcycle) manufacturers to provide a recalls lookup tool, by VIN, on their own Web sites or third party Web sites. We have specified certain performance-based criteria for these sites to ensure consistent and reliable search results to address a wide range and age of light motor vehicles and motorcycles. A summary of the comments received on this proposal, as well as our reasoning for our various decisions and requirements, follows below.

i. Who Is Required To Provide Publicly Accessible Vehicle Safety Recall Completion Information

We received a number of comments, both favorable and unfavorable, on the proposal to apply the provision to high volume, light vehicle manufacturers, and not others.

QCSC, the Advocates, and CAS objected to our application of MAP-21's requirements concerning public availability of safety recall information to only large, light vehicle manufacturers. They maintained that by its own terms, the statute requires the publication of recall information searchable by make, model, and VIN, on the Internet for all motor vehicles. They emphasized that the statute requires that the information made publicly available must include, “information about each recall that has not been completed for each vehicle.” The words “about each recall,” and “for each vehicle,” they maintain, are unlimited in scope and necessarily mean each manufacturer must provide this information for each recall and every vehicle subject to a recall that has not been completed. According to the Advocates, in making all unremedied recalled vehicles subject to the information disclosure, the statute is directly requiring the vehicle manufacturer to supply the information for its recalled vehicles to the agency. The Advocates disagreed with the agency's interpretation that the statute's silence about whom must supply information leaves the agency discretion to decide to whom it applies. With regard to the VINs associated with recalled vehicles that are unremedied, they argued that Congress has decided that vehicle manufacturers must provide that information to be placed on the Internet and be publicly accessible.

The Advocates further commented that neither part 573 nor part 577 indicate that some manufacturers must comply with recall requirements, while others do not, and that recall requirements are not dependent upon particular classes, types, or volumes of vehicles produced by manufacturers. They noted that the purpose of part 573, to facilitate notification of owners, applies to manufacturers of cars, trucks and motorcycles, incomplete and complete vehicles, as well as importers. Thus, according to the Advocates, the agency's regulations do not support a limitation on the types of manufacturers that must provide the safety recall information required under MAP-21.

CAS opined that smaller manufacturers may, in fact, be more prone to defects and recalls. In support, CAS referenced a report it submitted to NHTSA 35 years ago in which it identified 27 defects in various British Leyland cars that CAS says resulted in over a dozen recalls. The group also commented that our proposal is inconsistent with the agency's position that it needs to be able to better monitor new and emerging technologies that are likely to be used by smaller companies like Fisker and Tesla.

The Advocates challenged the parallel we drew to the Early Warning (EWR) regulation that limits certain requirements based on manufacturer annual production. They noted that Section 31301(a) of MAP-21 relates to consumer information on the repair status of recalled vehicles which is separate from the non-recall incident data captured through EWR. The Advocates believe that Congress intended all motor vehicles with outstanding recalls to be publicly searchable by VIN, not just the vehicles of the largest manufacturers as determined by annual production.

MEMA and EMA agreed with our proposal to exclude medium and heavy vehicles. Both concurred with our rationale that owners and operators of these vehicles interface directly with vehicle manufacturers through their field personnel, to remedy all types of service issues, including safety recalls. Accordingly, there was little likelihood that a recalls search tool would be of value to this community and have a positive impact on completion rates for recalls concerning medium heavy applications.

We have considered the comments and decline to expand the category of vehicle manufacturers required to provide VIN and Internet-based recalls search functions at this time. Section 30301(a) of MAP-21 does not specify which manufacturers are subject to making safety recall information available on the Internet. Moreover, section 30301(b) states that the Secretary “may” initiate a rulemaking.

The Advocates and CAS did not dispute our analysis in the NPRM that the light vehicle manufacturers that meet our production thresholds manufactured (or imported) comprise the vast majority of all vehicles recalled. We have since conducted a ten-year analysis including recalls through December 2012, the last full year that data are available, and that analysis produced results evidencing that this same class of manufacturers manufactured almost 95 percent of the vehicles recalled.

The Advocates and CAS comments did not address or consider the benefits that reasonably could be anticipated from requiring other manufacturers to post recall information on the Internet. They did not provide any information on de minimus manufacturers.

The notice of proposed rulemaking would have applied a VIN submission requirement to manufacturers of 25,000 or more light vehicles, or manufacturers of 5,000 or more motorcycles manufactured for sale, sold, offered for sale, introduced or delivered for introduction in interstate commerce or imported into the United States annually. 77 FR 55621. Significantly, the notice of proposed rulemaking did not address manufacturers other than the light vehicle and motorcycle manufacturers it identified. 77 FR 55621. Other vehicle manufacturers apparently did not perceive themselves as potentially covered by the rule and did not comment. At this juncture, we do not have sufficient information to require other manufacturers to post recall information on the Internet. There would be questions, among others, about possible exemptions of de minimus manufacturers, updating frequency, and possible vendor services.

At this time, we are not making a decision on manufacturers other than those covered by the notice of proposed rulemaking. We are considering publishing another notice of proposed rulemaking and developing a record upon which to determine how to proceed with regard to the other vehicle manufacturers. We may consider, for example, how VIN look-up tools could benefit owners of other types of vehicles.

We reiterate that we are not prohibiting or preventing other manufacturers from providing an Internet based recalls search function. Any manufacturer may voluntarily provide this service, and some already do. Smaller manufacturers like Ferrari, Maserati, and Lotus now provide a VIN-based recalls lookup service through the Carfax Web site, yet they would not be required to do so by this rule. Although not required to do so, NHTSA encourages all manufacturers producing annually fewer than 25,000 vehicles (or fewer than 5,000 motorcycles) to create their own VIN-based recalls lookup service, and to provide for the electronic transfer of their recall information to NHTSA's www.safercar.gov Web site as specified in § 573.15(b)(12).

For the above reasons, the rule adopted today will apply to manufacturers of 25,000 or more light vehicles, or manufacturers of 5,000 or more motorcycles manufactured for sale, sold, offered for sale, introduced or delivered for introduction in interstate commerce or imported into the United States annually as originally proposed. Rather than adjust the text of § 573.6(c)(3) as proposed in the NPRM, we will add a new § 573.15 to accommodate today's requirement, as well as the performance criteria for the manufacturer search tools that are discussed infra.¹⁰

¹⁰ We mistakenly included a revision to section 573.4 in the regulatory text portion of our NPRM. This revision purported to add definitions of “light vehicle” and “motorcycle” to the definitions in that section. As we discussed in the preamble to the NPRM, see 77 FR at 55621, n.19, we are defining “light vehicle” as it is currently defined in 49 CFR 579.4, and “motorcycle” as it is defined in 49 CFR 571.3.

ii. Decision To Adopt Alternative Proposal To Require Covered Manufacturers To Provide Vehicle Safety Recall Completion Information on Their Own or a Third Party's Internet Site

Industry commenters were decidedly against our primary proposal to require submission of VINs to NHTSA, and then to require daily updates to reflect a changed recall remedy status as to those VINs. These commenters said our proposal was costly, burdensome, subject to data integrity issues and service outages, and unnecessarily duplicative of the services many manufacturers already provide.

The Alliance commented that NHTSA's estimate of $51,200, for each large, light vehicle manufacturer to set up a VIN reporting system, was grossly underestimated. The Alliance calculated that it would cost each affected manufacturer $167,393.75 to setup the required computer systems. Based upon the Alliance's numbers, when multiplied by the number of light vehicle manufacturers affected by the proposal, the cost would total $4,854,418.75, more than three times NHTSA's one-time cost estimate of $1,484,800. The Alliance challenged our assessment that there would be no on-going costs to manufacturers to maintain their reporting systems, and said that based on information from their members, the average on-going cost per year would be $34,061.25 per manufacturer. Cumulatively, the on-going cost would be almost $1 million per annum. The Alliance further objected to our proposal because it did not consider the cost to tax-payers of establishing and maintaining this data system that would be required to accept hundreds of thousands of VINs, integrate substantial numbers of changes that the system receives each day, recover from inevitable service disruptions that will occur, and assure all the information is current and accurate.

By contrast, the same large, light vehicle manufacturers would each save an average of $71,773.75 under the alternative proposal, according to the Alliance. The Alliance multiplied this figure across the manufacturers that the NPRM identified would be affected by our proposal, for a combined savings in excess of $2 million. The Alliance also noted that each manufacturer could save approximately $30,000 in on-going costs per year, for a cumulative of almost $900,000 annually, if the alternative proposal was adopted.

MIC, MBUSA, Ford, and Honda also commented that the proposal was unjustifiably costly and inefficient. Honda estimated that the daily transfer of VINs between Honda and NHTSA would cost Honda a one-time approximate cost of $40,000, excluding labor costs. Polk commented on the complexity of learning the databases of all the vehicle manufacturers, and that Polk has a staff approaching 500 to operate its business of processing state title and registration data. Toyota said our proposal would require the submission of massive amounts of vehicle information that would be costly, unduly burdensome, impractical, and not advance safety goals.

Toyota said that it has operated a VIN-based recalls lookup tool for years and operation, data integrity, and security concerns are presented with the hosting of this type of service. Ford's comments aligned with Toyota's, and identified that extreme weather events, such as Hurricane Sandy, might interrupt the data connection between NHTSA and multiple manufacturers. Toyota commented that NHTSA would need to implement auditing safeguards to ensure NHTSA's database and Toyota's database are properly synchronized. Toyota explained that it utilizes one database that is accessed by multiple applications, and that this reduces the risk of syncing multiple databases, unlike the system NHTSA proposed.

Global Automakers commented that it would take NHTSA a considerable amount of time and funding to create, maintain, and operate a database of the size the agency proposed, and all of which would be a duplication of databases already in operation by many manufacturers and third party Web sites. The association further commented that smaller manufacturers often rely on recall completion data to be aggregated from multiple independent regional distributors, and that a requirement to update VIN repair status on a daily basis would be very burdensome and complicated for these manufacturers.

For its part, MEMA commented that although the impact and cost associated with our proposal do not directly impact its members as suppliers to vehicle manufacturers, those costs and burdens do have an indirect impact. It concurred with the vehicle manufacturers and their associations that the costs and burdens of our proposal were unnecessarily high, understated, and inconsistent with the concern in the GAO report that developing a centralized VIN database would require significant additional resources to fully implement. The group also made note that this report said “most of the public are not aware of the existence of the SaferCar.gov Web site.” Therefore, MEMA concluded, under a common sense, consumer point-of-view, the odds were that an individual would first visit the manufacturer's Web site before visiting www.safercar.gov for recalls information.

The industry commenters favored the alternative proposal to have light vehicle manufacturers host a VIN look-up on their or a third party's Web site and identified a number of benefits that the alternative proposal offered over the primary proposal.

The Alliance and Global Automakers echoed MEMA's comments saying that consumers are more familiar with the Web sites of their vehicle manufacturer, as opposed to NTHSA's Web site. Polk commented that between its Carfax Web site and the Web sites of the vehicle manufacturers, tens of millions of consumers are served each year.

The Alliance commented that manufacturer-hosted recall tools would provide more wide-ranging benefits by offering emissions recalls information, customer satisfaction campaigns, service campaign information, dealer locations, and vehicle service history. The Alliance noted that the availability of this other information could increase recall completion rates since dealers will remedy outstanding safety recalls when a consumer visits their dealer for some other service since the manufacturers' systems of records as to uncompleted recalls are shared with their respective dealerships.

Global Automakers, Ford, and Harley-Davidson both offered similar comments. Global Automakers noted that service campaigns and emissions recalls could also be offered through manufacturer Web sites. Global Automakers also added that typical consumers who need VIN-based recall results likely also need a complete “snapshot” of their vehicle history. Harley-Davidson added that remedy process information, dealer location and scheduling details could also be offered. Ford noted that it currently offers open safety recalls information well beyond the 24 month timeframe contemplated in our primary proposal, open safety recalls older than 24 months, emissions recalls, and customer satisfaction programs searchable by VIN on its Internet site.

Toyota commented that they could offer more than 24 months of recall information if allowed to provide this service through their own and currently operational Web site. MBUSA also noted that its Web site has recall information going back to 1976, significantly more than the 24 months of recall history that NHTSA proposed. The Alliance also suggested that instead of requiring just 2 years of historical VIN data, NHTSA instead request at least 2 years of data.

MBUSA, in favor of the alternative proposal, commented that manufacturer Web sites are inherently more accurate as vehicle manufacturers are the original source of both VIN information and recall completion status.

However, not all commenters were in favor of manufacturer-operated VIN look-up tools. The Advocates commented that any alternative method to satisfy Section 31301(a) of MAP-21 cannot be achieved with independent tools developed by the manufacturers as they could not “include information about each recall that has not been completed for each vehicle.” The Advocates noted that NHTSA could require manufacturers to satisfy this MAP-21 requirement, but only in addition to the NHTSA operated tool. The Advocates further commented that allowing manufacturers to operate their own VIN look-up tools would, in addition to being redundant to NHTSA's tool under the original proposal, also require NHTSA to constantly monitor their Web sites for adequacy and content.

We have considered the comments from industry and other groups. We have decided that the consumer awareness and recalls completion benefits we expected to achieve from our proposal can reasonably be expected to be achieved through the alternative proposal on which we requested comment. Further, the industry comments indicate that the alternative proposal is less costly and burdensome to the covered manufacturers since many of the manufacturers already have their own recalls look-up services online. It is also more cost effective and less burdensome to the tax-payers to adopt the alternative proposal, since the agency would not need to utilize its resources to support a VIN look-up feature that relies upon the manufacturer's datasets. The alternative proposal also reduces the risk of data inaccuracy and inconsistency that accompanies self-contained data systems. Accordingly, after consideration of the comments, we believe it more prudent to finalize the alternative proposal rather than our primary proposal.

We considered the industry commenters' criticisms that our estimations on costs were unreasonably low and short-sighted. While some comments did not provide support for their statement on costs or a break-down of stated criticism, we understand that requiring manufacturers to rearrange their data systems to report to NHTSA in the manner specified in our primary proposal, and then to provide an updated report daily, involves cost and burdens, and that the cost and burden are greater than what they are presently to provide owners with a recalls look-up service (or would be, in the case of manufacturers that do not presently have a recalls look-up service online).

We considered comments from the Alliance, Global Automakers, Polk, Harley-Davidson, Ford, Toyota, and other industry commenters, regarding the Web site features manufacturers can or do presently offer consumers. We agree that the information on activities beyond safety recalls that manufacturers can offer, and many already do, support the alternative proposal. We agree that information available to owners on these other activities could support NHTSA's goal of enhancing safety recalls completion rates. It is conceivable that an owner would respond to a non-safety recall notification or information, bring their vehicle to a dealership to have the work performed, and then any outstanding safety recall work could be performed at that time pursuant to typical manufacturer practices and policies of requiring dealers to check for outstanding safety recalls whenever a vehicle visits a dealership.

We agree that it is sensible for an owner or consumer to visit the manufacturer's Web site to learn more about a non-safety recall campaign or advisory on a vehicle, and then while searching be informed about an outstanding safety recall and take action to have their vehicle remedied. We considered the comments from MEMA, the Alliance, Global Automakers, and Polk regarding consumer's familiarity with manufacturer Web sites. We are persuaded by the commenters that the Web sites of large, light vehicle manufacturers are likely the first place an owner would look for VIN-specific information. For example, Toyota noted that their VIN search tool received 36,600 visits over a 7-month period, and over 70,000 visits in October 2012 alone. We also understand the risk that if an owner who does not find safety recall information on the manufacturer's site may not look further believing that only the manufacturer would have this information. This could be a consequence if we only required a manufacturer to provide VIN-specific information to us and did not require manufacturers to develop and maintain their own VIN-lookups.

We also considered the Advocates' technical argument that NHTSA can only require manufacturers to operate their own VIN look-up tools in conjunction with a NHTSA-operated tool. The Advocates claims Section 31301(a) of MAP-21 requires “the Secretary of Transportation develop an internet based tool for dissemination of vehicle recall remedy information.” We disagree with the Advocates MAP-21 interpretation as Section 31301(a) clearly states, “the Secretary shall require that motor vehicle safety recall information—(1) be available to the public on the Internet.” MAP-21 does not expressly require that NHTSA create a VIN based recalls look-up tool, only that it must ensure this information is made publicly available.

Therefore, we have decided to adopt the agency's alternative proposal to require light vehicle manufacturers that produce over 25,000 vehicles annually to make recall information available through a VIN look-up tool on their Web sites available to owners and consumers. The manufacturer's Web sites and VIN look-up tools must meet certain performance criteria, as discussed below. We are today amending 49 CFR part 573 to add a new § 573.15 that addresses and implements the requirements related to manufacturer online look-up tools reporting uncompleted safety recalls searchable by VIN.

iii. Scope of the Safety Recalls Information That Covered Vehicle Manufacturers Must Make Available

In the NPRM, we proposed to require daily updates on changes in recall remedy status for 10 years from the date a manufacturer first provided us the VIN list for a particular recall. We explained that we proposed this time frame because it is consistent with the statutory limitation on how long a manufacturer can be required to provide an owner a free remedy. That is, manufacturers are only obligated to provide a free remedy for vehicles that were bought by the first purchaser less than 10 calendar years from when the manufacturer notified its owners of the safety defect or noncompliance. See 49 U.S.C. 30120(g). In addition, we explained that in our experience very few vehicles can be expected to be presented for remedy under safety recalls that are more than 10 years old, and that the corresponding utility and benefit of a look-up service for vehicles more than 10 years old is in our estimation limited.

We also proposed to require submission of VIN data for every vehicle covered by a recall filed within 24 months prior to the effective date of our VIN submission requirement in the NPRM. We explained that the Act contemplated this very “look back” activity through its express limitation that any implementing rulemaking conducted “shall limit the information that must be available . . . to include only those recalls issued not more than 15 years prior to the enactment of this Act,” See MAP-21 Act, Public Law 112-141, § 31301(b)(1), 126 Stat 405, 763 (July 6, 2012), and that we were within our discretion to set a requirement of two years' worth of safety recall completion information.

The Advocates disagreed with both of these proposals. As to the first, they said NHTSA did not present data to support this time limit and that the agency's rationale is in conflict with its safety mission. The Advocates argue for an indefinite time frame on grounds it is foreseeable that every subsequent purchaser and owner has an interest in knowing and accessing safety recall information, and that the agency did not explain why such purchasers and owners would not have an interest. They identify, as we did in a different context in the NPRM, that manufacturers are required to maintain records reflecting a vehicle's remedy status indefinitely. They state that by requiring information to be available about “each recall that has not been completed for each vehicle,” and not specifying any time limitation, Congress has spoken directly on the issue and we are foreclosed from setting a time constraint in rulemaking.

As for the two-year “look back” requirement, the Advocates and CAS asserted that the MAP-21 Act's requirement that recall information be available about “each recall that has not been completed for each vehicle,” effectively prohibits any limitation. In the Advocates' view, Section 31301(b) is intended to limit the extent of the burden on manufacturers required to develop an internet based vehicle recall status tool, but does not affect or reduce the obligation on the agency to develop a search tool under Section 31301(a).

The CAS also objected to a two-year look back provision. The group commented that by specifying a fifteen year limitation, the MAP-21 Act contemplated a more far-reaching scope than only two years. They claim our discretion to limit to two years is not consistent with the Act, and is not sufficient to inform and protect owners of vehicles of vehicles recalled as early as June 2010. To exclude thirteen years of recalls will adversely impact safety and is contrary to the statute according to the CAS.

We have considered the Advocates' and CAS's comments but disagree with their interpretation and perspective of what is or is not required under the MAP-21 Act. We do not agree that Congress intended that uncompleted recall remedy status information for the hundreds of millions of vehicles that have been or will be recalled be continuously updated, with no end, and a beginning that dates back to the inception of the construct of safety recalls in 1966.

In any event, because we have adopted the alternative proposal for covered manufacturers to make the recall information available on their Internet Web sites, we have decided to adjust the scope of the requirement to 15 years. Therefore, manufacturers that are required to make recall information available on the Internet must provide information on uncompleted recalls for at least 15 years from the date they first provided the list of covered VINs to their dealers for a particular recall.

Moreover, the proposal for manufacturers to provide data for a “look-back” is no longer relevant with the adoption of the alternative proposal for manufacturers to make the recall information public. Comments submitted by the manufacturers indicate that meeting the 15-year requirement we adopt today will not be onerous or burdensome. In fact, several manufacturers have commented that their services include recalls completion information for much more than the previous 24 months, which we originally proposed. Mercedes commented that their VIN-based recall Web site contains recall information going back to 1976, well past the 15 years we are establishing today.

We have amended 49 CFR part 573 as discussed previously to add a new § 573.15 that includes performance criteria specifying a minimum 15 year span of coverage.

iv. Miscellaneous Comments to the NPRM and Agency Responses

We received an assortment of comments, suggestions, and questions that did not fall neatly into the above categories relating to our primary or alternative proposals and the scope of those proposals. We summarize and address these points in this section.

QCSC commented that they did not understand how owners or prospective purchasers would identify themselves as such through NHTSA's proposed Web site. The comment is not entirely clear as to the reason or context for it, but we interpret it as a concern about personal privacy. In any event, we did not specify a requirement that users of our proposed recalls search service identify themselves in any manner, and it is not a performance requirement, as discussed further below, that we have set on the manufacturer or third party sites. As VIN-based search results would only display pertinent, outstanding recall information, without any information as to who owns a vehicle. Also, as discussed further below in this notice, we are not retaining the VIN that a user provides during a search initiated on our recalls look-up feature on our site, nor the result returned from the manufacturer's search tool. Therefore, we do not foresee any privacy implications. Many vehicle manufacturers already provide this very service, without requiring user identification. Therefore, we do not foresee the concerns raised by QCSC related to the mechanism of this identification.

With respect to our primary proposal to require manufacturers to submit recalls completion information by VIN on a daily basis, the Advocates commented that they agreed with the recall completion categories we proposed, but suggested that for the category “Remedy Not Yet Available,” we should include an option to sign up for an email alert when the remedy becomes available. Since we are not implementing our proposal, we will not adopt this recommendation. However, we agree that there is value in this proposal and would suggest the manufacturers required to make recall information available consider this proposal. We also suggest, but will not require, that manufacturers supply the expected date the remedy will be available when VIN-specific recall results show that a vehicle is included in a safety recall, but the remedy is not yet ready.

The Advocates also noted that quarterly reporting figures should be available to the public if the standard quarterly report forms will be discontinued for the largest light vehicle manufacturers. Also, the Advocates commented that VIN search results should display a copy of the latest quarterly report with a link to previous reports. Since we did not adopt the proposal that would have waived the quarterly reporting requirement for affected vehicle manufacturers, the Advocates' comment is no longer relevant. Manufacturer quarterly reports will continue to be available online through www.safercar.gov as part of the manufacturer's recall file, as they are currently.

SRS requested that the agency include tire identification numbers (TIN) in its searchable database, and apply reporting requirements upon tire manufacturers. ARA submitted a similar comment regarding the required submission of recalled part numbers, remedy part numbers, and build sheets with textual part descriptions. ARA believes that this information, when submitted to NHTSA for each vehicle recall, should be available to the public as batch downloads so “particular users will be able to integrate this data into their individual inventory management systems so that this information reaches all levels of the automotive supply chain in a streamlined manner.”

We considered the comments from SRS and ARA suggesting expanding the scope of this portion of our rulemaking to include certain aspects relevant to equipment recalls. At this time, we decline to expand the scope of the rule; the directive of MAP-21 is plainly limited to recalled vehicles.

MIC also suggested an alternative to NHTSA's alternative proposal. Citing its success in a foreign markets, MIC proposed that a recall document be placed with the motorcycle's other important documents, such as registration papers, at the time the motorcycle is remedied. This would enable the dealer, owner, the manufacturer, and NHTSA all to be advised of the recall repair. We considered MIC's suggestion, but we concluded that it would eliminate the ability for anyone with a 17-character VIN to quickly learn if the vehicle is subject to an outstanding recall. In MIC's proposal, a person shopping for a used motorcycle would not know if the lack of such a recall remedy document means the motorcycle is not subject to the recall, or it is subject to the recall but not yet remedied. That person would have to contact the motorcycle manufacturer to learn if any recalls were outstanding. We believe MIC's proposal does not offer the same level of value compared with the proposal we adopt today, where manufacturers will make recall information available through a VIN-based online recalls lookup service.

CAS commented that NHTSA's proposal did not address issues that arise with regional recalls. CAS noted that the VIN lookup proposal would only encompass recalled vehicles that are currently registered or originally sold in certain states where the recall is applicable. The proposal would not include vehicles that move from a non-covered state to a covered state after the initial VINs are uploaded to the system. However, to the extent that a manufacturer would learn of a vehicle's change of registration so that it would be subject to a safety recall, (for example, should it conduct an update of its registered owner list for a recall) we would expect that the VINs of any additional recalled vehicles would be loaded into its recalls search tool. This expectation is consistent with the requirement that if a manufacturer adjusts its recall population upward, it must also add the newly covered VINs to its search tool.

This final rule also requires manufacturers to make VINs affected by outstanding safety recalls searchable on their Web sites when those VINs become available on a list of current vehicle owners. This list must be compiled and maintained as required in 49 CFR 573.8(a). In other words, we will require that manufacturers load the VINs of recalled vehicles into their recalls search tools on or before the time that they have identified the corresponding list of owners of those vehicles. In our experience, the process of identifying the owners of vehicles based on state registration data takes, at most, a matter of weeks. Even in situations where this process may take longer, a manufacturer would be permitted to take, at most, 60 days to notify owners, due to our decision today to require owners be notified of safety recalls within 60 days of notifying NHTSA of the safety defect or noncompliance. Accordingly, the public will have at its fingertips the ability to search for uncompleted recalls on vehicles, in most cases, within weeks and, at most, within 60 days of the manufacturer's recall decision.

Both Global Automakers and MIC commented that smaller manufacturers often rely on recall completion data to be aggregated from multiple independent regional distributors. MIC believes the requirement to update VIN repair status on a daily basis would be very burdensome and complicated for these manufacturers.

We considered these comments from Global Automakers and MIC. We note that NHTSA did not require manufacturers to update their remedy information every single day; rather update any new information received each day. In the NPRM we did not expect manufacturers to alter the way or frequency they updated their own warranty and/or recall database. We simply requested that their most up-to-date status be transmitted to NHTSA each day.

v. Specific Criteria for Manufacturer Safety Recalls Lookup Completion Tools

In the NPRM, we solicited comment on requirements for the alternative proposal where manufacturers make the recall information available through their Internet Web sites. We indicated that any alternative must provide a comparable level of timely and accurate vehicle-specific recall information, across a comparable breadth and depth of vehicle applications, to our primary proposal where certain manufacturers submit VINs of vehicles affected by a recall and recall completion status information to NHTSA.

We also requested comment on issues that would assist the agency in setting performance based criteria for a requirement that manufacturers make the recall information available through their Internet Web sites. We sought comment on whether vehicle manufacturer VIN-driven recalls search tools located on their Web sites were in fact a realistic alternative given the many factors that affect the completeness, reliability, and timeliness of information provided by a manufacturer on the recall history of vehicles that it manufactured. We said we were concerned that not all vehicle manufacturers offer a VIN-driven service and some offer it only if the consumer is a registered user of the site with the manufacturer (a process that may or may not require input of personal information such as names, addresses, and phone numbers), as one example. Also, we noted that some sites include marketing and other material that is not relevant or distracts from the recall information, and that currency of the information as to whether a particular vehicle has been remedied varies between search tools, as other examples.

We said that any alternative must meet the MAP-21 Act's minimum requirements. That is, the tool must be: available to the public on the Internet; searchable by vehicle make, model, and VIN; in a format that preserves consumer privacy; and include information about each recall that has not been completed for each vehicle. We further said that while we would consider alternatives that may not be free of charge to dealers or owners, we were unlikely to adopt such alternatives.

We stated the alternative tool must be a VIN-based Internet look-up tool that includes recall completion information that is updated at least once daily, and that it must be a free service available to the public, including dealers, owners, and any interested parties. We also proposed to adopt regulations in order to ensure individual manufacturer's Web sites offer a standardized look and functionality regardless of the manufacturer providing the service. We tentatively believed these rules would likely include items such as requiring a conspicuous hyperlink to the VIN-driven recall tool found on the manufacturer's main Web page (or similarly easy to locate Web page), prohibiting marketing or sales information in conjunction with the VIN recall tool, requiring straightforward ease-of-use without Web site registration or personal information other than a VIN, and making available the VIN specific recall information that was proposed under the primary proposal for a NHTSA Web site based VIN look-up tool.

Lastly, we said that after comments are received on this notice, we reserved the flexibility to develop and adopt an alternative based on outgrowths of our primary proposal or comments received in relation to that proposal or any alternatives presented.

No commenter objected to the proposal for NHTSA to develop performance based criteria for the alternative, manufacturer-controlled or operated, search tool. To the contrary, the Alliance, Global Automakers, and Toyota all commented that it would be reasonable for NHTSA to propose regulatory requirements to address manufacturer Web site concerns like not requiring Web site registration and not including marketing materials. Furthermore, Toyota, Ford, and Honda commented that NHTSA could link to manufacturer Web sites and VINs entered from NHTSA's Web site could even be forwarded to manufacturer Web sites for the results.

We considered the Alliance, Global Automakers, and Toyota's comments in this final rule. Consistent with our explanations in the NPRM, we believe a minimum set of performance criteria is necessary. To ensure the performance requirements of MAP-21 are met and to ensure consistent functionality and meet user expectations of performance no matter the source of the information or the particular brand of vehicle involved, we are setting requirements through a new regulatory § 573.15. These requirements are discussed later in this document.

We reiterate that today we are adopting our proposal that motor vehicle manufacturers that manufacture or import 25,000 or more light vehicles annually, or 5,000 or more motorcycles annually, establish on their Web sites a VIN-based safety recalls search mechanism available to the public. Specifically, a link to the manufacturer's safety recalls look-up function must be conspicuously placed on the main page of the manufacturer's United States' main Web site. However, where that link directs a user to enter a VIN and return a result, we leave to the discretion of the manufacturer. Manufacturers, for example, may choose to operate the search from their Web page, or choose to have the user redirected from the link on their main U.S. Web page to a third party's Web page. No matter where the search function is housed, the function must in all cases meet the minimum requirements of Section 31301(a) of MAP-21, as well as the performance requirements we discuss in further detail below. That is, the safety recalls search function must: (1) Be available to the public on the Internet; (2) be searchable by vehicle make and model and VIN; (3) be in a format that preserves consumer privacy; and (4) include information about each recall that has not been completed for each vehicle.

It must also meet the performance requirements enumerated below and that will be codified into a new § 573.15. These requirements were identified or proposed in our NPRM and developed after consideration of the comments received in response to our proposal.

(1) Be free of charge and not require users to register or submit information, other than a make, model, and a VIN, in order to obtain information on recalls;

(2) Have a hyperlink (Internet link) to it conspicuously placed on the manufacturer's main United States' Web page;

(3) Not include sales or marketing messages with the page for entering a make, model, and VIN, or with the page where the results are displayed;

(4) Allow users to search a vehicle's recall remedy status, and report that a recall has not been completed on that vehicle, as soon as possible and no later than the date when the manufacturer includes that vehicle on its list compiled for purposes of 49 CFR 573.8(a);

(5) Ensure safety recalls subject to § 573.15(b)(4) are conspicuously placed first, before any other information that is displayed;

(6) For vehicles that have been identified as covered by a safety recall, but for which the recall remedy is not yet available, state that the vehicle is covered by the safety recall and that the remedy is not yet available;

(7) Be updated at least once every seven (7) calendar days. The date of the last update must display on both the page for entering the make, model, and VIN to search for recall completion information and the results page;

(8) Where the search results in identification of a recall that has not been completed, the recall campaign number NHTSA assigned to the matter; state the date the defect or noncompliance was reported pursuant to part 573; provide a brief description of the safety defect or noncompliance identified in the manufacturer's information report filed pursuant to this Part; describe the risk to safety consistent with the manufacturer's description given in the terms required by parts 573 and 577; and describe the remedy program;

(9) At a minimum, include recall completion information for each vehicle covered by any safety recall for which the owner notification campaign started at any time within the previous fifteen (15) calendar years;

(10) State the earliest date for which recall completion information is available, either on the search page or on the results page, and provide information for all owner notification campaigns after that date;

(11) Instruct the user to contact the manufacturer if the user has questions or wishes to question the accuracy of any information, and provide a hyperlink or other contact information for doing so;

(12) Ensure, through adherence with technical specifications that NHTSA makes available through a secure area of its Web site http://www.safercar.gov/Vehicle+Manufacturers/RecallsPortal, the secure electronic transfer of the recall information and data required to be made publicly available by this section, to NHTSA for its use in displaying that information and data on its Web sites or other public portals.

We note that under these requirements manufacturers are required only to report results on uncompleted or “open” recalls. We encourage manufacturers to include information concerning completed recalls as part of their look-up tools. Completed recall information could be offered as part of a complete package of vehicle history information—such as information concerning emissions recalls, customer satisfaction campaigns and extended warranty programs—they may choose to provide their owners. However, we decline to require a report on completed recalls to avoid complicated performance requirements and to limit the burden on manufacturers. With future experience and evaluation, and particularly if owner confusion should result from the lack of information on completed recalls, we may reconsider our decision and expand the requirements to include information on completed recalls.

Appendix C is an example of how a manufacturer's search function could display its results in accordance with the above criteria. This particular layout and display is not required, but is provided in the interest of giving manufacturers a visual sample.

The manufacturers subject to this requirement must have compliant Web sites available to the public no later than one year from the date of today's notice.

Although we have adopted the proposal for certain manufacturers to host recall information on their Web sites, the agency intends to offer a similar function to the public through its Web site, www.safercar.gov. NHTSA currently offers a reliable and current safety recalls search function that can be effectively and efficiently updated to incorporate a recalls search function by VIN. In our view, NHTSA should improve its utility in the interest of advancing recalls completion by adding a VIN look-up tool.

To be able to do so, however, requires cooperation from the manufacturers that are being required by this rule to develop or modify their software systems. As part of today's rule, these manufacturers must allow secure electronic transfer of manufacturer recall data, for one VIN at a time, to NHTSA's software applications. NHTSA's applications can identify a manufacturer by its world manufacturer identifier (WMI), given in the VIN, and make a secure communication with the manufacturer's system at a pre-specified uniform resource identifier (URI). NHTSA's software applications communicate with a manufacturer specific Application Programming Interface (API), at a given URI, using a predefined identification and key combination to securely identify NHTSA communication with the manufacturer system. This ensures only NHTSA applications can access the manufacturer data via this API on a secure Internet protocol.

The secure communication will be facilitated by following an agreed upon API specification (Representational State Transfer, REST, API specification) that will be available only to manufacturers registered to the new recalls portal we are finalizing.

Upon establishing a secure communication with each manufacturer's system, the NHTSA Web site application will make an API request with the specific VIN a user provides to NHTSA on its safercar.gov recall search tool. The manufacturer will be required to accept this API request and conduct a VIN lookup for recall related information in the manufacturer's system and respond with a machine readable response, which will be specified in the API technical specification. The response that is sent by the manufacturer will then be read by the NHTSA systems, without saving any information on the NHTSA systems for the given response, and the details of the VIN related recall information will be displayed to the requested user on the NHTSA Web site www.safercar.gov, as if the consumer accessed the manufacturer's Web site. Once the recalls results are displayed on the user's browser via the NHTSA Web site the NHTSA system does not save the VIN or results. The complete communication from the user's browser to the www.safercar.gov Web site, to the manufacturer's system to request the recall information via the API, and the response back from the manufacturer's system to the NHTSA system and then to the user's browser, will be protected by Secure Socket Layer (SSL) encryption using Hyper Text Transfer Protocol (HTTP).

A detailed technical specification for identifying the URI to support the REST API, required attributes of the API request, type and format of data attributes that are expected in the response packet will be detailed in a technical specification that will be published only to manufacturers with registered and password protected accounts in the recalls portal we are placing on www.safercar.gov.

In addition to the base configuration of the communication with the NHTSA systems, format of the requests, responses and the type of data that is expected from the manufacturer, the agency will publish the details on handling changes to the API, NHTSA requests for identification, and any changes to the data requests and responses, in the safety recalls portal that is accessible only to manufacturers with registered accounts.

In order to provide consumers and other users of our Web site this service, we are including in our performance requirements above a requirement that manufacturers provide to us the necessary API protocols required for NHTSA to access the manufacturer's VIN-based recall data.

The recall information obtained by users using the www.safercar.gov Web site will not be retained or maintained by NHTSA. Moreover, NHTSA will not capture, retain or maintain any VINs entered into its database before or after making the API requests with the manufacturer systems. If a user submits multiple requests for the same VIN, then NHTSA's system submits the identical number of requests to the respective manufacturer via the secure API to obtain the associated, latest recall information for that VIN. NHTSA will not have and will not require access to any data other than the recall data related to a given VIN. Manufacturers may design, and we anticipate that they will design, their systems so that any attempt to access any information that is not mentioned in the technical specification of the API will not be accepted by those systems.

NHTSA intends to host a workshop in the early part of 2014 to work with the manufacturers to develop this interface. We will publish a Federal Register notice to announce the dates and times and locations of any workshops. We intend to offer both in-person and virtual workshops through technologies such as Webex or Webinar.

2. Requirements Related to the Information Required To Be Submitted in a Part 573 Defect and Noncompliance Information Report

In the NPRM, we proposed to add three items to the current requirements related to the information that a manufacturer is required to submit when notifying and informing NHTSA of a safety defect or noncompliance decision pursuant to part 573. First, we proposed that manufacturers include a description of the risk in their report. Second, for equipment recalls, we proposed manufacturers include the equipment brand name, model name, model number. Third, we proposed to prohibit disclaimers that a manufacturer has made a safety defect of noncompliance decision.

i. An Identification and Description of the Risk Associated With the Safety Defect or Noncompliance with FMVSS

After reviewing the few comments we received on this matter, we will adopt this proposal as written in the NPRM and now require the description of the risk associated with the safety defect or FMVSS noncompliance be included in the Part 573 Information Report. This important safety information will better communicate to the public and NHTSA the actual safety risk, without chance of misinterpretation.

The Alliance and Toyota supported this proposal noting that this requirement would better align part 573 with part 577 which requires this information in recall owner notification letters. Selander supported this proposal and noted that this requirement should not cause any additional burden to manufacturers since part 577 already requires this same information.

The Advocates also supported this proposal while suggesting that this newly required information should also be made available to the public.

MEMA commented that they are opposed to this proposal as the risk to safety “ . . . in the first filing can be, and usually is, inconclusive (or even hypothetical), especially for original equipment suppliers.” MEMA is concerned that this proposal could lead to an overstatement of risk to cover many possibilities.

We agree with the Advocates that it would be helpful to have the manufacturer's description of the risk be included in the recall summary information posted on NHTSA's Web site and available to the public. Manufacturers will be required to provide this information as part of the new form that manufacturers will be completing when notifying NHTSA of safety defect and noncompliance decisions. This is discussed below in section 3. Internet Submission of Recall-Related Reports, Information, and Associated Documents and Recall Reporting Templates.

We appreciate the concern MEMA identified, however, we feel the benefits of sharing a manufacturer's description of the risk outweigh the smaller risk that a manufacturer on a particular recall may identify risk that may or may not hold true over time or with further study. We would rather err on the side of information than silence, and it is certainly true that a manufacturer, at least with respect to a safety defect, must have considered risk and determined that risk to be unreasonable before filing a 573 report. We do not believe it furthers the mission of information and transparency to withhold this information in the event a manufacturer's description of risk might possibly change.

Accordingly, we are revising the terms of paragraph (c)(5) of § 573.6 to specify that the manufacturer filing a part 573 shall “identify and describe the risk to motor vehicle safety reasonably related to the defect or noncompliance consistent with its evaluation of risk required by 49 CFR 577.5(f).”

ii. As to Motor Vehicle Equipment Recalls, the Brand Name, Model Name, and Model Number of the Equipment Recalled

After reviewing the comments received on this proposal, we will adopt this regulation as proposed in the NPRM. The addition of equipment brand name, model name, and model number information in Part 573 Information Reports will greatly aid the public and NHTSA in better identifying recalled motor vehicle equipment.

MEMA commented that this proposal does not appear to be problematic and most equipment manufacturers already provide this information in their Part 573 Information Reports.

Both the Advocates and Selander supported this proposal through their comments. The Law office of Stephen Selander suggested that we also require the “sale date” of the equipment in the event the manufacturer is not certain of the dates of manufacturer.

We are declining to adopt Selander's suggestion regarding the capture of recalled equipment sale dates. While this is possibly helpful in a small number of cases, we have not received a large quantity of Part 573 Information Reports where the manufacturers are uncertain of the date, or range of dates, they produced the equipment. In such cases, NHTSA is able to ascertain if necessary this information through its investigative authority. Accordingly, such a requirement is not justified at this time.

Therefore, today's rule amends paragraph (c)(2)(iii) of 49 CFR 573.6 to additionally require the “brand (or trade) name, model name, model number, as applicable, and any other information necessary” to describe the equipment being recalled.

iii. Disclaimers in Part 573 Defect and Noncompliance Information Report

After careful review of the many comments received on this proposal, we have decided not to adopt the prohibition against disclaimers in manufacturers' Part 573 Information Reports. Most industry commenters, including the Alliance, Global Automakers, Toyota, Honda, Harley-Davidson, MIC, and others, criticized our proposal to prohibit disclaimers. The Advocates commented in support of this proposal noting that disclaimers “introduce confusion into the public record.” RMA's position was neutral but suggested we ensure that manufacturers could still state their intention to file an inconsequential petition, when needed.

The Alliance, Toyota, and JPMA, commented that the prohibition amounted to an unconstitutional form of compelled speech and violated their First Amendment rights to speak truthfully. The Alliance commented that disclaimers amount to a “truthful statement of the manufacturer's position” and indicate a settlement made between the manufacturer and NHTSA in order to effectuate a safety recall and free remedy. They said they strongly object to this proposal “ . . . to silence disagreement with NHTSA about whether a given condition is a safety-related defect, and apparently to deem every part 573 report to be an implicit manufacturer determination of the existence of a safety-related defect.”

Harley-Davidson commented that manufacturers should not be restricted to openly communicate the circumstances surrounding a decision to conduct a safety recall because NHTSA desires that these reports be made publicly available. For example, Harley-Davidson may want to communicate that a failure rate is relatively low or that, in the manufacturer's judgment, the safety risk is uncertain or minimal. MEMA offered a similar sentiment, saying that NHTSA should not prohibit factual and accurate statements simply because Part 573 Information Reports are published for a different audience. Harley-Davidson, Global Automakers, and MEMA commented that manufacturers should be allowed to include disclaimers since manufacturers are required to explain the circumstances of a recall decision in the chronology portion of the Part 573 Information Report, and may identify communications with NHTSA that would imply the manufacturer and the agency did not agree on the particular issue. MIC commented that they believe they should be allowed to communicate additional information, “outside of government purview,” in the recall notification that consumers receive.

Industry commenters also added that prohibiting disclaimers would ultimately hurt consumers by delaying recalls and their associated free remedies. Both the Alliance and Global Automakers claimed that this proposal would limit NHTSA's ability to negotiate a settlement in cases where the manufacturer and NHTSA disagree on the risk to safety. Honda noted that these disclaimers are a benefit to consumers and allow two parties, NHTSA and the manufacturer, to reach a compromise and avoid litigation. Selander offered a similar sentiment and noted that manufacturers may not be willing to reach a safety defect decision if forced to affirmatively admit a safety defect, and in contravention of a position they may want to take in a subsequent product liability action. Honda said that disclaimers might be a practical way to address wear items that may fail earlier than expected and whose failure may cause a safety risk. Toyota commented that we did not provide discussion on resolving investigations where “legitimate, good faith differences exist” between the manufacturer and NHTSA.

MIC, Selander, and the Alliance commented that consumers are generally savvy enough not to be confused by disclaimers, and should have available to them all the information the manufacturer wishes to provide to understand the manufacturer's report.

The Alliance commented that Part 573 Information Reports containing disclaimers are not technically “Part 573 Reports,” as part 573 only applies if a manufacturer has determined that a safety related defect or noncompliance exists. Selander commented to add that simply because Part 573 Information Reports are required in the event of a safety defect decision, it “should not mean that a safety recall cannot be conducted in the absence of such a determination.” Instead, Selander proposed that NHTSA could require certain language in any disclaimer that would indicate the disclaimer does not constitute an agreement between NHTSA and the manufacturer.

We have considered the above comments and while we disagree with some of the industry comments, we have concluded that the prohibition we proposed is unnecessary. The Part 573 Information Report is a communication from the manufacturer to the agency, and not to the consumer who rarely, if ever, will see it. Because the agency has decided not to adopt the proposal, we do not need to address comments specifically objecting to this proposal. Instead, we explain the agency's decision not to adopt the prohibition on disclaimers, while responding to some comments where necessary to state the rationale for the agency's decision.

Harley-Davidson, Global Automakers, and MEMA's comments identifying that the requisite chronology of events in a part 573 report may contain information that expressly or implicitly identifies a disagreement between the manufacturer and the agency over the nature or severity of an issue are accurate. In some cases one or more of the principal events that yielded the recall decision is or was the opening of an agency investigation, or the agency's continued pursuit of a matter despite the manufacturer's protests that the issue did not rise to the level of a safety defect, as one example.

We note that the recall notification that the manufacturer must send to the vehicle owner under part 577 may not, under that regulation's longstanding language, contain any disclaimer that implies there is no safety defect or noncompliance present in the owner's vehicle or item of replacement equipment, as it may cause owner confusion. 49 CFR 577.8. Moreover, we note that part 577 prescribes specific statements that must be included in notifications to vehicle owners without any alteration to the prescribed language. See 49 CFR 577.5(b), 577.5(c)(1), and 577(c)(2). A notification that does not conform to these requirements is a violation of the Motor Vehicle Safety Act. 49 CFR 577.9. We have made a minor change to 49 CFR 577.5(a) to make clear that these provisions of part 577 apply in any case in which the manufacturer files a defect or noncompliance information report under part 573.

We also agree that consumers are best served when safety recalls are announced and free remedies are administered as quickly as possible, irrespective of whether we and a manufacturer have reached an accord over the nature or severity of the issue that results in a safety recall. In addition, there have been NHTSA investigations and then recalls where the manufacturer and the agency are at odds over the alleged defect and/or its risk to safety. In these cases, we agree it may be better for the motoring public if NHTSA maintains the flexibility to negotiate a safety recall and a free remedy is offered as opposed to engaging in protracted litigation that would potentially delay any remedy. Accordingly, we have declined to adopt the proposal to prohibit disclaimers.

3. Internet Submission of Recall-Related Reports, Information, and Associated Documents and Recall Reporting Templates

In the NPRM we proposed to change the mechanism by which manufacturers notify NHTSA of decisions to recall and file the required Part 573 Information Reports, and to supplant the current methods that manufacturers use to submit such reports, which may include hard copies or electronic submissions received via our email RMD.ODI@dot.gov account. We proposed to develop and implement a web-based, Internet portal to be accessed through our Web site www.safercar.gov, and that all manufacturers would use to notify and provide required recalls information. Through this portal, manufacturers would not only file new part 573 reports, but would update and amend those reports, file quarterly reports on the progress of their recall campaigns, submit copies of representative communications they have issued to owners and dealers, and conduct the host of other routine filings and communications with the agency attendant to a safety recall campaign. We explained that the process and functionality would be similar to what many manufacturers are currently performing in compliance with EWR requirements, and that we would issue passwords to those manufacturers without EWR passwords whereas present EWR accountholders could use their EWR passwords. We further explained that we intended to offer manufacturers the ability to track any submissions they make, and to send a submitter a confirmation message to the manufacturer's registered email account confirming our receipt of any submission.

We shared and requested comment on five different Part 573 Report forms, or templates, to be used for notifying the agency of a recall decision and providing the information required or desired about the decision, the products affected, the nature of the defect or noncompliance, the manufacturer's plans for notification and remedy, and other information required or typically provided in a Part 573 Information Report. We also shared a standardized form for providing quarterly report information and requested comment on it.

We received comments on our proposal from the Alliance, Global Automakers, CAS, EMA, Honda, Harley-Davidson, MBUSA, and RMA. Most commenters expressed general support for our proposal, but several requested clarification on and offered suggestions as to the templates and utility of the portal.

The Alliance, Global Automakers, the Advocates, and CAS all commented in support of our proposal to implement an online recalls portal in order to standardize recall reporting. Honda expressed support for this proposal while requesting more flexibility to add other relevant information as needed. Toyota suggested that NHTSA should not require information fields that are not required to be completed under part 573, and requested a method by which to track updates made to a manufacturer's Part 573 Information Report. The Alliance suggested that for fields requesting voluntary information, the form should clarify that the information is not mandated by part 573. This group also suggested a workshop in order to ensure manufacturers understand how the new system works.

The EMA offered three suggestions as to how NHTSA could improve its recall document templates. First, they suggested the quarterly report template should have a “Save Report” button so manufacturers could save working copies of their quarterly reports before submitting them to NHTSA. Second, they suggested a change from the text-entry box on the Part 573 Information Report marked “Number of above vehicles containing the defect/noncompliance.” The EMA noted that part 573 requires the percentage of vehicles that is believed to actually contain the defect or noncompliance, not the number of vehicles. Third, the group suggested elimination of the VIN range text-entry fields in the Part 573 Information Reports, or at least made optional. The EMA claimed that safety defects or noncompliances rarely affect heavy-duty vehicle with a sequential VIN range. It is more common for recalled heavy-duty vehicles to have discontinuous VINs due to their customized production.

Honda, Harley-Davidson, and MBUSA commented that the new web-based recalls portal proposal conflicts with the statutory requirement to submit Part 573 Information Reports via U.S. certified mail. MBUSA suggested NHTSA either amend the statute prior to the implementation of this rule or allow manufacturers to, one time, submit via certified mail their intention to use online reporting going forward.

RMA also suggested a change to the Part 573 Information Report for tires. It was suggested the phrase “tire make” be changed to “tire brand” as it is more common in the industry. Also, RMA suggested a change from the term “tire model” to the more commonly used “tire line.”

Harley-Davidson criticized this proposal claiming it will increase the burden for manufacturers as these forms will only allow two company representatives to access the system. This restriction, it commented, will cause manufacturer representatives to have to circulate rough drafts outside of the online recalls ports, finalize the draft, and then paste all the information into NHTSA's Web site.

After review and consideration of the comments received, we have decided to adopt, with slight changes, the proposal to require manufacturers to submit their part 573 notification through a web-based Internet portal. A visual sample of this online recalls portal, implementing many of the suggested changes, can be found in Appendix D. We address the comments received below.

We have considered Harley-Davidson's comment but do not see how the implementation of an online recalls system will add burden to a manufacturer's workflow. Through our regular communications with manufacturers, we understand that draft versions of Part 573 Information Reports and other recalls-related submissions are circulated for approval through the various levels of management and legal staff within a manufacturer's structure. In other words, we fail to see, as a practical matter, how the requirement to put this information onto an electronic form is any different than what machinations occur prior to a manufacturer's creating a final paper copy that they either submit in hard copy or via a PDF that they then email.

As to the various comments questioning our ability to change the mechanism by which manufacturers notify NHTSA of safety recall decisions and file information, there is no statutory prohibition from specifying an additional means of notification, particularly where that means (online submission) is at a minimum equivalent to or more efficient than certified mail and advances common safety goals. If a manufacturer submits a perfected part 573 notification report through the agency's web-based online portal, the agency will waive the requirement to submit by certified mail.

For these reasons, as proposed in the NPRM, we are amending § 573.9, “Address for submitting required reports and other information,” to require submission of these reports through NHTSA's online recalls portal. Given that the Safety Act was not changed to remove the requirement that manufacturers notify NHTSA by certified mail when they make a safety defect or noncompliance decision, manufacturers may continue to also submit a printed copy of the completed online form after the form has been submitted and accepted by the agency. We will design our system to allow manufacturers to download and print a copy of this material.

We agree with the Alliance's suggestion that we host a workshop to assist manufacturers in using the portal, tracking submissions, and learning what to expect from NHTSA in terms of submission confirmations and what will be published on its Web site from the information a manufacturer supplies. We will publish a public notice in the Federal Register setting forth dates for training and workshops, to be hosted at U.S. Department of Transportation headquarters in Washington, DC and via electronic meeting services such as Webex and Webinar services.

As to the Alliance and Toyota's comments on optional information requested on the templates, but not required by part 573's reporting requirements, we disagree that omitting this information in the forms, if a manufacturer is willing to supply it, is an ideal solution. The more information a manufacturer can supply concerning its decision and its notification and remedy campaign the better informed owners and NHTSA are. Nevertheless, we do appreciate the sentiment that the form should be clear about what information is required by part 573 and what is not. Therefore, we will use an asterisk (“*”) to indicate a field for which information is mandatory at the time the report is first filed or that is required within five (5) business days of when a manufacturer confirms it. We will adjust the templates to specifically note that an asterisk next to a field means that field's information is required by regulation.

We agree with Honda's recommendation that there be other methods of adding pertinent information to a manufacturer's recall documentation. We have amended the proposed template to provide several free form text-entry boxes in the Part 573 Information Report as well as options to upload miscellaneous documents to the recall file. Manufacturers should not be, and will not be, limited in the amount of information they can supply to better support the recall description.

We also agree with Toyota's recommendation that a manufacturer's changes and updates to their submissions be tracked. We will design the system to ensure that online form updates and changes can be tracked through the new online recalls portal so manufacturers can see when changes were made to their report, like a change in the recall population or a re-evaluation of the remedy program. We will also design the system to allow manufacturers to download and print a copy of this material.

In regard to comments regarding the type of information and the format that it will be displayed on the agency's Internet Web page, we believe such issues are outside the scope of this rulemaking and inherently internal agency decisions. We do not anticipate that the information will be different from what the agency currently displays in relation to recalls campaigns on www.safercar.gov. Moreover, the agency will not disclose information that it is prohibited by law to release to the public such as personal identifying information or confidential business information. Additionally, we intend to continue to offer the public the option to access the complete version of information a manufacturer submitted (minus information we are prohibited from publishing, such as confidential materials). We note that offering the public this access via www.safercar.gov enhances our transparency and furthers the agency in meeting its obligations under the Freedom of Information Act (FOIA).

In the NPRM, we proposed a 60-day lead time from the date the final rule is published. We acknowledge that this lead time was probably too short to launch a complex, new online Web site that serves the public, manufacturers, and NHTSA personnel. Our commitment to offer training workshops for manufacturers will take time to arrange and conduct, with additional time possibly required to incorporate any adjustments that become apparent as a result of those workshops. Accordingly, we are changing the effective date of the requirement that manufacturers notify and file Part 573 Information Reports and other recalls-related information pursuant to 49 CFR 573.9 from 180 days to one year from today's notice.

With respect to EMA's suggestions, we agree with two of its three recommendations. We will, therefore, adopt the quarterly report “Save Report” option, so that a user can insert information, save it, and then return to it at a later time to complete the report. And we will correct the error we made in requesting the number of vehicles believed to be defective, as opposed to the regulation's requirement of an identification of the percentage of vehicles believed to be defective. We do not agree with the third recommendation, that the VIN range fields be eliminated. While not needed for every vehicle recall, we do receive many part 573 reports where the affected vehicles fall within a particular VIN range. In these cases, it is useful to identify the VIN range so affected owners can more easily determine whether their vehicle is affected by the safety defect or noncompliance. We note that the VIN range text-entry fields are already optional, because they do not apply to every manufacturer or every recall.

We will adopt RMA's recommendation to use terminology more consistent with industry usage for the Part 573 Information Report applicable to tires. Accordingly, the term “tire make” will be changed to “tire brand,” and the term “tire model” will be changed to “tire line.”

Given that we are not adopting our proposal to require high volume light vehicle manufacturers to submit the VINs of recalled vehicles to us, we confirm that we will not require an electronic list of VINs. Therefore, the NPRM's Appendix C, Form C1 is eliminated.

For these reasons, as proposed in the NPRM, we are amending § 573.9, “Address for submitting required reports and other information,” to require submission of these reports through NHTSA's Internet web-based recalls portal.

4. Amendments to Defect and Noncompliance Notification Requirements Under Part 577

In the NPRM, we proposed four changes to the requirements found within 49 CFR part 577, the implementing regulation governing, among other things, the content, timing, and manner of owner and dealer notifications that manufacturers issue on recall campaigns. First, we proposed to add language to § 577.7(a)(1) to require that manufacturers notify owners and purchasers no later than sixty (60) days after they notify NHTSA that a defect or noncompliance exists and, should the free remedy not be available at the time of notification, manufacturers issue a second notification to owners and purchasers once the remedy is available. Second, we proposed to amend § 577.5(a) to require that all owner notification letters include “URGENT SAFETY RECALL” in all capital letters and in an enlarged font at the top of the notification letter. Third, for vehicle recalls, we proposed to amend § 577.5(b) to require that the manufacturer place the VIN of the owner's vehicle covered by the notification within the body of the letter. Fourth, we proposed to amend § 577.5(a) to require that the envelopes in which the letters are mailed be stamped with the logos of the U.S. Department of Transportation and NHTSA, in blue or black text, along with a statement in red text, that the letter is an important safety recall notice issued in accordance with federal law. We have decided to adopt all four of our proposals.

In addition, during the course of our review of the regulatory text of § 577.5(a) in connection with some of these proposals, we noticed small adjustments that could be made to that text to make the requirements imposed under that section clearer. For example, the section currently requires that manufacturers mark the outside of recall notification envelopes with “a notation that includes the words “SAFETY,” “RECALL,” and “NOTICE.” Read literally, this would allow for recall envelopes to be marked “RECALL of SAFETY NOTICE,” or other nonsensical wording. In order to clarify what is required, we are revising the regulatory text to specify that the envelopes must be marked with the phrase “SAFETY RECALL NOTICE.”

i. 60-Day Requirement to Mail Part 577 Owner Notification Letters

In the NPRM, the agency proposed to set a fixed date by which a manufacturer must provide notice to owners and purchasers of the existence of a safety-related defect or noncompliance with a Federal motor vehicle safety standard pursuant to the owner notification provisions of the Safety Act, 49 U.S.C. §§ 30118 and 30119. 77 FR 55606, 55626. Under these statutory provisions, manufacturers must provide notification to owners, purchasers, and dealers if the manufacturer decides or the agency determines that a noncompliance or safety-related defect exists in a motor vehicle or item of motor vehicle equipment. Currently, at a minimum, manufacturers must provide these notifications within a reasonable time after filing a report under part 573. 49 U.S.C. 30119 and 49 CFR 577.7 (a)(1). For agency-ordered notifications associated with agency ordered recalls, the agency has defined reasonable time to mean within 60 days of the manufacturer's receipt of the order, unless the Administrator orders a different timeframe. 49 CFR 577.7(b). In addition, the agency proposed to require that in cases where the remedy was unavailable within 60 days, the manufacturer will need to send an “interim” notice to owners and purchasers. 77 FR at 55626.

The Alliance, Global Automakers, Toyota, EMA, Harley-Davidson, MIC, MEMA, the Advocates, RMA, and NATM all commented on our proposal to require manufacturers to notify owners of recalled products within sixty (60) days from when they file their Part 573 Information Report with the agency.

The Advocates supported our proposal, agreeing it is reasonable to align the time frame for notifying owners and purchasers with the current timeframe for agency-ordered notifications under 49 CFR 577.7(b)(1). The Advocates also noted that NHTSA should allow even earlier notifications in cases of “significantly dangerous recalls.” NATM commented that our proposal will create additional requirements for its member companies, but NATM feels they will not represent an undue burden. RMA commented that the regulation text for this proposal, “[b]e furnished no later than 60 days from the date” is vague as to the word “furnished.” RMA noted that it is not clear whether the notification must be mailed within 60 days or received within 60 days.

Industry commenters criticized this proposal as too burdensome, costly, and potentially confusing and anxiety provoking to owners. Global Automakers commented that customer call centers could be overwhelmed with concerned customers who are informed their vehicles are being recalled, but for which there is not a remedy available. MEMA commented that they do not believe this proposal will achieve any safety benefit, but will burden the industry and confuse vehicle owners. MEMA commented that requiring owner notification before a remedy is available and where there is not critical safety information to convey or the information will do little to reduce the risk of injury serves no obvious safety benefit. The association opined that this could confuse or annoy an owner and detract from the significance of the recall. If the interim notice contains no safety information necessary to prevent imminent harm, MEMA posits, an owner may conclude that if the remedy is not available the recall must not be important. Using the example of check engine warning light that could warn against any number of failures, MEMA claimed overly cautious owners may stop their vehicles out of an abundance of caution, when the real reason for the check engine light is something entirely unrelated to a safety recall.

The Alliance commented that our proposal to require manufacturers to identify vehicles on their Web sites for which the recall remedy is not yet available, reduces the purported owner notification and awareness benefits of our proposal.

Some of these commenters said that they do not object to establishing a sixty (60) day time frame to mail owner notification letters, but this time frame should be flexible to allow for situations where the safety risk cannot be reduced by the owner or parts are not available for remedy. For example, MBUSA commented that it did not object to the proposal under certain circumstances and, for example, where the remedy is available within sixty (60) days or where the owner can take steps to reduce the safety risk. Global Automakers commented similarly that an exception should be made when parts availability and remediation network issues ¹¹ justify an extension to a sixty day time frame. Selander suggested that in cases where the recall remedy is not available within sixty (60) days, the manufacturer contact NHTSA to determine whether an interim notice should be provided to owners.

¹¹ We understand “remediation network issues” to mean limitations to the capacity of a dealer network to implement a recall repair, as noted in Global Automaker's comments at page 5.

The Alliance commented that they oppose this proposal and believe that NHTSA should use its case-by-case approach to determine if interim notifications are appropriate for a given recall. The Alliance and Toyota opined that in their view this approach has worked well for decades. Toyota said NHTSA has not provided any discussion as what has changed at this point in time to explain the change. The Alliance, Toyota and EMA commented that NHTSA proposed a similar “two-step notification” rule in 1995, but chose not to implement the rule after receiving comments. The Alliance noted that in this same rulemaking, NHTSA amended part 577 to allow for it to order manufacturers to provide notification on a certain date after considering risk factors, such as when the safety risk is severe or the owner can minimize the risk. The Alliance pointed out that, “NHTSA has never issued an order pursuant to that authority” and has instead worked with manufacturers cooperatively to assure owners receive notification in a reasonable time. The group said its members have been mailing owner letters as requested, regardless of any factors outlined in § 577.5(a)(1) or any other policy considerations. The Alliance concluded that this proposal simply codifies this RMD policy.

The Alliance and EMA noted that it is not appropriate to draw a parallel between this proposal and the regulation that outlines NHTSA-ordered recalls. See 49 CFR 577.7(b). The Alliance noted that the agency has discretion in these cases to extend or shorten the 60-day time period for owner notifications. EMA commented that NHTSA-ordered recalls are rare and have never occurred for heavy-duty vehicles.

The Alliance took issue with our assertion in the NPRM that an owner's awareness and ability to make an informed judgment should not be subordinated by a manufacturer's commercial interest in providing a smooth campaign.

The Alliance speculated that consumers will be confused and frustrated, possibly resulting in reduced recall completion rates. Toyota echoed this latter point. Toyota submitted information from its examination of seven recalls, three of which required interim owner notification letters and four that did not. Toyota measured the recall completion rates at each recall's six-month mark and found that recalls utilizing an interim owner letter had an average 40.5% completion rate, as compared to an average 61.2% completion average for those that did not require an interim notice. Toyota admitted that a variety of factors can affect the completion rate of any given recall.

MEMA commented that requiring interim notifications when a remedy is not available may have a negative impact on sufficiency of the remedy. They forecasted that vehicle manufacturers will not want to issue multiple notifications due to cost and that there will be added pressure upon suppliers to make the remedy available sooner compressing the time it would otherwise take to properly develop and manufacture the recall remedy. This added pressure could have the unintended consequence of releasing less effective remedies, MEMA posited. It could also impact business relationships between manufacturers and suppliers, with manufacturers taking their business elsewhere if a supplier cannot accommodate a manufacturer's demands.

Selander commented that manufacturers generally notify owners quickly when an imminent safety risk is present.

The Alliance and Toyota commented that any required interim notification letters should not be required to follow all of part 577's requirements for notifications to owners and purchasers. As one example, the required language about contacting a dealer to schedule the recall remedy could be a point of distinct confusion when a remedy is not, in reality, available. Toyota noted that some owners may confuse a remedy notice with an earlier issued interim letter, and dispose of the letter. Toyota also commented that the proposals regarding the format of recall notification envelopes should only be applied to the remedy notices.

The Alliance also tied this proposal to our other proposal requiring vehicle manufacturers to offer a VIN-based recalls lookup tool on their Web site. The Alliance commented that the requirement to host a recalls look-up tool on manufacturers' own Web sites further reduces the need to restrict owner notification letters to 60 days from the date the manufacturer notifies NHTSA.

We have carefully considered all of the comments we received. The agency has decided to adopt the amendment to 49 CFR 577.5(a) and 577.7(a)(1) as proposed to achieve the goal of prompt notice to owners and purchasers. That is, manufacturers must notify owners and purchasers no later than sixty (60) days from the date the manufacturer files its defect or noncompliant information report pursuant to the requirements of 49 U.S.C. 30119 and 49 CFR part 573. And in cases where the remedy is unavailable within sixty (60) days, the manufacturer will be required to send an “interim” notice to owners and purchasers. To clarify, this requires manufacturers to mail their owner notification letters within sixty (60) days, not ensure that each owner or purchaser receives their notification within sixty (60) days. The latter is largely outside of the vehicle manufacturer's control and relies upon uncontrollable factors like mail delivery inconsistencies and delays.

NHTSA and industry commenters disagree when owners and purchasers should be notified about a safety defect or failure to comply with minimum safety standards. In general the industry agrees with NHTSA that notification of a safety-related defect is important and should be expeditious, yet maintains that it is appropriate to withhold such notification until the recalling manufacturer is ready to execute the recall remedy. In our view, we do not believe it is unreasonable for a manufacturer to notify an owner or purchaser within sixty (60) days of the existence of a safety defect or noncompliance, even if the remedy is not yet available. Owners should be promptly made aware of critical safety issues in order to make an informed judgment and to take measures to protect themselves and others from the risks and consequences associated with a safety defect or noncompliance.

We do not disagree with manufacturers that our implementation of a 60-day notification requirement on all safety recalls may cause concern for some owners, and it may also create minor annoyance with dealers and manufacturers who respond to owner contacts when a remedy is not available at the time the manufacturer notifies the owner of the recall. However, we must balance the risks of these concerns with an owner's right to be properly informed and empowered to make his or her decision about using the vehicle or equipment while waiting for a remedy to become available. We simply do not agree with the industry commenters that owners are better off being uninformed about critical safety risks when recall remedies, irrespective of the reason, are delayed beyond sixty (60) days from the time of a manufacturer's recall decision.

The industry speculates, without any support, that sixty (60) day notices will create owner confusion or frustration that would reduce completion rates. We do not agree. Unlike 20 years ago when we last considered this issue, with today's technology, the public is made aware of safety defects immediately following a manufacturer's submission of a part 573 report. News media regularly report a defect or noncompliance through the Internet, twitter, blogs, email notifications, television and print when the part 573 report is filed with NHTSA, which is well before the owner or purchaser receives the owner notification letter from the manufacturer. With such media attention, owners and purchasers are regularly informed of safety recalls involving their vehicles, which to NHTSA's knowledge have not created inordinate owner confusion or frustration. Because owners often become aware of recalls soon after the filing of a part 573 report, under the case-by-case approach, owners and purchasers are often left without the benefit of safety information from the manufacturer for long periods of time, relying only upon media reports. In the agency's view, it is this lengthy period of silence between the owner's knowledge of the existence of a safety defect and the manufacturer's notification where owner confusion or frustration can arise. With silence from manufacturers, this appears more confusing and frustrating to consumers than interim notifications from manufacturers, advising owners or purchasers with explicit information about the recall remedy, and what can be done before the remedy is available. Contrary to the industry, we believe owner and consumer confusion could be alleviated by the prompt notification to owners and purchasers within sixty (60) days of filing a Part 573.

Several comments questioned the need for this amendment and opined that past practices of allowing manufacturers full discretion to decide when they notify owners has worked well for decades. We disagree that the current process has worked well, as our recent experience has shown that the case-by-case approach has become unreliable. Indeed, a number of manufacturers have taken a significant amount of time after the determination of a defect to notify owners of critical safety defects. An examination of recalls between 2001 and 2010 found that a full 25 percent of recalls took longer than 60 days before owners were notified. Considering that the agency processes an average of 650 recalls a year, this is significant. It amounts to hundreds of recalls a year impacting millions of owners, on which manufacturers have taken months to notify owners of safety critical problems. While NHTSA has not exercised its authority to order a manufacturer to issue an owner notification by a date certain, we are not persuaded that maintaining the status quo will adequately inform owners of the risks surrounding a safety related defect. Instead of an approach that may leave owners unaware of critical safety information for potentially long periods of time, we believe an approach of a date certain is warranted because it provides safety information with uniformity and regularity to the owner notification process.

Also, we have in the past, currently, and expect in the future, to have safety recalls where due to the nature of the remedy, the size of the recall population, or some combination of other factors, the recall's launch is delayed many months or even a year. If we were to apply the case-by-case approach the industry recommends and follow it to its logical conclusion, owners may not receive any notification from a manufacturer about a safety risk for many months simply because there is nothing the manufacturer can do about the problem.

As to the assertion that a recalls look-up tool reduces the need for prompt notification because owners will have at their fingertips information that will inform of a recall, we agree that a recalls look-up tool is an excellent resource for owner information, but it is not a substitute for the manufacturer's required notification under 49 U.S.C. 30119. Furthermore, a VIN-based online recalls lookup tool will not assist owners of defective equipment, child seats, or tires. In many cases, only mailed notification letters to registered owners will succeed in alerting the owner to the recall.

Several commenters indicated manufacturers uniformly agree to agency requests to expedite owner notifications, and challenge the agency to identify cases where manufacturers have not acceded to requests. We do not agree with this assessment. Our experience has been very different. We have had numerous incidents where manufacturers have not easily agreed to agency requests to notify within sixty (60) days.

When we last considered interim notices in a 1995 rulemaking, we agreed to consider recalls on a case-by-case basis to determine if a particular recall warranted an interim recall notification letter mailing. See 60 FR 17254. We declined to institute a proposed thirty (30) day notification requirement. Since that time, we have reconsidered such an approach and, for the reasons expressed above, have arrived at a different conclusion.

The case-by-case approach that industry advocates places the burden on NHTSA to use its limited administrative resources to ascertain facts and make assessments on owner notification as to each of the 650 recalls (on average) we process each year. It requires the agency to affirmatively object to a manufacturer's plans, then justify our objection to the manufacturer, and engage in a discussion approaching negotiation over timing. We simply do not have the resources to conduct 650 (or thereabouts) individual assessments a year, and believe it could lead to inconsistent decision-making.

We do not disagree with the assertion that manufacturers generally notify owners more quickly in recalls involving imminent threats. And, even if we did, as the industry commenters have noted, we have at our discretion a separate regulatory provision under § 577.5(b) to address those cases. Nevertheless, we do not agree that because manufacturers generally may react and notify more quickly in these cases, that this discharges the requirement of providing owners reasonably prompt notification on recalls at large or obviates the pervasive issue of manufacturers delaying notifications until remedies are available.

We note that our proposal, to require owner notification within sixty (60) days does not prevent manufacturers from notifying more quickly. We encourage manufacturers to mail affected owners as early as the manufacturer can reasonably do so.

The Alliance and Toyota commented that strict adherence to part 577's requirements on content should be reconsidered, and that the contents of those notifications be determined on a case-by-case basis. We do not agree that individualized assessments and decisions are necessary. We believe that the regulation's requirements are sufficiently flexible so as to permit a manufacturer to inform the owner, at the very least, that a remedy is under development and not yet available, and that the owner can expect to receive another notification from the manufacturer when the remedy is available. Many manufacturers have issued such interim notifications without any requirement to do so. Since manufacturers must submit draft notifications to the agency for review, any individual issues to the extent they exist can be addressed and managed then.

Toyota commented that the label NHTSA proposed for recall notification envelopes as well as some part 577 verbiage should only be placed on the remedy notice, as they help motivate owners to seek the recall remedy. We do not agree. Interim notifications are as important as notifications in which a free remedy is ready and available. A primary objective of owner notification is to inform the owner of the defect (or noncompliance) and its risk. This information is safety critical and so we believe use of the logo, as well as the current part 577 owner letter verbiage, to be equally as applicable to interim notices.

Accordingly, after review and consideration of the comments, the agency has decided to adopt the amendment to 49 CFR 577.5(a)(1) as proposed to achieve the statutory goal of prompt notice to owners and purchasers, while providing flexibility to manufacturers in unusual circumstances.

ii. “IMPORTANT SAFETY RECALL” on Owner Notification Letters

Our proposal to add the phrase “URGENT SAFETY RECALL” to the top of all part 577 owner notification letters received comments from: the Advocates, NATM, Honda, the Alliance, Selander, and MEMA.

The Advocates expressed general support for this proposal. Global Automakers and Honda both expressed support for this proposal. Both suggested the word “Important” or “Urgent” be used consistently on the envelope and letter, but expressed no preference as to which word is selected.

The Alliance and Selander both commented that the phrase “URGENT SAFETY RECALL” should not be placed on interim notification letters as there would be no urgent action the owner could take if the remedy is not yet available.

We agree that the term “urgent” could be fairly construed to imply immediate action from the owner is expected. Accordingly, after reviewing and considering comments for this proposal, we will adopt the proposal with this slight modification. We will amend § 577.5(a) to require the phrase “IMPORTANT SAFETY RECALL” instead of the proposed phrase “URGENT SAFTEY RECALL.”

iii. Inclusion of Vehicle Identification Numbers in Owner Notification Letters

The Alliance, the Advocates, NATM, Honda, EMA, Global Automakers, and MEMA all commented on our proposal to require the owner's VIN be printed at the top of the owner notification letter.

The Alliance and the Advocates supported this proposal. Honda and EMA expressed concern regarding the fixed location of the VIN at the top of the owner letter. Honda explained that their owners receive standardized letters, but that the owner's name and address only appear on a VIN Information Change Card (VICC), which is visible through the envelope window. Honda noted that matching up a custom-printed owner letter with each owner's VICC would double the cost of their owner notification mailings. MEMA and EMA raised the issue of owners that have multiple vehicles affected by a recall, as is the case with many commercial fleets or rental car companies. EMA suggested allowing manufacturers to attach a separate list of VINs.

Global Automakers commented that they do not support the placement of the owner's VIN on both the owner notification letter and the envelope. MEMA commented that this proposal would add to the administrative and printing burdens for smaller manufacturers. MEMA added that there was no assurance that these new requirement will draw any more attention than the current owner notification requirements.

We decided to adopt the proposal to amend § 577(b) to require manufacturers add the VIN of the affected vehicle, but in view of the comments over location, will not dictate the location of that information, and only require that it be in a conspicuous location. We reiterate that we proposed only that the VIN be on the notification; we did not propose to require it to be on the envelope.

We also reiterate that adding the VIN to the notification letter was a suggestion the GAO provided based upon focus group research it conducted. We continue to support this recommendation and do not believe the cost associated with it is onerous.

On the issue of multiple VINs associated with one owner, we leave it to the discretion of the manufacturer as to how it informs the owner that they have multiple vehicles affected, so long as whatever approach is taken demonstrates that the notification is complete. We agree with EMA that one approach is to provide a list of VINs with the notification. Another approach may be to, instead of printing a single VIN on the letter, include a list of multiple vehicles and VINs that are impacted. We take no position on the approach a manufacturer takes to meet the requirement to place affected VINs in a conspicuous place in the owner notification letter.

After review and consideration of the comments, we have decided to adopt the proposal to add the VIN(s) of the affected vehicle to the owner notification letter, but permit the manufacturer to determine a place on the letter, as long as it meets the requirement that it is in a conspicuous location within the notification. Therefore, we are amending 49 CFR 577.5(b) accordingly.

iv. Inclusion of Standardized Label on Owner Notification Letter Envelopes

Our proposal to amend 49 CFR 577.5(a) to add a standardized label to the owner notification envelope received comments from the Alliance, Toyota, and Selander who agreed that such a label will help separate important safety recall notifications from other marketing mailers. The Alliance, EMA and RVIA suggested changes in the location of the label. We proposed that this label be located on the front, lower-left corner of the envelope. The Alliance suggested that a single location not be specified in the rule, but left to the discretion of each manufacturer. EMA suggested that the label be as close to the bottom left corner as possible. The RVIA suggested that manufacturers be allowed to place the label on one side or the other, at their discretion.

Honda, Global Automakers, and EMA suggested changes to the proposed lead time for this proposal. Honda supported this proposal while noting that a change from a sixty (60) day lead time to a phase-in period would allow the use of existing inventory. Global Automakers agreed that a sixty (60) day lead time would create the wasteful expense of destroying old supplies. EMA also requested a longer lead time for this proposal, preferably a one-year lead time to coordinate the implementation of new envelopes.

The Alliance commented that the NPRM preamble referenced the phrase “Important Safety Recall Notice,” whereas the label image reads “Important Safety Recall Information.” MEMA commented that requiring the label on envelopes and the notification letter may create an administrative and printing cost burden for smaller manufacturers, and argued that it is not clear that this proposal will have any impact on recall completion.

We have decided to adopt the proposal to amend § 577.5(a) to require the label on the front of the envelope with a slight modification. We agree with the Alliance that the precise location of the label on the front of the envelope does not need to be specified. Today's final rule leaves the label's placement to the discretion of the manufacturer so long as it is not obscured by postage or other labeling or stamping. We also understand the need for a longer lead time to avoid unnecessary waste and cost. We believe a phased-in lead time of six (6) months from the date the final rule is reasonable and provides more than sufficient time for manufacturers to use their existing supplies and order new stock. Also, should NHTSA change or update the label in the future, we will ensure manufacturers are given proper notice through the NHTSA Online Recalls Portal. We will also ensure manufacturers are given ample time to make the necessary changes.

We thank the Alliance for its comment identifying the inconsistency in language used in our NPRM's preamble and the image of the label we provide in the Appendices. We clarify that the label image is correct and should read “Important Safety Recall Information.” An example of the standardized label can be found in Appendix E.

We appreciate MEMA's questioning the need or benefit of the label. As an initial matter, we clarify that the label is only required on the envelope, and not the letter, as MEMA's comment appears to suggest. We agree it is not certain that this label will have the positive impacts we expect. Nevertheless, we believe increase recalls completion rates is an important objective and merits industry taking this small step in expectation of increasing recall completion rates and thereby reducing risks of injuries and death to motorists.

5. Requirements for Manufacturers to Keep NHTSA Informed of Changes and Updates in Defect and Noncompliance Information Reports

In the NPRM, we proposed to amend § 573.6(b) in two respects. We proposed that manufacturers supply information not available at the time of their initial report, and information that later becomes updated or changed, within five working days of when that information becomes available. We also proposed that manufacturers complete a 90-day review of their Part 573 Reports for completeness and accuracy.

i. Submission of Information Not Available at the Time of the Initial Part 573 Report, and Amended Information, Within Five Working Days

Our proposal, for manufacturers to supply missing and amended Part 573 Information Reports within five working days, received comments from The Alliance, the Advocates, Selander, MEMA, MBUSA, and Global Automakers.

The Advocates supported this proposal agreeing it would increase the accuracy and timeliness of reports. The Alliance, EMA, and MBUSA commented that they do not object to the proposal. Global Automakers felt five working days was not sufficient or reasonable and proposed the requirement be set at 10 working days.

The Alliance, Toyota, and MEMA all requested clarification as to the term “becomes available” since information becomes available to different levels of the company at different times. The Alliance commented that information needs to be confirmed before being submitted to NHTSA. Toyota noted that the person with the newly available information might not be the decision-maker. Toyota also suggested that the regulatory text be changed to allow the manufacturer, through its normal process, to supply the information once it has confirmed the accuracy of the information. MEMA also suggested updated information should be submitted within five working days after a manufacturer's good faith determination.

MEMA requested that § 573.6(c)(4), the requirement that specifies the percentage of vehicles estimated to actually contain the defect or noncompliance be omitted from this proposal. MEMA noted that this percentage is a “moving target” and can change frequently. MEMA believes the burden to update this could be substantial.

After review and consideration of the comments, we concur with these comments with the exception of Global Automakers' request to extend the timeframe from five working days to 10 working days.

We will strike the requirement to update within five working days as it applies to the requirement to report the percentage of vehicles estimated to actually contain the defect or noncompliance found in paragraph (c)(4) of § 573.6. Unlike other elements required to be reported in § 573.6, such as the identity of the products being recalled, the size of the population, and the manufacturer's planned dates for notifying owners, the agency's and the public's need for an update of this percentage figure is not as vital after the initial report is filed.

We do not agree with Honda's assessment that five working days is an insufficient amount of time for a manufacturer to update the agency with new or changed information. A time frame of five working days is consistent with the amount of time manufacturers have to submit their initial Part 573 Information Report.

Accordingly, we will amend § 573.6(b) to require new or missing Part 573 Report information to be submitted within five working days of when the accuracy of the information has been confirmed. In addition, in order to clarify that the requirement to update applies to safety recalls, and not to other campaigns a manufacturer may conduct that are not subject to the requirements of part 573, we are today making a technical correction to specify that a manufacturer must provide the NHTSA assigned “recall” number when informing of changes and updates.

ii. 90-Day Review of Part 573 Information Report for Completeness and Accuracy

In the NPRM, we proposed to require that 90 days after making the remedy available manufacturers review their Part 573 Information Report for completeness and accuracy. We received comments from the Advocates, the Alliance, Toyota, Harley-Davidson, and EMA on our proposal.

A number of the comments reflected that the purpose of this proposal is achieved largely through our proposal to require any changes or updates to part 573 reports be submitted within five working days. Harley-Davidson and EMA, for example, commented that this proposal is too burdensome and unnecessary. Harley-Davidson noted that the proposal to supply new or updated part 573 information within five days renders this 90-day certification duplicative. EMA echoed this comment and added that a 90-day certification would effectively close out a Part 573 Information Report and forestall any updates to the report.

The Alliance and Toyota commented that they do not oppose this proposal, however they do not believe a separate submission is the most efficient way to achieve the goal of ensuring accurate Part 573 information. The Alliance and Toyota suggested that this 90-day certification be added to a manufacturer's first quarterly report.

MBUSA commented that they worry this proposal could “. . . establish an unworkable requirement to ‘certify’ the completeness and accuracy of the Part 573 Report.” MBUSA suggested that the regulatory text be changed so that manufacturers only certify as to the accuracy of the report based on the information the manufacturer has available at that time.

MEMA commented that NHTSA does not have the statutory authority to implement this proposal. MEMA added that the authority given to NHTSA in MAP-21, to promulgate rules requiring manufacturers certify the accuracy and completeness of information reported to NHTSA, only applies to defect or noncompliance investigations, not Part 573 Information Reports.

We do not agree with MEMA's view that we do not have the authority to make this change. We have considerable discretion to determine the contents of manufacturer notifications to us, as well as establishing the timing for those notifications. See 49 U.S.C. 30119. It is illogical to hold that we would not similarly have the discretion to decide when changes or updates would be required to be submitted.

Nevertheless, after considering comments, we agree that the change to require submission of additional or changed information within five working days does, for the most part, address our concerns that safety recall information be timely submitted so that we, and the public, remain properly informed. Accordingly, we have not adopted this proposal.

6. Requirement To Notify NHTSA in the Event of Filing of Bankruptcy Petition of a Recalling Manufacturer

In the NPRM, our proposal to amend part 573 to add new § 573.16 to require manufacturers to notify NHTSA in the event of filing a bankruptcy petition, received comment from one party. The Advocates commented favorably and said they agree that this regulation will allow NHTSA to protect the interests of owners and consumers of recalled vehicles and equipment. Accordingly, we are adopting the proposal as written.

VI. Lead Time

We understand that manufacturers need lead time to modify their existing EWR databases and software. Today's amendments that require some lead time include the requirement for light vehicle manufacturers to provide the vehicle type and fuel and/or propulsion system type in their quarterly EWR submissions as well as the addition of Stability Control systems, FCA, LDP, Foundation Brake Systems, Automatic Braking Controls and Backover Prevention components to EWR reporting. Because manufacturers will need time to modify existing EWR databases and software to conform their systems to meet the today's amendments, the lead time will be one year from the date the final rule is published. We believe one year is an adequate amount of time for manufacturers to comply with today's amendments. Accordingly, the effective date for the amendments to light vehicle type, light vehicle fuel and/or propulsion system reporting and components, including the electronic submission of substantially similar vehicle listings, will be the first reporting quarter that is one year from the date the final rule is published.

We understand that adopting today's regulations requiring larger vehicle manufacturers to supply VIN information electronically on their Web sites and in the manner specified will require those manufacturers to modify or adjust their existing databases and software. We further understand that the requirements to file online Part 573 Reports and quarterly reports (where applicable) using the forms prescribed will also necessitate some lead time, including time for manufacturers to register and be provided passwords and to conduct training of staff. The effective date for these requirements will be one year from the date the final rule is published. However, we look forward to working with manufacturers to test the system prior to the effective date for these requirements.

For the requirement that part 577 owner notification letter envelopes contain a new label with the logos of the U.S. Department of Transportation and NHTSA, we will allow a lead time of 180 days from the date of the final rule publication for manufacturers to ensure all envelopes being mailed contain this label. However, we encourage manufacturers to adopt this requirement as soon as practicable, within those 180 days.

For the remaining requirements affecting requirements under parts 573 and 577, we believe a shorter lead time is appropriate because the new requirements do not involve changes to technology or investment of additional resources. Accordingly, the effective date for all remaining requirements that are newly adopted will be 60 days after the date the final rule is published.

VII. Privacy Act Statement

Anyone is able to search the electronic form of all comments received into any of our dockets by the name of the individual submitting the comment (or signing the comment, if submitted on behalf of an association, business, labor union, etc.). You may review DOT's complete Privacy Act Statement in the Federal Register published on April 11, 2000 (65 FR 19477) or you may visit http://dms.dot.gov.

VIII. Rulemaking Analyses and Notices

A. Regulatory Policies and Procedures

Executive Order 12866, Executive Order 13563, and the Department of Transportation's regulatory policies require this agency to make determinations as to whether a regulatory action is “significant” and therefore subject to OMB review and the requirements of the aforementioned Executive Orders. Executive Order 12866 defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

This document was reviewed under E.O. 12866, E.O. 13563, and the Department of Transportation's regulatory policies and procedures. This rulemaking has been determined to be not “significant” under Executive Order 12866 and the Department of Transportation's regulatory policies and procedures. The effects of these amendments have been analyzed in a Final Regulatory Evaluation, available in the docket of this rulemaking action. The amendments being made with this document that relate to adding reporting fields for light vehicle and medium-heavy vehicle manufacturers (including the new requirement to split the service brake category into two new categories) would place only a minimal burden on EWR manufacturers through a one-time adjustment to their EWR databases and software. The agency estimates that the amendments will result in a one-time burden of $83,981 per light vehicle manufacturer and $14,888 per bus, emergency vehicle, and medium-heavy vehicle manufacturer (in 2011 dollars).

In addition, the amendments being made by this rule that relate to new requirements that certain vehicle manufacturers make safety recall information available on the Internet will result in a one-time burden of $26,455 for each of the nine (9) vehicle manufacturers that do not currently offer look-up tools. Each of these nine (9) manufacturers will also incur an annual cost burden of $30,000 to maintain these systems. An additional eighteen (18) light vehicle manufacturers who already operate these newly required database systems will each incur a one-time burden of $7,010 to support the exchange of safety recall information to NHTSA's Web site www.safercar.gov. The agency also estimates an annual cost burden of $133,930 per manufacturer for the amendments to part 577 to notify owners and purchaser of recalled motor vehicles and motor vehicle equipment.

B. Regulatory Flexibility Act

The Regulatory Flexibility Act (RFA) of 1980 (5 U.S.C. 601 et seq.) requires agencies to evaluate the potential effects of their proposed and final rules on small businesses, small organizations and small governmental jurisdictions. Section 605 of the RFA allows an agency to certify a rule, in lieu of preparing an analysis, if the rulemaking is not expected to have a significant economic impact on a substantial number of small entities.

This rule would affect all motor vehicle and motor vehicle equipment manufacturers. The changes to the EWR regulations, the foreign defect reporting regulation, defect and noncompliance information reports, and defect and noncompliance notifications would affect manufacturers of light vehicles, buses, emergency vehicles, medium-heavy vehicles, motorcycles and trailers, tires and motor vehicle equipment.

In order to determine if any of these manufacturers are small entities under the RFA, NHTSA reviewed the North American Industry Classification System (NAICS) codes. Business entities are defined as small businesses using the NAICS code, for Small Business Administration (SBA) assistance. One of the criteria for determining size, as stated in 13 CFR 121.201, is the number of employees in the firm. For establishments primarily engaged in manufacturing or assembling automobiles and light and medium-heavy duty trucks, buses, new tires, or motor vehicle body manufacturing, the firm must have less than 1,000 employees to be classified as a small business. For establishments manufacturing the safety systems for which reporting will be required, the firm must have less than 750 employees to be classified as a small business. For establishments manufacturing truck trailers, motorcycles, child restraints, re-tread tires, other vehicles equipment and alterers, and second-stage manufacturers, the firm must have less than 500 employees to be classified as a small business. In determining the number of employees, all employees from the parent company and its subsidiaries are considered and compared to the 1,000 employee threshold. Many of the bus companies are owned by other larger companies.

The agency separately published a Final Regulatory Evaluation that includes a regulatory flexibility analysis. That document sets forth in detail the agency's analysis and is located in the docket.

The agency believes that there are a substantial number of small businesses that will be affected by the amendments to the Early Warning Rule, the Foreign Defect Reporting Rule, the Defect and Noncompliance Information Reports, and Defect and Noncompliance Notification; however, we do not believe that the requirements, which involve reporting and recordkeeping, will amount to a significant impact as discussed in the Cost section of the Final Regulatory Evaluation. As explained in section V.B.1.i above, in this rule the agency is not requiring smaller manufacturers to establish an online VIN-lookup system, which accounts for many of the new estimated costs burdens.

In summary, as stated in the agency's Final Regulatory Evaluation, these amendments will not have a significant economic impact on a substantial number of small businesses. For the reasons stated in the Final Regulatory Evaluation, the agency believes that the amendments to Part 573, Part 577 and 579 will not have a significant economic impact on vehicle manufacturers, and motor vehicle equipment manufacturers including tire manufacturers affected by this rule. Accordingly, I certify that this final rule would not have a significant economic impact on a substantial number of small entities.

C. Executive Order 13132 (Federalism)

Executive Order 13132 on “Federalism” requires us to develop an accountable process to ensure “meaningful and timely input by State and local officials in the development of “regulatory policies that have federalism implications.” The Executive Order defines this phrase to include regulations “that have substantial direct effects on the States, on the relationship between the national government and the States, or on the distribution of power and responsibilities among the various levels of government.” The agency has analyzed this rule in accordance with the principles and criteria set forth in Executive Order 13132 and has determined that it will not have sufficient federalism implications to warrant consultation with State and local officials or the preparation of a federalism summary impact statement. The changes made by this final rule only affect a rule that regulates submission and disclosure of information by manufacturers of motor vehicles and motor vehicle equipment, which does not have substantial direct effect on the States, on the relationship between the national government and the States, or on the distribution of power and responsibilities among the various levels of government, as specified in Executive Order 13132.

D. Unfunded Mandates Reform Act

The Unfunded Mandates Reform Act of 1995 (Pub. L. 104-4) requires agencies to prepare a written assessment of the costs, benefits, and other effects of proposed or final rules that include a Federal mandate likely to result in expenditures by State, local or tribal governments, in the aggregate, or by the private sector, of more than $100 million annually (adjusted annually for inflation with base year of 1995). Today's requirements would not result in expenditures by State, local or tribal governments. Our requirements only apply to motor vehicle and equipment manufacturers. The changes are estimated to result in a one-time cost of about $12.7 million for EWR and Part 573 changes and about $7.77 million annually in recurring costs to manufacturers for notifying owners and purchasers of recalls under the changes to Part 577, as well as the maintenance of manufacturer VIN-based recalls lookup tools. This rule does not result in expenditures by motor vehicles and equipment manufacturers of more than $130 million annually and, therefore, does not require an assessment per the Unfunded Mandates Reform Act of 1995.

E. Executive Order 12988 (Civil Justice Reform)

Pursuant to Executive Order 12988, “Civil Justice Reform” ¹² the agency has considered whether this rule would have any retroactive effect. We conclude that it would not have a retroactive or preemptive effect, and judicial review of it may be obtained pursuant to 5 U.S.C. 702. That section does not require that a petition for reconsideration be filed prior to seeking judicial review.

¹² See 61 FR 4729 (February 7, 1996).

F. Paperwork Reduction Act

Under the Paperwork Reduction Act of 1995, a person is not required to respond to a collection of information by a Federal agency unless the collection displays a valid Office of Management and Budget (OMB) control number. An Information Collection Request (ICR) for the proposed revisions to the existing information collections was submitted to the Office of Management and Budget (OMB) for review and comment in conjunction with the publication of the NPRM. NHTSA and OMB received one comment, from the Alliance, in response to the ICR. That comment, and the agency's responses, are discussed in Section V, above. In light of the differences between today's final rule and the proposal, an amended ICR is being submitted to OMB for review and comment. The ICR describes the nature of the information collections and their expected burden.

The collection of information associated with the existing part 579 is titled “Reporting of Information and Documents About Potential Defects” and has been assigned OMB Control Number 2127-0616. This collection was approved by OMB. The collection of information associated with the existing part 573 and portions of part 577 is titled, “Defect and Noncompliance Reporting and Notification.” This collection was approved by OMB and has been assigned OMB Control Number 2127-0004.

1. Part 579 Collections

When NHTSA most recently requested renewal of the information collection associated with part 579, the agency estimated that the collection of information would result in 2,355 responses, with a total of 82,391 burden hours on affected manufacturers. These estimates were based on 2006 EWR data. The agency has published two amendments to the EWR regulation since then which will affect the reporting burden on manufacturers. On May 29, 2007, the agency eliminated the requirement to produce hard copies of a subset of field reports known as “product evaluation reports.” 72 FR 29435. On September 17, 2009, NHTSA issued a final rule that modified the reporting thresholds for quarterly EWR reports. 74 FR 47740. The reporting threshold for light vehicle, medium-heavy vehicle (excluding buses and emergency vehicles), motorcycle, and trailer manufacturers was changed from an annual production of 500 vehicles to an annual production of 5,000 vehicles. The reporting threshold for emergency vehicles stayed the same, but the reporting threshold for bus manufacturers was changed from an annual production of 500 vehicles to an annual production of 100 vehicles.

The net effect of all of these changes to the various reporting thresholds for the different vehicle types was to reduce the overall number of manufacturers required to report certain information and the amount of information those manufacturers are required to report. Because these changes will affect the burden on manufacturers, our burden hour estimates need to be adjusted.

a. Adjusted Estimates for Current Information Collections

In the EWR Final Regulatory Evaluation (July 2002, NHTSA docket #8677), it was assumed that reviewing and/or processing would be required for death and injury claims/notices, property damage claims, non-dealer field reports, and foreign death claims. It was also assumed that customer complaints, warranty claims, and dealer field reports would not impose incremental burden hours since computer systems were set up to automatically count these aggregate data points. Table 1 below shows the number of documents submitted in 2011 by reporting type.

BILLING CODE 4910-59-P

The agency assumed that a total of 5 minutes would be required to process each report with the exception of foreign death claims. For these, it would require 15 minutes. Multiplying this average number of minutes times the number of documents NHTSA receives in each reporting category will yield burden hours (see Table 2).

The burden hours associated with aggregate data submissions for customer complaints, warranty claims, and dealer field reports are included in reporting and computer maintenance hours. The burden hours for computer maintenance are calculated by multiplying the hours of computer use (for a given category) by the number of manufacturers reporting in a category. Similarly, reporting burden hours are calculated by multiplying hours used to report for a given category by the number of manufacturers for the category. Using these methods and the number of manufacturers who reported in 2011, we have estimated the burden hours for reporting cost and computer maintenance (see Table 3).

BILLING CODE 4910-59-C

Thus, the total burden hours for EWR death and injury data, aggregate data and non-dealer field reports is 7,178 (Table 2) + 3,956 (Table 3) + 33,170 (Table 3) = 44,304 burden hours.

In order to provide the information required for foreign safety campaigns, manufacturers must (1) determine whether vehicles or equipment that are covered by a foreign safety recall or other safety campaign are identical or substantially similar to vehicles or equipment sold in the United States, (2) prepare and submit reports of these campaigns to the agency, and (3) where a determination or notice has been made in a language other than English, translate the determination or notice into English before transmitting it to the agency. NHTSA estimated that preparing and submitting each foreign defect report (foreign recall campaign) would require 1 hour of clerical staff and that translation of determinations into English would require 2 hours of technical staff (Note: this assumes that all foreign campaign reports would require translation, which is unlikely). NHTSA received 104 foreign recall reports in 2011 which results in 104 hours for preparation and submission of the reports (104 defect reports × 1 hour clerical = 104 hours) and 208 hours for technical time (104 foreign recall reports × 2 hours technical = 208 hours.)

With respect to the burden of determining identical or substantially similar vehicles or equipment to those sold in the United States, manufacturers of motor vehicles are required to submit not later than November 1 of each year, a document that identifies foreign products and their domestic counterparts. NHTSA continues to estimate that the annual list could be developed with 8 hours of professional staff time. NHTSA has received lists from 85 manufacturers for 2011, resulting in 680 burden hours (85 vehicle manufacturers × 8 hours = 680 hours).

Therefore, the total annual hour burden on manufacturers for reporting foreign safety campaigns and substantially similar vehicles/equipment is 992 hours (680 hours professional time + 104 hours clerical time + 208 hours technical time).

Section 579.5 also requires manufacturers to submit notices, bulletins, customer satisfaction campaigns, consumer advisories and other communications that are sent to more than one dealer or owner. Manufacturers are required to submit this information monthly. However, the burden hours associated with this information were inadvertently not included in the overall burden hours calculated and submitted when the agency most recently requested renewal of the information collection. Therefore, we have estimated the burden hours necessary for manufacturers to comply with this requirement.

Section 579.5 does not require manufacturer to create these documents. Manufacturers are only required to send copies to NHTSA. Therefore, the burden hours are only those associated with collecting the documents, preparing them for mailing, and sending them to NHTSA. Manufacturers are required to submit the documents within 5 working days after the end of the month in which they were issued. Manufacturers are allowed to submit them by mail, by facsimile or by email. Most manufacturers submit them by email (about 75 percent), some manufacturers send in paper copies by mail and others send in electronic copies on disk by mail.

NHTSA receives about 7,000 notices a year. We estimate that it takes about 5 minutes to collect, prepare and send a notice to NHTSA. Therefore, we estimate that it takes 7,000 documents × 5 minutes = 35,000 minutes or 584 hours for manufacturers to submit notices as required under Part 579.5.

Based on the foregoing, we estimate the burden hours for manufacturer to comply with the current EWR requirements, the foreign campaign requirements and the Part 579.5 requirements total 45,880 burden hours (44,304 hours for EWR requirements + 992 hours for foreign campaign requirements + 584 hours for Part 579.5).

b. New Collections

NHTSA estimates there will be a one-time increase of 27,016 burden hours on those reporting under Part 579, Subpart C associated with the requirements in today's final rule. Adding vehicle type, fuel and/or propulsion system type, and four new components (stability control, FCA, LDP, and backover prevention¹³) to the vehicle EWR reporting is likely to create a one-time cost for manufacturers to amend their reporting template and revise their software system to appropriately categorize the data. We estimate that one-time cost to revise EWR databases and software finalized in today's rule would involve two weeks of a computer programmer's time and 8 hours of a manager's time per one component or fuel/propulsion element. Thus, an increase in burden hours for light vehicle manufacturers will be 80 hours × 6 EWR codes ¹⁴ to add to the template = 480 hours for a computer programmer and 8 hours × 6 = 48 hours for a computer manager or 528 burden hours. For bus, emergency vehicle and medium/heavy vehicle manufacturers, we estimate 80 hours for computer programmers and 8 hours for computer manager to add the stability control and/or RSC component. There are currently 40 light vehicle manufacturers and 67 bus (29), emergency vehicle (8) and medium-heavy vehicle (30) manufacturers which would be affected by today's final rule. The additional burden hours for light vehicle manufacturers would be 528 × 40 = 21,120 more burden hours. For bus, emergency vehicle and medium/heavy vehicle manufacturers, we estimate an additional 88 × 67 = 5,896 burden hours. For these reasons, NHTSA estimates industry will incur a one-time increase of 27,016 more burden hours to implement these requirements.

¹³ Splitting the “service brake” category into “foundation brake” and “automatic brake controls” is not included in this analysis because simply dividing already collected information into two categories rather than one does not increase the burden hours or cost of collecting and reporting the information.

¹⁴ vehicle type, 4 components and fuel/propulsion

As for today's changes to part 579, subpart B, we believe the burden associated with adding a requirement that manufacturers supply the list of substantially similar vehicles electronically will be minimal. The agency believes the electronic submission of annual substantially similar vehicle information will take an additional hour for an IT technician to submit their lists to NHTSA. There are about 85 substantially similar vehicle list submissions per year and about 80 percent are already submitted electronically. Thus, we estimate that manufacturers will incur about 17 additional burden hours per year to submit substantially similar vehicle lists electronically. We estimate there will be increase of 17 burden hours on those reporting under part 579, subpart B.

We estimate that the total burden hours associated with the part 579 requirements would be 45,880 hours for current reporting requirements plus 27,016 hours for new requirements plus 17 hours for the electronic submission of substantially similar list, for a total of 72,913 burden hours.

Apart from the burden hours estimated above, several of our requirements in this final rule involve investment as well as recurring costs. We estimate these costs as follows:

We estimate there will be a one-time cost for the manufacturers to revise their data categorization and collection process and software systems to report vehicle type, fuel and/or propulsion system type, and the new components: ESC (for light vehicles), ESC/RSC (for medium and heavy vehicles), FCW, LDW, and Backover Prevention on the amended templates. Once EWR systems are revised, additional on-going burdens should be negligible as manufacturers already have established EWR operations.

In the NPRM we estimated that the one-time cost incurred per manufacturer to revise the EWR collection and categorization process, databases and software systems to report the new categories on the amended template would include 2 weeks of a computer programmer's time for, and 8 hours of a manager's time. Based on $113 per hour for a computer programmer and $166 per hour for a manager, we estimated the following cost for each of the 40 light vehicle manufacturers that submit EWR information: $113 per hour/computer programmer × 80 hours × 6 = $54,240; $166 per hour/manager × 8 hours × 6 = $7,968. Thus, the estimated total cost for each of the 40 light vehicle manufacturers to revise the collection process, databases and software systems to add vehicle type, fuel and/or propulsion system type, and the ESC, FCW, LDW and backover prevention components to the amended EWR template amounts to: $54,240 computer programming cost + $7,968 managerial cost = $62,208 per light vehicle manufacturer. This amounted to a total cost of $2,488,320 for the 40 light vehicle manufacturers.

Based on the same costs per hour to revise the EWR template, we estimated, in the NPRM, the following cost for each of the 67 manufacturers of buses (29), emergency vehicles (8), and medium/heavy vehicles (30) that report EWR information, as follows: $113 per hour/computer programmer × 80 hours × 1 stability control component = $9,040; $166 per hour/manager × 8 hours × 1 stability control and/or RSC component = $1,328. Thus, the estimated total cost for each of the 67 manufacturers of buses, emergency vehicles and medium/heavy vehicles to revise the data categorization and collection process, databases and software systems to add the stability control and/or RSC component to the amended EWR template amounts to $9,040 computer programming cost + $1,328 managerial cost = $10,368 per manufacturer. This amounted to a total cost of $694,656 for the 67 manufacturers of buses, emergency vehicles, and medium/heavy vehicles.

The Alliance stated, in its comment to the NPRM (its Appendix C) and its comment to the ICR, that the agency had “grossly underestimated the costs of the proposed amendments” to the EWR components. The Alliance estimated costs of $337,516 per manufacturer for a light vehicle manufacturer total of $13 million for 40 light vehicle manufacturers. However, Alliance based its estimate on an incorrect reading of the NPRM which would have required manual review and expert judgment on each record to place records into the new categories. As we explained in Section V of this notice, the agency did not intend for manufacturers to change the automated processes they use to submit EWR data. Therefore, we cannot rely on the Alliance's estimate of costs. Honda commented to the NPRM that it had no difficulties with the new EWR categories and it estimated a total of $135,000 and 1,350 person hours for a one-time change to the reporting process to accommodate the new categories. Honda's cost estimate is more than twice the agency's estimate. However, Honda did not submit details of its estimate based on labor categories and labor rates, so we cannot evaluate where we differ. In light of the comments received, we reconsidered our estimates and have revised the estimates to include a range of 80 to 120 hours per change for the computer programmer's time, with no change in the management level. Thus our revised cost estimate is that the one-time cost incurred per manufacturer to revise the EWR collection and categorization process, databases and software systems to report the new information on the amended template will include two to three weeks of a computer programmer's time, and eight hours of a manager's time. Based on $113 per hour for a computer programmer and $166 per hour for a manager, we estimate the following cost for each of the 40 light vehicle manufacturers that submit EWR information: $113 per hour/computer programmer × 80 to 120 hours × 6 EWR codes to add to the template = $54,240 to $81,360; $166 per hour/manager × 8 hours × 6 = $7,968. Thus, the estimated total cost for each of the 40 light vehicle manufacturers to revise the collection process, databases and software systems to add vehicle type, fuel and/or propulsion system type, and the ESC, FCW, LDW and backover prevention components to the amended EWR template amounts to: $54,240 to $81,360 computer programming cost + $7,968 managerial cost = $62,208 to $89,328 per light vehicle manufacturer. This amounts to a total cost of $2,488,320 to $3,573,120 for the 40 light vehicle manufacturers.

Based on the same costs per hour to revise the EWR template, we revise our estimate of cost for each of the 67 manufacturers of buses (29), emergency vehicles (8), and medium/heavy vehicles (30) that report EWR information, as follows: $113 per hour/computer programmer × 80 hours to 120 × 1 stability control component = $9,040 to $13,560; $166 per hour/manager × 8 hours × 1 stability control and/or RSC component = $1,328. Thus, the estimated total cost for each of the 67 manufacturers of buses, emergency vehicles and medium/heavy vehicles to revise the data categorization and collection process, databases and software systems to add the stability control and/or RSC component to the amended EWR template amounts to $9,040 to $13,560 computer programming cost + $1,328 managerial cost = $10,368 to $14,888 per manufacturer. This amounts to a total cost of $694,656 to $997,496 for the 67 manufacturers of buses, emergency vehicles, and medium/heavy vehicles.

Thus, we estimate that the upper bound of the one-time cost for each of the 40 light vehicle manufacturers affected by the final rule, at $89,328 per manufacturer; plus the upper bound of the one-time cost for each of the 67 manufacturers of buses (29), emergency vehicles (8), and medium/heavy vehicles (30), at $14,888 per manufacturer, amounts to a total of $4.57 million for all of these manufacturers to revise the collection and categorization processes, database, and software systems to report on the amended template.

The agency will incur costs to implement software modifications to the EWR database. The IT development hours incurred by the contractor to the agency for these changes is estimated to be approximately 470 hours. Using an average hourly rate for labor cost of $109 for IT labor, the total cost for the 470 hours incurred by the agency's contract labor amounts to $51,230.

2. Parts 573 and 577 Collections

The approved information collection associated with part 573 and portions of part 577 presently holds an estimated annual burden of 21,370 hours associated with an estimated 175 respondents per year. The control number for these collections is OMB Control Number 2127-0004. For information concerning how we calculated these estimates please see the Federal Register Notices 76 FR 17186 (March 28, 2011) and 76 FR 34803 (June 14, 2011).

We are revising these estimates today. First, for several of the collections currently covered by this clearance, we have more current information on which to base our estimates, and so we are making adjustments to those estimates to more accurately assess burden and cost. Second, some of the proposals we are adopting through today's notice are new collections that impose additional burden and cost.

a. Adjusted Estimates for Current Information Collections

Our prior estimates of the number of manufacturers each year that would be required to provide information under part 573, the number of recalls for which part 573 information collection requirements would need to be met, and the number of burden hours associated with the requirements currently covered by this information collection require adjustment as explained below.

Based on then current information, we calculated in 2011 for purposes of renewing our clearance, an average of 650 part 573 information reports were filed with NHTSA each year by approximately 175 distinct manufacturers (MFRs). More recent years' recall data reflect higher recall volumes as well as increased participation by separate and distinct manufacturers. In consideration of newer figures, we are adjusting our estimate to 280 distinct manufacturers filing an average of 680 Part 573 Information Reports each year.

We continue to estimate that it takes a manufacturer an average of 4 hours to complete each notification report to NHTSA and that maintenance of the required owner, purchaser, dealer and distributors lists requires 8 hours a year per manufacturer. Accordingly, the subtotal estimate of annual burden hours related to the reporting to NHTSA of a safety defect or noncompliance and maintenance of owner and purchaser lists is 4,960 hours annually ((680 notices × 4 hours/report) + (280 MFRs × 8 hours)).

In addition, we continue to estimate an additional 2 hours will be needed to add to a manufacturer's information report details relating to the manufacturer's intended schedule for notifying its dealers and distributors, and tailoring its notifications to dealers and distributors in accordance with the requirements of 49 CFR 577.13. This would total to an estimated 1,360 hours annually (680 notices × 2 hours/report).

In the event a manufacturer supplied the defect or noncompliant product to independent dealers through independent distributors, that manufacturer is required to include in its notifications to those distributors an instruction that the distributors are to then provide copies of the manufacturer's notification of the defect or noncompliance to all known distributors or retail outlets further down the distribution chain within five working days. See 49 CFR 577.8(c)(2)(iv). As a practical matter, this requirement would only apply to equipment manufacturers since vehicle manufacturers generally sell and lease vehicles through a dealer network, and not through independent distributors. We believe our previous estimate of roughly 90 equipment recalls per year needs to be adjusted to 80 equipment recalls per year to better reflect recent recall figures. Although the distributors are not technically under any regulatory requirement to follow that instruction, we expect that they will, and have estimated the burden associated with these notifications (identifying retail outlets, making copies of the manufacturer's notice, and mailing) to be 5 hours per recall campaign. Assuming an average of 3 distributors per equipment item, (which is a liberal estimate given that many equipment manufacturers do not use independent distributors) the total number of burden hours associated with this third party notification burden is approximately 1,200 hours per year (80 recalls × 3 distributors × 5 hours).

As for the burden linked with a manufacturer's preparation of and notification concerning its reimbursement for pre-notification remedies, consistent with previous estimates (see 69 FR 11477 (March 10, 2004)), we continue to estimate that preparing a plan for reimbursement takes approximately 8 hours annually, and that an additional 2 hours per year is spent tailoring the plan to particular defect and noncompliance notifications to NHTSA and adding tailored language about the plan to a particular safety recall's owner notification letters. In sum, these required activities add an additional 3,600 annual burden hours ((280 manufacturers × 8 hours) + (680 recalls × 2 hours)).

The Act and Part 573 also contain numerous information collection requirements specific to tire recall and remedy campaigns, as well as a statutory and regulatory reporting requirement that anyone that knowingly and intentionally sells or leases a defective or noncompliant tire notify NHTSA of that activity.

Manufacturers are required to include specific information relative to tire disposal in the notifications they provide NHTSA concerning identification of a safety defect or noncompliance with FMVSS in their tires, as well as in the notifications they issue to their dealers or other tire outlets participating in the recall campaign. See 49 CFR 573.6(c)(9). We previously estimated about 10 tire recall campaigns per year; however, we are adjusting this figure to 15 tire campaigns per year to better reflect recent figures. We estimate that the inclusion of this additional information will require an additional two hours of effort beyond the subtotal above associated with non-tire recall campaigns. This additional effort consists of one hour for the NHTSA notification and one hour for the dealer notification for a total of 30 burden hours (15 tire recalls a year × 2 hours per recall).

Manufacturer owned or controlled dealers are required to notify the manufacturer and provide certain information should they deviate from the manufacturer's disposal plan. Consistent with our previous analysis, we continue to ascribe zero burden hours to this requirement since to date no such reports have been provided and our original expectation that dealers would comply with manufacturers' plans has proven true.

Accordingly, we estimate 30 burden hours a year will be spent complying with the tire recall campaign requirements found in 49 CFR 573.6(c)(9).

Additionally, because the agency has yet to receive a single report of a defective or noncompliant tire being intentionally sold or leased in the fourteen years since this rule was proposed, our previous estimate of zero burden hours remains unchanged with this notice.

NHTSA's supporting information for the current Part 577 information collection did not include estimates of the burden linked with the requirement to notify owners and purchasers of a safety recall. Today, we estimate that burden. We estimate that it takes manufacturers an average of 8 hours to draft their notification letters, submit them to NHTSA for review, and then finalize them for mailing to their affected owners and purchasers. We calculate that the Part 577 requirements result in 5,440 burden hours annually (8 hours per recall × 680 recalls per year).

b. New Collections Associated With the Final Rule

We estimate that today's final rule, which amends many of the reporting and recordkeeping requirements, will increase the costs and burdens of the associated collections of information. We summarize these changes and our estimates of the associated cost and burden in this section.

We recognize that our regulation to require owner notifications within 60 days of filing a part 573 report will increase the burden hours associated with the requirement to notify owners and purchasers of a safety recall. We calculated that about 25 percent of past recalls did not include an owner notification mailing within 60 days of the filing of the part 573 report. Under the requirements, manufacturers will have to send two letters in these cases: an interim notification of the defect or noncompliance within 60 days and a supplemental letter notifying owners and purchasers of the available remedy. Accordingly, we estimate that 1,360 burden hours will be added by this 60-day interim notification requirement (680 recalls × .25 = 170 recalls; 170 recalls times 8 hours per recall = 1,360 hours). Therefore we calculate the total burden created by part 577 to notify owners and purchasers of defective vehicles or motor vehicle equipment at 6,800 hours (5,440 + 1,360).

As for costs associated with notifying owners and purchasers of recalls, we estimate this costs $1.50 per notification on average. This cost estimate includes the costs of printing, mailing, as well as the costs vehicle manufacturers may pay to third-party vendors to acquire the names and addresses of the current registered owners from state and territory departments of motor vehicles. In reviewing recent recall figures, we determined that an estimated 20 million letters are mailed yearly totaling $30,000,000 ($1.50 per letter × 20,000,000 letters). The changes to part 577 requiring a manufacturer to notify their affected customers within 60 days would add an additional $7,500,000 (20,000,000 letters × .25 requiring interim owner notifications = 5,000,000 letters; 5,000,000 × $1.50 = $7,500,000). In total we estimate that the part 577 requirements along with the new requirement to require notifications within 60 days will cost manufacturers a total of $37,500,000 annually ($30,000,000 owner notification letters + $7,500,000 interim notification letters = $37,500,000).

In the NPRM we estimated several new burdens hour calculations due to the proposed requirement that large, light vehicle manufacturers will transmit the VINs of recalled vehicles to NHTSA, and update the repair status of those VINs on a daily basis. The Alliance submitted a comment to us and OMB that this proposal was unnecessarily burdensome and costly, and that our estimates were unrealistically low. The Alliance's concerns, as well as others submitted in response to our NPRM presenting similar objections, were summarized in much detail earlier in this document, and we do not repeat them here. We are not adopting this proposal, and therefore any costs or burdens we earlier calculated are no longer applicable. Accordingly, we have removed from our cost and burden analysis here those costs and burdens we calculated and on which we requested comment in the NPRM. In their place, we estimate the costs and burdens associated with the alternative proposal that we are adopting today.

We estimated 172 burden hours for compiling an initial VIN list that would be transmitted to NHTSA's database. As we are not implementing this proposal, we have removed the 172 hours we calculated for this burden. We have also removed the 12,180 burden hours calculated for the one-time investments these manufacturers were estimated to spend configuring their computer systems to transmit VINs to NHTSA.

Because we are not requiring manufacturers to transmit VINs to NHTSA and update the repair status of recalled vehicles on a daily basis, we believe the burden associated with the added requirement that manufacturers make available on the internet the VINs associated with their recalled vehicles will be minimal. As discussed earlier, manufacturers are already required to have ready at the agency's request a list of VINs for vehicles covered by each recall. They must also have the status of the remedy of each vehicle on that list at the end of each quarterly reporting period, and so they will know the vehicles (and associated VINs) that have not been remedied and be able to provide updated information. They must, as a practical matter, and in order to meet the requirement that they identify current owners based on State registration data (which is accessed using VINs), be able to provide the States with a list of VINs, and, more than likely, that list would be in an electronic format that can be transferred readily to each State for its use in compiling its list of owner names and addresses associated with each VIN. Any added burden, therefore, is reduced to time and costs associated with making this data available online as well as in a format that adheres to the Web site guidelines NHTSA is establishing in this final rule.

Many of the large, light vehicle manufacturers covered by this requirement already operate VIN-based safety recall search tools online, either directly sourced or through a third party. At the time the NPRM was published in 2012, twenty-nine (29) light vehicle manufacturers met or exceeded the production volumes used to determine applicability to this new requirement. Using newly updated production figures, we have revised the number of affected manufacturers down to twenty-seven (27). We expect the count of manufacturers to fluctuate given the ever-changing nature of production volumes.

Based on comments received from our NPRM and online research we have conducted, 18 of the 27 manufacturers impacted by this rule already provide a VIN-based recalls lookup service on their Web site, or through a third party Web site like www.carfax.com. We found that nine manufacturers do not currently offer this service online so they will bear a higher burden to implement this service. As noted above, we believe that manufacturers already maintain electronic copies of VIN lists as a practical matter of business, so their only burden would be the time associated with updating their Web sites with this functionality.

To establish a VIN-based recalls lookup service, we estimate that each of these nine manufacturers will spend a total of 12 hours creating the infrastructure needed to add a VIN-based recalls lookup service to their Web sites. These 12 hours includes the time needed for a senior developer to setup and configure the server (8 hours) and for a mid-level developer to test the security and connectivity of the system (4 hours). We estimate these burdens total 108 hours (9 MFRs × 12 hours). We estimate the costs of these burden hours will be $5,000 per manufacturer.¹⁵ We estimate that the total cost to the industry from these one-time infrastructure expenses will total $45,000 (9 MFRs × $5,000).

¹⁵ $2,000 (to purchase and configure physical servers) + $1,600 (to obtain requisite licenses needed for operating systems, application servers, and database servers) + $1,000 (8 burden hours for server setup and configuration at the rate of $125/hr) + $400 (4 burden hours for security and connectivity testing at the rate of $100/hr) = $5,000

We estimate that each of these nine manufacturers will also incur labor burdens related to the setup of their online recalls tools. Each manufacturer will need to establish requirements, analysis, and designs for their new recalls lookup tool. Also, additional burdens will stem from: the creation of the VIN search interface; database setup to host the recall information; data refresh procedures to populate recall information; server side VIN code lookup and recall status retrieval; integration with existing manufacturer Web site; and application testing. We estimate that these tasks will be performed by a software solution architect (15 hours), a senior web application developer (30 hours), and a mid-level software developer/tester (103 hours), totaling 148 burden hours per manufacturer. We estimate these burdens to total 1,332 hours (9 MFRs × 148 hours). We estimate the costs of these burden hours will be $14,445 per manufacturer.¹⁶ We estimate that the total cost to the industry from these one-time setup expenses will total $130,005 (9MFRs × $14,445).

¹⁶ $1,875 (15 burden hours at the software solution architect rate of $125/hr) + $3,300 (30 burden hours at the senior web application developer rate of $110/hr) + $9,270 (103 burden hours at the mid-level software developer/tester rate of $90/hr) = $14,445

We also believe these nine manufacturers, who do not currently operate a VIN-based recalls lookup system, will incur certain recurring burdens on an annual basis. We estimate that 100 burden hours will be spent on system and database administrator support. These 100 burden hours includes: backup data management and monitoring; database management, updates, and log management; and data transfer, archiving, quality assurance, and cleanup procedures. We estimate another 100 burden hours will be incurred on web/application developer support. These burdens include: operating system and security patch management; application/web server management; and application server system and log files management. We estimate these burdens to total 1,800 hours each year after the first year (9 MFRs × 200 hours). We estimate the recurring costs of these burden hours will be $30,000 per manufacturer.¹⁷ We estimate that the total cost to the industry from these recurring expenses will total $270,000 in the first year, and recurring on an annual basis (9MFRs × $30,000).

¹⁷ $8,000 (for data center hosting for the physical server) + $12,000 (for system and database administrator support) + $10,000 (for web/application developer support) = $30,000

All 27 manufacturers impacted by this requirement will be required to meet certain technical access requirements that we have specified in the final rule preamble. These requirements will also allow for NHTSA to provide search results, when requested, to online users of NHTSA's www.safercar.gov Web site. We included the following software development burdens in our estimate: requirements analysis; API design; API code development; securing the API with a NHTSA key; testing; and API deployment. We estimate these tasks will be performed by a software solution architect (6 hours), a senior web application developer (16 hours), and a mid-level software developer/tester (50 hours), totaling 72 burden hours per manufacturer. We estimate this burden to total 1,944 burden hours (27 MFRs × 72 hours). We estimate that the cost of these burden hours will be $7,010 per manufacturer.¹⁸ We estimate that the total one-time cost to the industry from these technical access requirements will total $189,270 (27 MFRs × $7,010).

¹⁸ $750 (6 burden hours at the software solution architect rate of $125/hr) + $1,760 (16 burden hours at the senior web application developer rate of $110/hr) + $4,500 (50 burden hours at the mid-level software developer/tester rate of $90/hr) = $7,010

Also, we estimate that the one-time VIN list creation, related to the recall campaigns from the past 15 years, will require 60 burden hours. This estimate includes the time needed to for software development (24 hours), data preparation (24 hours), and file naming (12 hours). We calculate that this burden will only be incurred one-time since manufacturers should only need to perform this “seeding” of recalls completion information on older recalls one time. We do not have the data, and comments received in response to our NPRM almost universally did not inform, how far back those search tools reached. Accordingly, we assume that all 27 manufacturers will incur this burden. We calculate a total one-time burden of 1,620 hours total (27 MFRs × 60 hours) associated with this requirement on manufacturers to provide access to 15 years of recalls completion data.

This new requirement will allow these 27 manufacturers to update each recalled vehicle's repair status no less than every 7 days, for 15 years from the date the VIN is known to be included in the recall. This ongoing requirement to update the status of a VIN for 15 years will add an additional recurring burden on top of the one-time burden to implement and operate these online search tools. We calculate that 8 affected motorcycle manufacturers will now make recalled VINs available for an average of 2 recalls each year and 19 affected light vehicle manufacturers will make recalled VINs available for an average of 8 recalls each year. We believe it will take no more than 1 hour, and potentially much less with automated systems, to update the VIN status of vehicles that have been remedied under the manufacturer's remedy program. We estimate this will add an additional 8,736 burden hours per year (1 hour × 2 recalls × 52 weeks × 8 MFRs + 1 hour × 8 recalls × 52 weeks × 19 MFRs) to support the requirement to update the recalls completion status of each VIN in a recall at least weekly for 15 years.

Our original proposal, for manufacturers to submit VINs electronically to NHTSA, reduced the burden hours associated with quarterly reporting by 3,760 hours annually. As quarterly reporting requirements will not change with the alternative proposal we are adopting today, quarterly reporting burdens will remain at 12,000 burden hours (3,000 quarterly reports × 4 hours/report).

As to the new requirement that manufacturers utilize NHTSA's new online recalls portal for the submission of all recall documents, we believe there will be minimal burden. Manufacturers typically produce their Part 573 reports by entering the needed data into a computer word processor, emailing and/or printing and mailing their report. NHTSA's new online recalls portal will simply replace the manufacturer's data entry method and delivery with a standardized online form. We do believe there will be some unmeasured burden reduction by having a centralized Web site where manufacturers can find assistance in conducting their recall and upload all of their recall documents. However, we do estimate a small burden of 2 hours annually in order to set up their recalls portal account with the pertinent contact information and maintaining/updating their account information as needed. We estimate this will require a total of 560 hours annually (2 hours × 280 MFRs).

We recognize that manufacturers will incur additional burden in meeting the new requirement to submit changes or additions to the information supplied in an earlier part 573 report. In our experience, roughly 10 percent of safety recalls involve a change or addition to the information supplied in a 573 Report. The vast majority of these changes or additions are to only a single, discrete, informational component, such as a change in the number of products to be recalled or a change in the manufacturer's estimation of when it will begin its owner and dealer notifications. As such, these amended reports are relatively simple and straightforward and will require little time to submit through NHTSA's new online recalls portal.

In view of the fact that the requirement to inform NHTSA of a change or update in these recall components is new, we will liberally assume that the number of amended reports will double. Therefore, we assume that 20 percent of Part 573 reports will involve a change or addition. At 30 minutes per amended report, this will add an additional 68 burden hours per year (680 recalls × .20 = 136 recalls; 136/2 = 68 hours).

As for the active review of the Part 573 Information Report conducted within 90 days of the recall's available remedy, we have not adopted this proposal as part of this final rule. This proposal was calculated to add 340 hours each year, but this amount has been removed from our estimate.

As to the requirement that manufacturers notify NHTSA in the event of a bankruptcy, we expect this notification to take an estimated 2 hours to draft and submit to NHTSA. We estimate that only 10 manufacturers might submit such a notice to NHTSA each year, so we calculate the total burden at 20 hours (10 MFRs × 2 hours).

Due to the initial burdens associated with the new requirement that certain vehicle manufacturers make publicly available recall completion information, searchable by VIN, our burden estimate is higher for the first year of this rule. The part 573 and part 577 requirements found in this rule will require 46,138 burden hours in the first year of this rule and then 41,134 hours each subsequent year. Due to this range of estimates, we are including the higher estimate of 46,138 burden hours in our ICR. Accordingly, the requirements of this final rule will result in an additional 24,748 burden hours a year, for a total of 46,138 burden hours for OMB Control Number 2127-0004.

We estimate the incremental costs associated with today's amendments total $12.7 million ($4.57 million for EWR + $634,275 for Part 573 VIN changes + $7.5 million in recall notification letters) in the first year. We estimate $7.5 million recurring costs annually in the second and subsequent years for recall notification letters and $270,000 recurring costs annually for nine manufacturers to service and maintain their online VIN based recalls lookup tools, for a total of $7.77 million recurring costs annually.

G. Executive Order 13045

Executive Order 13045 applies to any rule that: (1) Is determined to be “economically significant” as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This rulemaking is not economically significant.

H. Regulation Identifier Number (RIN)

The Department of Transportation assigns a regulation identifier number (RIN) to each regulatory action listed in the Unified Agenda of Federal Regulations. The Regulatory Information Service Center publishes the Unified Agenda in or about April and October of each year. You may use the RIN contained in the heading at the beginning of this document to find this action in the Unified Agenda.

I. Data Quality Act

Section 515 of the FY 2001 Treasury and General Government Appropriations Act (Pub. L. 106-554, section 515, codified at 44 U.S.C. 3516 historical and statutory note), commonly referred to as the Data Quality Act, directed OMB to establish government-wide standards in the form of guidelines designed to maximize the “quality,” “objectivity,” “utility,” and “integrity” of information that Federal agencies disseminate to the public. As noted in the EWR final rule (67 FR 45822), NHTSA has reviewed its data collection, generation, and dissemination processes in order to ensure that agency information meets the standards articulated in the OMB and DOT guidelines. Where a rule change is requiring additional reporting by manufacturers, the new requirements will serve to improve the quality of the data NHTSA receives under the EWR rule, enabling the agency to be more efficient and productive in proactively searching for potential safety concerns as mandated through the TREAD Act.

J. Executive Order 13609: Promoting International Regulatory Cooperation

The policy statement in section 1 of Executive Order 13609 provides, in part:

The regulatory approaches taken by foreign governments may differ from those taken by U.S. regulatory agencies to address similar issues. In some cases, the differences between the regulatory approaches of U.S. agencies and those of their foreign counterparts might not be necessary and might impair the ability of American businesses to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

We requested public comment on whether (a) “regulatory approaches taken by foreign governments” concerning the subject matter of this rulemaking and (b) the above policy statement, have any implications for this rulemaking. We did not receive any comments in response to this section.

K. National Environmental Policy Act

NHTSA has analyzed this rulemaking action for the purposes of the National Environmental Policy Act. The agency has determined that implementation of this action would not have any significant impact on the quality of the human environment.

List of Subjects in 49 CFR Parts 573, 577, and 579

Motor vehicle safety, Reporting and recordkeeping requirements, Tires.

Regulatory Text

In consideration of the foregoing, NHTSA requests that 49 CFR parts 573, 577, and 579 be amended as set forth below:

PART 573—DEFECT AND NONCOMPLIANCE RESPONSIBILITY AND REPORTS

1. Revise the authority citation for part 573 to read as follows:

Authority: 49 U.S.C. 30102, 30103, 30116-30121, 30166, Pub. L. 112-141, 126 Stat. 405; delegation of authority at 49 CFR 1.95 and 49 CFR 501.8.

2. Amend § 573.6 by revising paragraphs (b), (c)(2)(iii), and (c)(5) to read as follows:

§ 573.6 Defect and noncompliance information report.

* * * * *

(b) Each report shall be submitted not more than 5 working days after a defect in a vehicle or item of equipment has been determined to be safety related, or a noncompliance with a motor vehicle safety standard has been determined to exist. At a minimum, information required by paragraphs (c)(1), (2), and (5) of this section shall be submitted in the initial report. The remainder of the information required by paragraph (c) of this section that is not available within the five-day period shall be submitted within 5 working days after the manufacturer has confirmed the accuracy of the information. In addition, each manufacturer shall amend information required by paragraphs (c)(2), (3), and (8)(i) or (ii) within 5 working days after it has new information that updates or corrects information that was previously reported. Each manufacturer submitting new information relative to a previously submitted report shall refer to the recall campaign number when a number has been assigned by the NHTSA.

(c) * * *

(2) * * *

(iii) In the case of items of motor vehicle equipment, the identification shall be by the generic name of the component (tires, child seating systems, axles, etc.), part number (for tires, a range of tire identification numbers, as required by 49 CFR 574.5), size and function if applicable, the inclusive dates (month and year) of manufacture if available, brand (or trade) name, model name, model number, as applicable, and any other information necessary to describe the items.

* * * * *

(5) A description of the defect or noncompliance, including both a brief summary and a detailed description, with graphic aids as necessary, of the nature and physical location (if applicable) of the defect or noncompliance. In addition, the manufacturer shall identify and describe the risk to motor vehicle safety reasonably related to the defect or noncompliance consistent with its evaluation of risk required by 49 CFR 577.5(f).

* * * * *

3. Revise § 573.9 to read as follows:

§ 573.9 Address for submitting required reports and other information.

All submissions, except as otherwise required by this part, shall be submitted to NHTSA on the Internet Web page http://www.safercar.gov/Vehicle+Manufacturers. A manufacturer must use the templates provided at this Web page for all submissions required under this section. Defect and noncompliance information reports required by § 573.6 of this part shall be submitted using one of the following forms, depending upon the type of product that is the subject of the report: “Defect and/or Noncompliance Information Report Form—Vehicles;” “Defect and/or Noncompliance Information Report Form—Equipment;” “Defect and/or Noncompliance Information Report Form—Tires;” “Defect and/or Noncompliance Information Report Form—Child Restraints;” “Defect and/or Noncompliance Information Report—Vehicle Alterers.” Reports required under § 573.7 of this part shall be submitted using the form, “Quarterly Report Form” also located at this Web page.

4. Add § 573.15 to read as follows:

§ 573.15 Public Availability of Motor Vehicle Recall Information.

(a) General—Manufacturers that have manufactured for sale, sold, offered for sale, introduced or delivered for introduction in interstate commerce, or imported into the United States 25,000 or more light vehicles or 5,000 or more motorcycles in the current calendar year or the prior calendar year shall make motor vehicle safety recall information applicable to the vehicles they manufactured available to the public on the Internet. The information shall be in a format that is searchable by vehicle make and model and vehicle identification number (VIN), that preserves consumer privacy, and that includes information about each recall that has not been completed for each vehicle.

(b) Specific requirements—The system that manufacturers use to provide the information as specified in paragraph (a) of this section must also meet the following requirements:

(1) Be free of charge and not require users to register or submit information, other than a make, model, and a VIN, in order to obtain information on recalls;

(2) Have a hyperlink (Internet link) to it conspicuously placed on the manufacturer's main United States' Web page;

(3) Not include sales or marketing messages with the page for entering a make, model, and VIN, or with the page where the results are displayed;

(4) Allow users to search a vehicle's recall remedy status, and report that a recall has not been completed on that vehicle, as soon as possible and no later than the date when the manufacturer includes that vehicle on its list compiled for purposes of 49 CFR 573.8(a);

(5) Ensure safety recalls subject to paragraph (b)(4) of this section are conspicuously placed first, before any other information that is displayed;

(6) For vehicles that have been identified as covered by a safety recall, but for which the recall remedy is not yet available, state that the vehicle is covered by the safety recall and that the remedy is not yet available;

(7) Be updated at least once every seven (7) calendar days. The date of the last update must display on both the page for entering the make, model, and VIN to search for recall completion information and the results page;

(8) Where the search results in identification of a recall that has not been completed, state the recall campaign number NHTSA assigned to the matter; state the date the defect or noncompliance was reported pursuant to part 573; provide a brief description of the safety defect or noncompliance identified in the manufacturer's information report filed pursuant to this part; describe the risk to safety consistent with the manufacturer's description given in the terms required by parts 573 and 577; and describe the remedy program;

(9) At a minimum, include recall completion information for each vehicle covered by any safety recall for which the owner notification campaign started at any time within the previous fifteen (15) calendar years;

(10) State the earliest date for which recall completion information is available, either on the search page or on the results page, and provide information for all owner notification campaigns after that date;

(11) Instruct the user to contact the manufacturer if the user has questions or wishes to question the accuracy of any information, and provide a hyperlink or other contact information for doing so;

(12) Ensure, through adherence with technical specifications that NHTSA makes available through a secure area of its Web site http://www.safercar.gov/Vehicle+Manufacturers/RecallsPortal, the secure electronic transfer of the recall information and data required to be made publicly available by this section, to NHTSA for its use in displaying that information and data on its Web sites or other public portals.

5. Add § 573.16 as follows:

§ 573.16 Reporting bankruptcy petition.

Each manufacturer that files a bankruptcy petition, or is the subject of an involuntary petition for which relief has been ordered, pursuant to Title 11 of the United States Code, 11 U.S.C. 101 et seq., shall provide NHTSA a report as specified below.

(a) The name of the court, the docket number, and the name, address and telephone number of the manufacturer's legal representative;

(b) A copy of the bankruptcy petition;

(c) A list of the recalls for which the manufacturer filed a “Defect and noncompliance information report” with NHTSA pursuant to 49 CFR 573.6; and

(d) The information specified in 49 CFR 573.7(b) for each recall listed pursuant to paragraph (c) of this section.

(e) Each report pursuant to this section must be received by NHTSA not more than 5 working days after the date the petition is filed in the United States Bankruptcy Court. Reports shall be addressed to the Associate Administrator for Enforcement, National Highway Traffic Safety Administration, Attention: Recall Management Division (NVS-215), 1200 New Jersey Ave. SE., Washington, DC 20590, or submitted as an attachment to an email message to RMD.ODI@dot.gov in a portable document format (.pdf).

PART 577—DEFECT AND NONCOMPLIANCE NOTIFICATION

6. Revise the authority citation for part 577 to read as follows:

Authority: 49 U.S.C. 30102, 30103, 30116-121, 30166; delegation of authority at 49 CFR 1.95 and 49 CFR 501.8.

7. Amend § 577.5 by revising paragraphs (a) and (b) to read as follows:

§ 577.5 Notification pursuant to a manufacturer's decision.

(a) When a manufacturer of motor vehicles or replacement equipment determines that any motor vehicle or item of replacement equipment produced by the manufacturer contains a defect that relates to motor vehicle safety, or fails to conform to an applicable Federal motor vehicle safety standard, or the manufacturer files a defect or noncompliance information report under 49 CFR part 573, the manufacturer shall provide notification in accordance with § 577.7(a), unless the manufacturer is exempted by the Administrator (pursuant to 49 U.S.C. 30118(d) or 30120(h)) from giving such notification. The notification shall contain the information specified in this section. The information required by paragraphs (b) and (c) of this section shall be presented in the form and order specified. The information required by paragraphs (d) through (h) of this section may be presented in any order. Except as authorized by the Administrator, the manufacturer shall submit a copy of its proposed owner notification letter, including any provisions or attachments related to reimbursement, to NHTSA's Recall Management Division (NVS-215) no fewer than five (5) Federal Government business days before it intends to begin mailing it to owners. The manufacturer shall mark the outside of each envelope in which it sends an owner notification letter with a notation that includes the phrase “SAFETY RECALL NOTICE,” all in capital letters and in a type that is larger than that used in the address section, and is also distinguishable from the other type in a manner other than size. It shall also imprint on the outside of this envelope a label, one inch by three inches in size and located on the front of the envelope. The label to be used is located at http://www.safercar.gov/Vehicle+Manufacturers/RecallsPortal/SafetyRecallLabel. This label shall not be used for any purpose other than compliance with this paragraph by any entity outside of the Department of Transportation. Except where the format of the envelope has been previously approved by NHTSA's Recall Management Division (NVS-215), each manufacturer must submit the envelope format it intends to use to that division at least five Federal Government business days before mailing the notification to owners. Submission of envelopes and proposed owner notification letters shall be made by the means identified in 49 CFR 573.9. Notification sent to an owner whose address is in the Commonwealth of Puerto Rico shall be written in both English and Spanish.

(b) At the top of the notification, there must be the statement “IMPORTANT SAFETY RECALL,” in all capital letters and in a type size that is larger than that used in the remainder of the letter. Then immediately below, for vehicle recalls, there must be the statement “This notice applies to your vehicle, (manufacturer to insert VIN for the particular vehicle).” If VIN placement is not possible in this location, the VIN must then be placed in another conspicuous location within the notification. Immediately below the foregoing, there must be the opening statement: “This notice is sent to you in accordance with the National Traffic and Motor Vehicle Safety Act.”

* * * * *

8. Amend § 577.7 by revising the first sentence of paragraph (a)(1) and adding a second sentence to read as follows:

§ 577.7 Time and manner of notification.

(a) * * *

(1) Be furnished no later than 60 days from the date the manufacturer files its defect or noncompliance information report under part 573. In the event that the remedy for the defect or noncompliance is not available at the time of notification, the manufacturer shall issue a second notification in accordance with the requirements of this part once that remedy is available. * * *

* * * * *

PART 579—REPORTING OF INFORMATION AND COMMUNICATIONS ABOUT POTENTIAL DEFECTS

9. Revise the authority citation for part 579 to read as follows:

Authority: 49 U.S.C. 30102-103, 30112, 30117-121, 30166-167; delegation of authority at 49 CFR 1.95 and 49 CFR 501.8.

Subpart A—General

10. Amend § 579.4 in paragraph (c) by:

a. Adding in alphabetical order definitions of “Automatic brake controls,” “Backover prevention system,” “Compressed natural gas (CNG),” “Compression ignition fuel (CIF),” “Electric battery power (EBP),” “Electronic stability control”;

b. Redesignating paragraphs (1) and (2) in the definition of “Equipment” as paragraphs (i) and (ii);

c. Adding in alphabetical order definitions of “Forward collision avoidance system,” “Fuel and/or propulsion system type,” “Fuel-cell power (FCP),” “Hybrid electric vehicle (HEV),” “Hydrogen combustion power (HCP),” “Lane departure prevention system,”

d. Redesignating paragraphs (1) through (4) in the definition of “Minimal specificity” as paragraphs (i) through (iv);

e. Adding in alphabetical order definitions of “Plug-in hybrid (PHV)” and “Roll stability control”;

f. Revising the definition of “Service brake system”; and

g. Adding in alphabetical order definitions of “Spark ignition fuel (SIF)” and “Visibility”.

The additions and revision read as follows:

§ 579.4 Terminology.

* * * * *

(c). * * *

Automatic brake controls means systems and devices for automatic control of the braking system, including but not limited to, brake-assist components (vacuum booster, hydraulic modulator, etc.), antilock braking systems, traction control systems, and enhanced braking systems. The term includes all associated switches, control units, connective elements (such as wiring harnesses, hoses, piping, etc.), and mounting elements (such as brackets, fasteners, etc.).

* * * * *

Backover prevention system means a system that has a visual image of the area directly behind a vehicle that is provided in a single location to the vehicle operator and by means of indirect vision.

* * * * *

Compressed natural gas (CNG) means a system that uses compressed natural gas to propel a motor vehicle.

Compression ignition fuel (CIF) means a system that uses diesel or any diesel-based fuels to propel a motor vehicle. This includes biodiesel.

* * * * *

Electric battery power (EBP) means a system that uses only batteries to power an electric motor to propel a motor vehicle.

* * * * *

Electronic stability control system for light vehicles is used as defined in S4. of § 571.126 of this chapter.

Electronic stability control system for buses, emergency vehicles, and medium/heavy vehicles means a system that has all the following attributes:

(i) Augments vehicle directional stability by applying and adjusting the vehicle brake torques individually at each wheel position on at least one front and at least one rear axle of the vehicle to induce correcting yaw moment to limit vehicle oversteer and to limit vehicle understeer;

(ii) Enhances rollover stability by applying and adjusting the vehicle brake torques individually at each wheel position on at least one front and at least one rear axle of the vehicle to reduce lateral acceleration of a vehicle;

(iii) Is computer-controlled with the computer using a closed-loop algorithm to induce correcting yaw moment and enhance rollover stability;

(iv) Has a means to determine the vehicle's lateral acceleration;

(v) Has a means to determine the vehicle's yaw rate and to estimate its side slip or side slip derivative with respect to time;

(vi) Has a means to estimate vehicle mass or, if applicable, combination vehicle mass;

(vii) Has a means to monitor driver steering input;

(viii) Has a means to modify engine torque, as necessary, to assist the driver in maintaining control of the vehicle and/or combination vehicle; and

(ix) Can provide brake pressure to automatically apply on a truck tractor and modulate the brake torques of a towed semi-trailer.

* * * * *

Forward collision avoidance system means

(i) A system that:

(A) Has an algorithm or software to determine distance and relative speed of an object or another vehicle directly in the forward lane of travel; and

(B) Provides an audible, visible, and/or haptic warning to the driver of a potential collision with an object in the vehicle's forward travel lane.

(ii) The system may also include a feature that:

(A) Pre-charges the brakes prior to, or immediately after, a warning is issued to the driver;

(B) Closes all windows, retracts the seat belts, and/or moves forward any memory seats in order to protect the vehicle's occupants during or immediately after a warning is issued; or

(C) Applies any type of braking assist or input during or immediately after a warning is issued.

* * * * *

Foundation brake system means all components of the service braking system of a motor vehicle intended for the transfer of braking application force from the operator to the wheels of a vehicle, including components such as the brake pedal, master cylinder, fluid lines and hoses, brake calipers, wheel cylinders, brake discs, brake drums, brake pads, brake shoes, and other related equipment installed in a motor vehicle in order to comply with FMVSS Nos. 105, 121, 122, or 135 (except equipment relating specifically to the parking brake). The term includes all associated switches, control units, connective elements (such as wiring harnesses, hoses, piping, etc.), and mounting elements (such as brackets, fasteners, etc.).

Fuel and/or propulsion system type means the variety of fuel and/or propulsion systems used in a motor vehicle, as follows: compressed natural gas (CNG); compression ignition fuel (CIF); electric battery power (EBP); fuel-cell power (FCP); hybrid electric vehicle (HEV); hydrogen combustion power (HCP); plug-in hybrid (PHV); spark ignition fuel (SIF); and other (OTH).

Fuel-cell power (FCP) means a system that uses fuel cells to generate electricity to power an electric motor to propel a motor vehicle.

* * * * *

Hybrid electric vehicle (HEV) means a system that uses a combination of an electric motor and internal combustion engine to propel a motor vehicle but is not capable of recharging its batteries by plugging in to an external electric current.

Hydrogen combustion power (HCP) means a system that uses hydrogen to propel a vehicle through means other than a fuel cell.

* * * * *

Lane departure prevention system means

(i) A system that:

(A) Has an algorithm or software to determine the vehicle's position relative to the lane markers and the vehicle's projected direction; and

(B) Provides an audible, visible, and/or haptic warning to the driver of unintended departure from a travel lane.

(ii) The system may also include a feature that:

(A) Applies the vehicle's stability control system to assist the driver to maintain lane position during or immediately after the warning is issued;

(B) Applies any type of steering input to assist the driver to maintain lane position during or immediately after the warning is issued; or

(C) Applies any type of braking pressure or input to assist the driver to maintain lane position during or immediately after the warning is issued.

* * * * *

Plug-in hybrid (PHV) means a system that combines an electric motor and an internal combustion engine to propel a motor vehicle and is capable of recharging its batteries by plugging in to an external electric current.

* * * * *

Roll stability control system means a system that:

(i) Enhances rollover stability by applying and adjusting the vehicle brake torques to reduce lateral acceleration of a vehicle;

(ii) Is computer-controlled with the computer using a closed-loop algorithm to enhance rollover stability;

(iii) Has a means to determine the vehicle's lateral acceleration;

(iv) Has a means to determine the vehicle mass or, if applicable, combination vehicle mass;

(v) Has a means to modify engine torque, as necessary, to assist the driver in maintaining rollover stability of the vehicle and/or combination vehicle; and

(vi) Can provide brake pressure to automatically apply on a truck tractor and modulate the brake torques of a towed semi-trailer.

* * * * *

Service brake system means all components of the service braking system of a motor vehicle intended for the transfer of braking application force from the operator to the wheels of a vehicle, including the foundation braking system, such as the brake pedal, master cylinder, fluid lines and hoses, braking assist components, brake calipers, wheel cylinders, brake discs, brake drums, brake pads, brake shoes, and other related equipment installed in a motor vehicle in order to comply with FMVSS Nos. 105, 121, 122, or 135 (except equipment relating specifically to a parking brake). This term also includes systems and devices for automatic control of the brake system such as antilock braking, traction control, and enhanced braking, but does not include systems or devices necessary only for electronic stability control, or roll stability control. The term includes all associated switches, control units, connective elements (such as wiring harnesses, hoses, piping, etc.), and mounting elements (such as brackets, fasteners, etc.).

* * * * *

Spark ignition fuel (SIF) means, in the context of reporting fuel and/or propulsion system type, a system that uses gasoline, ethanol, or methanol based fuels to propel a motor vehicle.

* * * * *

Visibility means the systems and components of a motor vehicle through which a driver views the surroundings of the vehicle including windshield, side windows, back window, and rear view mirrors, and systems and components used to wash and wipe windshields and back windows. This term includes those vehicular systems and components that can affect the ability of the driver to clearly see the roadway and surrounding area, such as the systems and components identified in FMVSS Nos. 103, 104, and 111. This term also includes the defogger, defroster system, the heater core, blower fan, windshield wiper systems, mirrors, windows and glazing material, heads-up display (HUD) systems, and exterior view-based television systems for medium-heavy vehicles, but does not include exterior view-based television systems for light vehicles which are defined under “Backover prevention system” and exterior lighting systems which are defined under “Lighting.” This term includes all associated switches, control units, connective elements (such as wiring harnesses, hoses, piping, etc.), and mounting elements (such as brackets, fasteners, etc.).

* * * * *

11. Amend § 579.6 by redesignating paragraph (b) as paragraph (b)(1) and adding paragraph (b)(2) to read as follows:

§ 579.6 Address for submitting reports and other information.

* * * * *

(b) * * *

(2) The annual list of substantially similar vehicles submitted pursuant to § 579.11(e) of this part shall be submitted to NHTSA's early warning data repository identified on NHTSA's Web page http://www-odi.nhtsa.dot.gov/ewr/ewr.cfm. A manufacturer shall use the template provided at the early warning Web site, also identified on NHTSA's Web page http://www-odi.nhtsa.dot.gov/ewr/xls.cfm, for submitting the list.

* * * * *

Subpart C—Reporting of Early Warning Information

12. Amend § 579.21 by:

a. Revising the first sentence of paragraph (a);

b. Revising the first sentence of paragraph (b)(2);

c. Revising the first sentence of paragraph (c); and

d. Adding a fifth sentence to paragraph (c).

The revisions and addition read as follows:

§ 579.21 Reporting requirements for manufacturers of 5,000 or more light vehicles annually.

* * * * *

(a) Production information. Information that states the manufacturer's name, the quarterly reporting period, the make, the model, the model year, the type, the platform, the fuel and/or propulsion system type coded as follows: CNG (compressed natural gas), CIF (compression ignition fuel), EBP (electric battery power), FCP (fuel-cell power), HEV (hybrid electric vehicle), HCP (hydrogen combustion power), PHV (plug-in hybrid), SIF (spark ignition fuel) and OTH (Other), and the number of vehicles produced. * * *

(b) * * *

(2) For each incident described in paragraph (b)(1) of this section, the manufacturer shall separately report the make, model, model year, the type, the fuel and/or propulsion system type (as specified in paragraph (a)), and VIN of the vehicle, the incident date, the number of deaths, the number of injuries for incidents occurring in the United States, the State or foreign country where the incident occurred, each system or component of the vehicle that allegedly contributed to the incident, and whether the incident involved a fire or rollover, coded as follows: 01 steering system, 02 suspension system, 03 foundation brake system, 04 automatic brake controls, 05 parking brake, 06 engine and engine cooling system, 07 fuel system, 10 power train, 11 electrical system, 12 exterior lighting, 13 visibility, 14 air bags, 15 seat belts, 16 structure, 17 latch, 18 vehicle speed control, 19 tires, 20 wheels, 22 seats, 23 fire, 24 rollover, 25 electronic stability control system, 26 forward collision avoidance system, 27 lane departure prevention system, 28 backover prevention system, 98 where a system or component not covered by categories 01 through 22 or 25 through 28, is specified in the claim or notice, and 99 where no system or component of the vehicle is specified in the claim or notice. * * *

(c) Numbers of property damage claims, consumer complaints, warranty claims, and field reports. Separate reports on the numbers of those property damage claims, consumer complaints, warranty claims, and field reports which involve the systems and components that are specified in codes 01 through 22, or 25 through 28 in paragraph (b)(2) of this section, or a fire (code 23), or rollover (code 24). * * * For each report, the manufacturer shall separately state the vehicle type and fuel and/or propulsion system type if the manufacturer stated more than one vehicle type or fuel and/or propulsion system type for a particular make, model, model year in paragraph (a) of this section.

* * * * *

13. Amend § 579.22 by:

a. Revising the first sentence of paragraph (b)(2);

b. Revising the first sentence of paragraph (c); and

c. Revising the first sentence of paragraph (d).

The revisions read as follows:

§ 579.22 Reporting requirements for manufacturers of 100 or more buses, manufacturers of 500 or more emergency vehicles and manufacturers of 5,000 or more medium-heavy vehicles (other than buses and emergency vehicles) annually.

* * * * *

(b) * * *

(2) For each incident described in paragraph (b)(1) of this section, the manufacturer shall separately report the make, model, model year, and VIN of the bus, emergency vehicle or medium-heavy vehicle, the incident date, the number of deaths, the number of injuries for incidents occurring in the United States, the State or foreign country where the incident occurred, each system or component of the vehicle that allegedly contributed to the incident, and whether the incident involved a fire or rollover, coded as follows: 01 steering system, 02 suspension system, 03 service brake system, hydraulic, 04 service brake system, air, 05 parking brake, 06 engine and engine cooling system, 07 fuel system, gasoline, 08 fuel system, diesel, 09 fuel system, other, 10 power train, 11 electrical, 12 exterior lighting, 13 visibility, 14 air bags, 15 seat belts, 16 structure, 17 latch, 18 vehicle speed control, 19 tires, 20 wheels, 21 trailer hitch, 22 seats, 23 fire, 24 rollover, 25 electronic stability control system and/or roll stability control system, 98 where a system or component not covered by categories 01 through 22 or 25 is specified in the claim or notice, and 99 where no system or component of the vehicle is specified in the claim or notice. * * *

(c) Numbers of property damage claims, consumer complaints, warranty claims, and field reports. Separate reports on the numbers of those property damage claims, consumer complaints, warranty claims, and field reports which involve the systems and components that are specified in codes 01 through 22, or 25 in paragraph (b)(2) of this section, or a fire (code 23), or rollover (code 24). * * *

(d) Copies of field reports. For all buses, emergency vehicles and medium-heavy vehicles manufactured during a model year covered by the reporting period and the nine model years prior to the earliest model year in the reporting period, a copy of each field report (other than a dealer report or a product evaluation report) involving one or more of the systems or components identified in paragraph (b)(2) of this section, or fire, or rollover, containing any assessment of an alleged failure, malfunction, lack of durability, or other performance problem of a motor vehicle or item of motor vehicle equipment (including any part thereof) that is originated by an employee or representative of the manufacturer and that the manufacturer received during a reporting period. * * *

Note: The following appendices will not appear in the Code of Federal Regulations.

BILLING CODE 4910-59-P

Appendix A

Appendix C

Appendix D

Appendix E

Issued on: August 9, 2013.
David L. Strickland,
Administrator, NHTSA.

[FR Doc. 2013-19785 Filed 8-14-13; 11:15 am]

BILLING CODE 4910-59-C